POSTAL SERVICE

39 CFR Part 20

International Mail; Proposed Changes in Postal Rates, Fees, and Mail Classifications

AGENCY: Postal Service.

ACTION: Proposed rule.

SUMMARY: Pursuant to its authority under Title 39 U.S.C. 407, the Postal Service is proposing changes in international postal rates and fees and certain categories of mail classifications. As required under the Postal Reorganization Act, the proposed changes will result in international postal rates that do not apportion the costs of the service so as to impair the overall value of the service to the users, are fair and reasonable, and are not unduly or unreasonably discriminatory or preferential.

DATES: Comments on the proposed changes must be received on or before October 26, 2000.

ADDRESSES: Written comments should be mailed or delivered to the Manager, Business Results, International Business, U.S. Postal Service, 475 L'Enfant Plaza SW., Room 370-IBU, Washington DC 20260-6500. Copies of all written comments will be available for public inspection between 9 a.m. and 4 p.m., Monday through Friday, in International Business, 10th Floor, 901 D Street SW., Washington DC.

FOR FURTHER INFORMATION CONTACT: Walter J. Grandjean, (202) 314-7256, or Bruce Hirt, (202) 314-7195.

SUPPLEMENTARY INFORMATION: Under Title 39, U.S. Code 407, the Postal Service is required to have postal rates that (1) do not apportion the costs of the service so as to impair the overall value of the service to the users, (2) are fair and reasonable, and (3) are not unduly or unreasonably discriminatory or preferential. This notice contains changes in postage rates and fees that will maintain this requirement. At the same time, the Postal Service is proposing changes to the international mail classification scheme which will simplify service offerings and result in better access by the public to international mail services and which meet the requirements of the Acts of the Universal Postal Union of which the United States is a signatory. In addition, certain regulatory changes mandated by the adoption of the Acts by the Beijing Congress of the Universal Postal Union are being implemented concurrent with these changes in postal rates, fees, and mail classifications.

I. Mail Classification Changes

Under the provisions of Article 8 of the Universal Postal Convention, postal administrations “shall provide for the acceptance, handling, conveyance and delivery of letter-post items.” Letter-post items may be classified according to one of two systems. The first system is based on speed of service and is divided into priority and nonpriority items. The second system is based on the contents of the items and is divided into letters and cards (“LC” items) and printed papers, literature for the blind, and small packets (“AO” items).

The Postal Service currently uses the second system and classifies international mail based on the nature of the contents. The Postal Service proposes to change from the content-based classification system to the speed-based system for letter-post items. Under this system there will be two categories of letter-post mail: priority (airmail) and nonpriority (economy). Mailers can select either category, without regard to the nature of mailable contents. However, special nonpriority rate schedules will continue for items such as books, sheet music, domestically approved publishers' mail, and literature for the blind. At the same time the Postal Service proposes to eliminate a number of services which are not used by customers or which would duplicate services available under the speed-based structure.

Under the proposed system categories of international mail will be related to speed of service. These categories are Priority Mail Global Guaranteed (PMGG), Express Mail International Service (EMS), Global Priority Mail (GPM), airmail, and economy mail. Both airmail and economy mail include letter-post and parcel post service. The letter-post classification encompasses all classes of international mail (i.e., letters and letter packages, post and postal cards, aerogrammes, printed matter, and small packets) that were formerly categorized as LC (letters and cards) and AO (other articles).

Priority Mail Global Guaranteed is the U.S. Postal Service's premium international mail service. PMGG is an expedited delivery service that is the product of a business alliance between the U.S. Postal Service and DHL Worldwide Express, Inc. It provides reliable, high-speed, time-definite service from designated U.S. ZIP Code areas to locations in most destination countries and territorial possessions. Regulations for this service are currently listed in the International Mail Manual (IMM) 215. These regulations are moved to IMM 210 without change. This notice does not make any changes to this service. Changes to PMGG are the subject of an independent series of Federal Register notices.

Express Mail International Service is an expedited mail service that can be used to send documents and merchandise to most of the country locations that are individually listed in the International Mail Manual. Principal features include EMS insurance coverage against loss, damage, or rifling, up to a maximum of $500, at no additional charge. On Demand service is being retained; however, Custom Designed service is eliminated. Regulations for EMS are moved to IMM 220.

Global Priority Mail is an accelerated airmail service that provides customers with a reliable and economical means of sending correspondence, documents, printed matter, and lightweight merchandise items to certain foreign destinations. GPM items receive priority handling within the U.S. Postal Service and the postal administration of the country of destination. Senders can pay flat-rate postage by placing their contents into a standardized GPM envelope; or they can elect to pay variable-weight postage by affixing a GPM sticker to an envelope, box, or other customer-furnished packaging. There are no changes to this service. Regulations are moved to IMM 230.

Airmail may be used to send both letter-post items and parcel post packages to most foreign countries. Letter-post is a generic term for mailpieces of differing shapes, sizes, and contents that weigh 4 pounds or less and are subject to the provisions of the Universal Postal Union Convention. Letter-post encompasses letters and cards (“LC” items) and printed papers, literature for the blind, and small packets (“AO” items). There will no longer be separate rates for printed matter or small packets. These categories are included with letter-post, either airmail or economy. Letter-post items may contain any mailable matter that is not prohibited by the destination country. At the sender's option special services, such as registry, return receipt, and recorded delivery, may be added on a country-specific basis. Regulations for letter-post are listed in IMM 240. Parcel post, which is otherwise referred to as “CP” mail, is differentiated from letter-post because it is governed by the parcel provisions of the UPU convention. That classification is primarily designed to accommodate larger and heavier shipments, for which size and/or weight transcend the established limitations for letter-post items. It also affords senders the opportunity to obtain optional mailing services, such as insurance coverage and return receipt, which would otherwise be unavailable. The conditions for parcel post are unchanged. Regulations are moved to IMM 280.

Economy mail includes letter-post and parcel post that are transported by surface. They are subject to the same regulatory requirements and conditions of mailing as the airmail items. The substantive differences between the two levels of service primarily relate to mode of transportation (air or surface), speed of service, and price. All bulk commercial services are moved to IMM 290. These include International Priority Airmail, International Surface Air Lift, Publishers' Periodicals, and Books and Sheet Music.

ValuePost/Canada is eliminated. A Canada rate group is added for International Surface Air Lift service to provide for bulk economy mailings to Canada.

The New Market Opportunities Program is eliminated. Few mailers have taken advantage of this program.

Global Package Link is also eliminated. Current customers will be offered other services for their mail.

Recall/change of address service, special delivery, special handling, and storage charges are eliminated. These services are rarely used by customers or have equal or better alternatives.

II. Rate Changes

Rates have been redesigned for the new international mail categories. For the most part the number of rate groups have been increased to better reflect the cost of providing service to particular groups of countries. In some cases (e.g., economy letter-post and economy parcel post) higher initial rate increments have been used. This reflects the higher cost associated with providing surface service for lightweight items.

The publishers' periodical rates in this notice have been previously adopted by the Postal Service with an effective date of January 13, 2001. See 65 FR 29955. The effective date of these rates is hereby changed to the effective date of the international rates and fees in this notice. The rates, fees, and conditions of mailing proposed in this notice, if adopted, will become effective concurrent with any domestic rates adopted as a result of the current proceedings before the Postal Rate Commission.

All regulatory changes necessary to implement this proposal are given below. Chapter 1, International Mail Services, is published its entirety. Chapter 2, Conditions for Mailing, is also printed in its entirety except labeling lists, which are omitted to save space, and section 210 (formerly 215), Priority Mail Global Guaranteed. Changes to this service will be announced in a separate Federal Register notice. The labeling lists have not been changed.

Only amended sections in chapters 3 through 9 are given. Changes to these chapters are not extensive.

Although the Postal Service is exempted by 39 U.S.C. 410(a) from the advance notice requirements of the Administrative Procedure Act regarding proposed rulemaking (5 U.S.C. 553), the Postal Service invites public comment at the above address.

The Postal Service proposes to adopt the following rates and to amend the International Mail Manual is incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. The International Mail Manual is amended to incorporate the following postage rates and regulations:

International Rates and Fees_Express Mail International Service
Weight not over (lbs.) | Rate group 1 (Canada) | Rate group 2 (Mexico) | Rate group 3 (Great Britain) & No. Ireland) | Rate group 4 (Japan) | Rate group 5 (China) | Rate group 6 | Rate group 7
.5 | 15.50 | 16.75 | 20.00 | 17.00 | 19.00 | 17.00 | 23.00
1 | 16.25 | 20.00 | 24.75 | 21.00 | 22.75 | 19.15 | 26.00
2 | 17.00 | 23.70 | 28.75 | 25.00 | 26.05 | 21.65 | 29.00
3 | 18.25 | 27.60 | 32.75 | 29.00 | 30.50 | 24.95 | 32.00
4 | 19.25 | 31.10 | 35.75 | 33.00 | 34.90 | 28.15 | 35.00
5 | 20.50 | 34.20 | 38.75 | 36.75 | 39.20 | 31.85 | 38.00
6 | 22.75 | 36.40 | 41.75 | 40.05 | 43.45 | 34.95 | 41.20
7 | 25.00 | 38.60 | 44.75 | 43.35 | 47.70 | 38.05 | 44.40
8 | 27.25 | 40.80 | 47.75 | 46.65 | 51.95 | 41.15 | 47.60
9 | 29.50 | 43.00 | 50.75 | 49.95 | 56.20 | 44.25 | 50.80
10 | 31.75 | 45.20 | 53.75 | 53.25 | 60.45 | 47.35 | 54.00
11 | 34.00 | 47.40 | 56.75 | 56.55 | 64.70 | 50.45 | 57.20
12 | 36.25 | 49.60 | 59.75 | 59.85 | 68.95 | 53.55 | 60.40
13 | 38.50 | 51.80 | 62.75 | 63.15 | 73.20 | 56.65 | 63.60
14 | 40.75 | 54.00 | 65.75 | 66.45 | 77.45 | 59.75 | 66.80
15 | 43.00 | 56.20 | 68.75 | 69.75 | 81.70 | 62.85 | 70.00
16 | 45.25 | 58.40 | 71.75 | 73.05 | 85.95 | 65.95 | 73.20
17 | 47.50 | 60.60 | 74.75 | 76.35 | 90.20 | 69.05 | 76.40
18 | 49.75 | 62.80 | 77.75 | 79.65 | 94.45 | 72.15 | 79.60
19 | 52.00 | 65.00 | 80.75 | 82.95 | 98.70 | 75.25 | 82.80
20 | 54.25 | 67.20 | 83.75 | 86.25 | 102.95 | 78.35 | 86.00
21 | 56.50 | 69.40 | 86.75 | 89.55 | 107.20 | 81.45 | 89.20
22 | 58.75 | 71.60 | 89.75 | 92.85 | 111.45 | 84.55 | 92.40
23 | 61.00 | 73.80 | 92.75 | 96.15 | 115.70 | 87.65 | 95.60
24 | 63.25 | 76.00 | 95.75 | 99.45 | 119.95 | 90.75 | 98.80
25 | 65.50 | 78.20 | 98.75 | 102.75 | 124.20 | 93.85 | 102.00
26 | 67.75 | 80.40 | 101.75 | 106.05 | 128.45 | 96.95 | 105.20
27 | 70.00 | 82.60 | 104.75 | 109.35 | 132.70 | 100.05 | 108.40
28 | 72.25 | 84.80 | 107.75 | 112.65 | 136.95 | 103.15 | 111.60
29 | 74.50 | 87.00 | 110.75 | 115.95 | 141.20 | 106.25 | 114.80
30 | 76.75 | 89.20 | 113.75 | 119.25 | 145.45 | 109.35 | 118.00
31 | 79.00 | 91.40 | 116.75 | 122.55 | 149.70 | 112.45 | 121.20
32 | 81.25 | 93.60 | 119.75 | 125.85 | 153.95 | 115.55 | 124.40
33 | 83.50 | 95.80 | 122.75 | 129.15 | 158.20 | 118.65 | 127.60
34 | 85.75 | 98.00 | 125.75 | 132.45 | 162.45 | 121.75 | 130.80
35 | 88.00 | 100.20 | 128.75 | 135.75 | 166.70 | 124.85 | 134.00
36 | 90.25 | 102.40 | 131.75 | 139.05 | 170.95 | 127.95 | 137.20
37 | 92.50 | 104.60 | 134.75 | 142.35 | 175.20 | 131.05 | 140.40
38 | 94.75 | 106.80 | 137.75 | 145.65 | 179.45 | 134.15 | 143.60
39 | 97.00 | 109.00 | 140.75 | 148.95 | 183.70 | 137.25 | 146.80
40 | 99.25 | 111.20 | 143.75 | 152.25 | 187.95 | 140.35 | 150.00
41 | 101.50 | 113.40 | 146.75 | 155.55 | 192.20 | 143.45 | 153.20
42 | 103.75 | 115.60 | 149.75 | 158.85 | 196.45 | 146.55 | 156.40
43 | 106.00 | 117.80 | 152.75 | 162.15 | 200.70 | 149.65 | 159.60
44 | 108.25 | 120.00 | 155.75 | 165.45 | 204.95 | 152.75 | 162.80
45 | 110.50 | 122.20 | 158.75 | 168.75 | 209.20 | 155.85 | 166.00
46 | 112.75 | 124.40 | 161.75 | 172.05 | 213.45 | 158.95 | 169.20
47 | 115.00 | 126.60 | 164.75 | 175.35 | 217.70 | 162.05 | 172.40
48 | 117.25 | 128.80 | 167.75 | 178.65 | 221.95 | 165.15 | 175.60
49 | 119.50 | 131.00 | 170.75 | 181.95 | 226.20 | 168.25 | 178.80
50 | 121.75 | 133.20 | 173.75 | 185.25 | 230.45 | 171.35 | 182.00
51 | 124.00 | 135.40 | 176.75 | 188.55 | 234.70 | 174.45 | 185.20
52 | 126.25 | 137.60 | 179.75 | 191.85 | 238.95 | 177.55 | 188.40
53 | 128.50 | 139.80 | 182.75 | 195.15 | 243.20 | 180.65 | 191.60
54 | 130.75 | 142.00 | 185.75 | 198.45 | 247.45 | 183.75 | 194.80
55 | 133.00 | 144.20 | 188.75 | 201.75 | 251.70 | 186.85 | 198.00
56 | 135.25 | 146.40 | 191.75 | 205.05 | 255.95 | 189.95 | 201.20
57 | 137.50 | 148.60 | 194.75 | 208.35 | 260.20 | 193.05 | 204.40
58 | 139.75 | 150.80 | 197.75 | 211.65 | 264.45 | 196.15 | 207.60
59 | 142.00 | 153.00 | 200.75 | 214.95 | 268.70 | 199.25 | 210.80
60 | 144.25 | 155.20 | 203.75 | 218.25 | 272.95 | 202.35 | 214.00
61 | 146.50 | 157.40 | 206.75 | 221.55 | 277.20 | 205.45 | 217.20
62 | 148.75 | 159.60 | 209.75 | 224.85 | 281.45 | 208.55 | 220.40
63 | 151.00 | 161.80 | 212.75 | 228.15 | 285.70 | 211.65 | 223.60
64 | 153.25 | 164.00 | 215.75 | 231.45 | 289.95 | 214.75 | 226.80
65 | 155.50 | 166.20 | 218.75 | 234.75 | 294.20 | 217.85 | 230.00
66 | 157.75 | 168.40 | 221.75 | 238.05 | 298.45 | 220.95 | 233.20
67 |  |  |  |  |  | 224.05 | 236.40
68 |  |  |  |  |  | 227.15 | 239.60
69 |  |  |  |  |  | 230.25 | 242.80
70 |  |  |  |  |  | 233.35 | 246.00

Express Mail International Service
Weight not over (lbs.) | Rate group 8 | Rate group 9 | Rate group 10 | Rate group 11 | Rate group 12
.5 | 17.00 | 19.00 | 22.75 | 28.50 | 22.25
1 | 20.50 | 22.00 | 25.25 | 31.25 | 24.75
2 | 24.00 | 26.00 | 28.25 | 35.50 | 28.00
3 | 28.00 | 30.00 | 32.50 | 40.50 | 32.00
4 | 32.00 | 35.00 | 36.50 | 44.75 | 36.00
5 | 36.00 | 40.00 | 40.75 | 49.75 | 40.00
6 | 40.20 | 44.65 | 45.00 | 54.50 | 44.00
7 | 44.40 | 49.30 | 49.25 | 59.25 | 48.00
8 | 48.60 | 53.95 | 53.50 | 64.00 | 52.00
9 | 52.80 | 58.60 | 57.75 | 68.75 | 56.00
10 | 57.00 | 63.25 | 62.00 | 73.50 | 60.00
11 | 61.20 | 67.90 | 66.25 | 78.25 | 64.00
12 | 65.40 | 72.55 | 70.50 | 83.00 | 68.00
13 | 69.60 | 77.20 | 74.75 | 87.75 | 72.00
14 | 73.80 | 81.85 | 79.00 | 92.50 | 76.00
15 | 78.00 | 86.50 | 83.25 | 97.25 | 80.00
16 | 82.20 | 91.15 | 87.50 | 102.00 | 84.00
17 | 86.40 | 95.80 | 91.75 | 106.75 | 88.00
18 | 90.60 | 100.45 | 96.00 | 111.50 | 92.00
19 | 94.80 | 105.10 | 100.25 | 116.25 | 96.00
20 | 99.00 | 109.75 | 104.50 | 121.00 | 100.00
21 | 103.20 | 114.40 | 108.75 | 125.75 | 104.00
22 | 107.40 | 119.05 | 113.00 | 130.50 | 108.00
23 | 111.60 | 123.70 | 117.25 | 135.25 | 112.00
24 | 115.80 | 128.35 | 121.50 | 140.00 | 116.00
25 | 120.00 | 133.00 | 125.75 | 144.75 | 120.00
26 | 124.20 | 137.65 | 130.00 | 149.50 | 124.00
27 | 128.40 | 142.30 | 134.25 | 154.25 | 128.00
28 | 132.60 | 146.95 | 138.50 | 159.00 | 132.00
29 | 136.80 | 151.60 | 142.75 | 163.75 | 136.00
30 | 141.00 | 156.25 | 147.00 | 168.50 | 140.00
31 | 145.20 | 160.90 | 151.25 | 173.25 | 144.00
32 | 149.40 | 165.55 | 155.50 | 178.00 | 148.00
33 | 153.60 | 170.20 | 159.75 | 182.75 | 152.00
34 | 157.80 | 174.85 | 164.00 | 187.50 | 156.00
35 | 162.00 | 179.50 | 168.25 | 192.25 | 160.00
36 | 166.20 | 184.15 | 172.50 | 197.00 | 164.00
37 | 170.40 | 188.80 | 176.75 | 201.75 | 168.00
38 | 174.60 | 193.45 | 181.00 | 206.50 | 172.00
39 | 178.80 | 198.10 | 185.25 | 211.25 | 176.00
40 | 183.00 | 202.75 | 189.50 | 216.00 | 180.00
41 | 187.20 | 207.40 | 193.75 | 220.75 | 184.00
42 | 191.40 | 212.05 | 198.00 | 225.50 | 188.00
43 | 195.60 | 216.70 | 202.25 | 230.25 | 192.00
44 | 199.80 | 221.35 | 206.50 | 235.00 | 196.00
45 | 204.00 | 226.00 | 210.75 | 239.75 | 200.00
46 | 208.20 | 230.65 | 215.00 | 244.50 | 204.00
47 | 212.40 | 235.30 | 219.25 | 249.25 | 208.00
48 | 216.60 | 239.95 | 223.50 | 254.00 | 212.00
49 | 220.80 | 244.60 | 227.75 | 258.75 | 216.00
50 | 225.00 | 249.25 | 232.00 | 263.50 | 220.00
51 | 229.20 | 253.90 | 236.25 | 268.25 | 224.00
52 | 233.40 | 258.55 | 240.50 | 273.00 | 228.00
53 | 237.60 | 263.20 | 244.75 | 277.75 | 232.00
54 | 241.80 | 267.85 | 249.00 | 282.50 | 236.00
55 | 246.00 | 272.50 | 253.25 | 287.25 | 240.00
56 | 250.20 | 277.15 | 257.50 | 292.00 | 244.00
57 | 254.40 | 281.80 | 261.75 | 296.75 | 248.00
58 | 258.60 | 286.45 | 266.00 | 301.50 | 252.00
59 | 262.80 | 291.10 | 270.25 | 306.25 | 256.00
60 | 267.00 | 295.75 | 274.50 | 311.00 | 260.00
61 | 271.20 | 300.40 | 278.75 | 315.75 | 264.00
62 | 275.40 | 305.05 | 283.00 | 320.50 | 268.00
63 | 279.60 | 309.70 | 287.25 | 325.25 | 272.00
64 | 283.80 | 314.35 | 291.50 | 330.00 | 276.00
65 | 288.00 | 319.00 | 295.75 | 334.75 | 280.00
66 | 292.20 | 323.65 | 300.00 | 339.50 | 284.00
67 | 296.40 | 328.30 | 304.25 | 344.25 | 288.00
68 | 300.60 | 332.95 | 308.50 | 349.00 | 292.00
69 | 304.80 | 337.60 | 312.75 | 353.75 | 296.00
70 | 309.00 | 342.25 | 317.00 | 358.50 | 300.00
EMS corporate account: 5 percent discount from single piece rates.

Global Priority Mail
Rate group 1 (Canada) | Rate group 2 (Mexico) | Rate group 3 | Rate group 4 (Australia, Japan, New Zealand) | Rate group 5
Small Envelope
$4.00 | $4.00 | $5.00 | $5.00 | $5.00
Large Envelope
7.00 | 7.00 | 9.00 | 9.00 | 9.00

Variable Weight
Weight not Over (lbs.) | Rate Group 1 (Canada) | Rate Group 2 (Mexico) | Rate Group 3 | Rate Group 4 (Australia, Japan, New Zealand) | Rate Group 5
.5 | $6.00 | $7.00 | $9.00 | $8.00 | $8.00
1 | 8.00 | 9.00 | 11.00 | 10.00 | 12.00
1.5 | 9.00 | 10.00 | 13.00 | 12.00 | 14.00
2 | 11.00 | 12.00 | 16.00 | 15.00 | 17.00
2.5 | 12.00 | 13.00 | 19.00 | 18.00 | 20.00
3 | 14.00 | 15.00 | 22.00 | 21.00 | 23.00
3.5 | 16.00 | 17.00 | 24.00 | 23.00 | 25.00
4 | 18.00 | 19.00 | 27.00 | 26.00 | 28.00

Airmail

Letter-post (Aerogrammes: $0.70. Postcards: Canada and Mexico, $0.50; Rest of World, $0.70).

Single Piece Letter-Post
Weight not over (ozs.) | Rate group 1 (Canada) | Rate group 2 (Mexico) | Rate group 3 | Rate group 4 (Australia, Japan, New Zealand) | Rate group 5
1 | $0.60 | $0.60 | $0.80 | $0.80 | $0.80
2 | 0.85 | 0.85 | 1.60 | 1.70 | 1.55
3 | 1.10 | 1.25 | 2.40 | 2.60 | 2.30
4 | 1.35 | 1.65 | 3.20 | 3.50 | 3.05
5 | 1.60 | 2.05 | 4.00 | 4.40 | 3.80
6 | 1.85 | 2.45 | 4.80 | 5.30 | 4.55
7 | 2.10 | 2.85 | 5.60 | 6.20 | 5.30
8 | 2.35 | 3.25 | 6.40 | 7.10 | 6.05
12 | 3.10 | 4.00 | 7.55 | 8.40 | 7.65
16 | 3.75 | 5.15 | 8.70 | 9.70 | 9.25
20 | 4.40 | 6.30 | 9.85 | 11.00 | 10.85
24 | 5.05 | 7.45 | 11.00 | 12.30 | 12.45
28 | 5.70 | 8.60 | 12.15 | 13.60 | 14.05
32 | 6.35 | 9.75 | 13.30 | 14.90 | 15.65
36 | 7.00 | 10.95 | 14.50 | 16.25 | 17.35
40 | 7.65 | 12.15 | 15.70 | 17.60 | 19.05
44 | 8.30 | 13.35 | 16.90 | 18.95 | 20.75
48 | 8.95 | 14.55 | 18.10 | 20.30 | 22.45
52 | 9.65 | 15.80 | 19.35 | 21.70 | 24.20
56 | 10.35 | 17.05 | 20.60 | 23.10 | 25.95
60 | 11.05 | 18.30 | 21.85 | 24.50 | 27.70
64 | 11.75 | 19.55 | 23.10 | 25.90 | 29.45

International Priority Airmail
Rate group | Per piece | Drop shipment per pound | Full service per pound
1 (Canada) | $0.25 | $2.60 | $3.60
2 (Mexico) | 0.12 | 4.60 | 5.60
3 | 0.20 | 4.25 | 5.25
4 | 0.20 | 5.50 | 6.50
5 | 0.12 | 4.60 | 5.60
6 | 0.12 | 4.75 | 5.75
7 | 0.12 | 6.25 | 7.25
8 | 0.12 | 7.25 | 8.25
Worldwide | 0.20 | 7.00 | 8.00

Airmail Parcel Post Single Piece
Weight not over (lbs.) | Rate group 1 (Canada) | Rate group 2 (Mexico) | Rate group 3 (Great Britain & No. Ireland) | Rate group 4 (Japan) | Rate group 5 (China) | Rate group 6 | Rate group 7
1 | $13.25 | $13.00 | $16.00 | $16.25 | $15.25 | $14.00 | $16.50
2 | 13.25 | 15.50 | 20.00 | 20.50 | 19.75 | 15.50 | 19.00
3 | 14.25 | 17.75 | 24.00 | 24.50 | 24.50 | 17.50 | 21.75
4 | 15.50 | 20.25 | 28.00 | 29.00 | 29.75 | 20.25 | 24.50
5 | 16.75 | 23.00 | 32.00 | 33.50 | 35.00 | 22.75 | 27.25
6 | 17.85 | 25.00 | 35.00 | 36.80 | 39.25 | 25.65 | 30.25
7 | 18.95 | 27.00 | 38.00 | 40.10 | 43.50 | 28.55 | 33.25
8 | 20.05 | 29.00 | 41.00 | 43.40 | 47.75 | 31.45 | 36.25
9 | 21.15 | 31.00 | 44.00 | 46.70 | 52.00 | 34.35 | 39.25
10 | 22.25 | 33.00 | 47.00 | 50.00 | 56.25 | 37.25 | 42.25
11 | 23.35 | 35.00 | 50.00 | 53.30 | 60.50 | 40.15 | 45.25
12 | 24.45 | 37.00 | 53.00 | 56.60 | 64.75 | 43.05 | 48.25
13 | 25.55 | 39.00 | 56.00 | 59.90 | 69.00 | 45.95 | 51.25
14 | 26.65 | 41.00 | 59.00 | 63.20 | 73.25 | 48.85 | 54.25
15 | 27.75 | 43.00 | 62.00 | 66.50 | 77.50 | 51.75 | 57.25
16 | 28.85 | 45.00 | 65.00 | 69.80 | 81.75 | 54.65 | 60.25
17 | 29.95 | 47.00 | 68.00 | 73.10 | 86.00 | 57.55 | 63.25
18 | 31.05 | 49.00 | 71.00 | 76.40 | 90.25 | 60.45 | 66.25
19 | 32.15 | 51.00 | 74.00 | 79.70 | 94.50 | 63.35 | 69.25
20 | 33.25 | 53.00 | 77.00 | 83.00 | 98.75 | 66.25 | 72.25
21 | 34.35 | 55.00 | 80.00 | 86.30 | 103.00 | 69.15 | 75.25
22 | 35.45 | 57.00 | 83.00 | 89.60 | 107.25 | 72.05 | 78.25
23 | 36.55 | 59.00 | 86.00 | 92.90 | 111.50 | 74.95 | 81.25
24 | 37.65 | 61.00 | 89.00 | 96.20 | 115.75 | 77.85 | 84.25
25 | 38.75 | 63.00 | 92.00 | 99.50 | 120.00 | 80.75 | 87.25
26 | 39.85 | 65.00 | 95.00 | 102.80 | 124.25 | 83.65 | 90.25
27 | 40.95 | 67.00 | 98.00 | 106.10 | 128.50 | 86.55 | 93.25
28 | 42.05 | 69.00 | 101.00 | 109.40 | 132.75 | 89.45 | 96.25
29 | 43.15 | 71.00 | 104.00 | 112.70 | 137.00 | 92.35 | 99.25
30 | 44.25 | 73.00 | 107.00 | 116.00 | 141.25 | 95.25 | 102.25
31 | 45.35 | 75.00 | 110.00 | 119.30 | 145.50 | 98.15 | 105.25
32 | 46.45 | 77.00 | 113.00 | 122.60 | 149.75 | 101.05 | 108.25
33 | 47.55 | 79.00 | 116.00 | 125.90 | 154.00 | 103.95 | 111.25
34 | 48.65 | 81.00 | 119.00 | 129.20 | 158.25 | 106.85 | 114.25
35 | 49.75 | 83.00 | 122.00 | 132.50 | 162.50 | 109.75 | 117.25
36 | 50.85 | 85.00 | 125.00 | 135.80 | 166.75 | 112.65 | 120.25
37 | 51.95 | 87.00 | 128.00 | 139.10 | 171.00 | 115.55 | 123.25
38 | 53.05 | 89.00 | 131.00 | 142.40 | 175.25 | 118.45 | 126.25
39 | 54.15 | 91.00 | 134.00 | 145.70 | 179.50 | 121.35 | 129.25
40 | 55.25 | 93.00 | 137.00 | 149.00 | 183.75 | 124.25 | 132.25
41 | 56.35 | 95.00 | 140.00 | 152.30 | 188.00 | 127.15 | 135.25
42 | 57.45 | 97.00 | 143.00 | 155.60 | 192.25 | 130.05 | 138.25
43 | 58.55 | 99.00 | 146.00 | 158.90 | 196.50 | 132.95 | 141.25
44 | 59.65 | 101.00 | 149.00 | 162.20 | 200.75 | 135.85 | 144.25
45 | 60.75 |  | 152.00 |  | 205.00 | 138.75 | 147.25
46 | 61.85 |  | 155.00 |  | 209.25 | 141.65 | 150.25
47 | 62.95 |  | 158.00 |  | 213.50 | 144.55 | 153.25
48 | 64.05 |  | 161.00 |  | 217.75 | 147.45 | 156.25
49 | 65.15 |  | 164.00 |  | 222.00 | 150.35 | 159.25
50 | 66.25 |  | 167.00 |  | 226.25 | 153.25 | 162.25
51 | 67.35 |  | 170.00 |  | 230.50 | 156.15 | 165.25
52 | 68.45 |  | 173.00 |  | 234.75 | 159.05 | 168.25
53 | 69.55 |  | 176.00 |  | 239.00 | 161.95 | 171.25
54 | 70.65 |  | 179.00 |  | 243.25 | 164.85 | 174.25
55 | 71.75 |  | 182.00 |  | 247.50 | 167.75 | 177.25
56 | 72.85 |  | 185.00 |  | 251.75 | 170.65 | 180.25
57 | 73.95 |  | 188.00 |  | 256.00 | 173.55 | 183.25
58 | 75.05 |  | 191.00 |  | 260.25 | 176.45 | 186.25
59 | 76.15 |  | 194.00 |  | 264.50 | 179.35 | 189.25
60 | 77.25 |  | 197.00 |  | 268.75 | 182.25 | 192.25
61 | 78.35 |  | 200.00 |  | 273.00 | 185.15 | 195.25
62 | 79.45 |  | 203.00 |  | 277.25 | 188.05 | 198.25
63 | 80.55 |  | 206.00 |  | 281.50 | 190.95 | 201.25
64 | 81.65 |  | 209.00 |  | 285.75 | 193.85 | 204.25
65 | 82.75 |  | 212.00 |  | 290.00 | 196.75 | 207.25
66 | 83.85 |  | 215.00 |  | 294.25 | 199.65 | 210.25
67 |  |  |  |  | 298.50 | 202.55 | 213.25
68 |  |  |  |  | 302.75 | 205.45 | 216.25
69 |  |  |  |  | 307.00 | 208.35 | 219.25
70 |  |  |  |  | 311.25 | 211.25 | 222.25

Airmail Parcel Post Single Piece
Weight not over (lbs.) | Rate group 8 | Rate group 9 | Rate group 10 | Rate group 11 | Rate group 12 | Rate group 13
1 | $12.50 | $14.50 | $16.00 | $18.00 | $14.00 | $17.00
2 | 16.00 | 18.75 | 18.50 | 22.00 | 15.50 | 19.00
3 | 20.00 | 23.25 | 21.50 | 26.00 | 17.25 | 22.00
4 | 24.25 | 26.75 | 24.00 | 30.00 | 19.25 | 25.00
5 | 28.75 | 32.75 | 26.50 | 34.00 | 21.25 | 28.00
6 | 32.65 | 36.50 | 29.50 | 37.50 | 23.75 | 31.25
7 | 36.55 | 40.40 | 32.50 | 41.00 | 26.25 | 34.50
8 | 40.45 | 44.30 | 35.50 | 44.50 | 28.75 | 37.75
9 | 44.35 | 48.20 | 38.50 | 48.00 | 31.25 | 41.00
10 | 48.25 | 52.10 | 41.50 | 51.50 | 33.75 | 44.25
11 | 52.15 | 56.00 | 44.50 | 55.00 | 36.25 | 47.50
12 | 56.05 | 59.90 | 47.50 | 58.50 | 38.75 | 50.75
13 | 59.95 | 63.80 | 50.50 | 62.00 | 41.25 | 54.00
14 | 63.85 | 67.70 | 53.50 | 65.50 | 43.75 | 57.25
15 | 67.75 | 71.60 | 56.50 | 69.00 | 46.25 | 60.50
16 | 71.65 | 75.50 | 59.50 | 72.50 | 48.75 | 63.75
17 | 75.55 | 79.40 | 62.50 | 76.00 | 51.25 | 67.00
18 | 79.45 | 83.30 | 65.50 | 79.50 | 53.75 | 70.25
19 | 83.35 | 87.20 | 68.50 | 83.00 | 56.25 | 73.50
20 | 87.25 | 91.10 | 71.50 | 86.50 | 58.75 | 76.75
21 | 91.15 | 95.00 | 74.50 | 90.00 | 61.25 | 80.00
22 | 95.05 | 98.90 | 77.50 | 93.50 | 63.75 | 83.25
23 | 98.95 | 102.80 | 80.50 | 97.00 | 66.25 | 86.50
24 | 102.85 | 106.70 | 83.50 | 100.50 | 68.75 | 89.75
25 | 106.75 | 110.60 | 86.50 | 104.00 | 71.25 | 93.00
26 | 110.65 | 114.50 | 89.50 | 107.50 | 73.75 | 96.25
27 | 114.55 | 118.40 | 92.50 | 111.00 | 76.25 | 99.50
28 | 118.45 | 122.30 | 95.50 | 114.50 | 78.75 | 102.75
29 | 122.35 | 126.20 | 98.50 | 118.00 | 81.25 | 106.00
30 | 126.25 | 130.10 | 101.50 | 121.50 | 83.75 | 109.25
31 | 130.15 | 134.00 | 104.50 | 125.00 | 86.25 | 112.50
32 | 134.05 | 137.90 | 107.50 | 128.50 | 88.75 | 115.75
33 | 137.95 | 141.80 | 110.50 | 132.00 | 91.25 | 119.00
34 | 141.85 | 145.70 | 113.50 | 135.50 | 93.75 | 122.25
35 | 145.75 | 149.60 | 116.50 | 139.00 | 96.25 | 125.50
36 | 149.65 | 153.50 | 119.50 | 142.50 | 98.75 | 128.75
37 | 153.55 | 157.40 | 122.50 | 146.00 | 101.25 | 132.00
38 | 157.45 | 161.30 | 125.50 | 149.50 | 103.75 | 135.25
39 | 161.35 | 165.20 | 128.50 | 153.00 | 106.25 | 138.50
40 | 165.25 | 169.10 | 131.50 | 156.50 | 108.75 | 141.75
41 | 169.15 | 173.00 | 134.50 | 160.00 | 111.25 | 145.00
42 | 173.05 | 176.90 | 137.50 | 163.50 | 113.75 | 148.25
43 | 176.95 | 180.80 | 140.50 | 167.00 | 116.25 | 151.50
44 | 180.85 | 184.70 | 143.50 | 170.50 | 118.75 | 154.75
45 | 184.75 | 188.60 | 146.50 | 174.00 | 121.25 | 158.00
46 | 188.65 | 192.50 | 149.50 | 177.50 | 123.75 | 161.25
47 | 192.55 | 196.40 | 152.50 | 181.00 | 126.25 | 164.50
48 | 196.45 | 200.30 | 155.50 | 184.50 | 128.75 | 167.75
49 | 200.35 | 204.20 | 158.50 | 188.00 | 131.25 | 171.00
50 | 204.25 | 208.10 | 161.50 | 191.50 | 133.75 | 174.25
51 | 208.15 | 212.00 | 164.50 | 195.00 | 136.25 | 177.50
52 | 212.05 | 215.90 | 167.50 | 198.50 | 138.75 | 180.75
53 | 215.95 | 219.80 | 170.50 | 202.00 | 141.25 | 184.00
54 | 219.85 | 223.70 | 173.50 | 205.50 | 143.75 | 187.25
55 | 223.75 | 227.60 | 176.50 | 209.00 | 146.25 | 190.50
56 | 227.65 | 231.50 | 179.50 | 212.50 | 148.75 | 193.75
57 | 231.55 | 235.40 | 182.50 | 216.00 | 151.25 | 197.00
58 | 235.45 | 239.30 | 185.50 | 219.50 | 153.75 | 200.25
59 | 239.35 | 243.20 | 188.50 | 223.00 | 156.25 | 203.50
60 | 243.25 | 247.10 | 191.50 | 226.50 | 158.75 | 206.75
61 | 247.15 | 251.00 | 194.50 | 230.00 | 161.25 | 210.00
62 | 251.05 | 254.90 | 197.50 | 233.50 | 163.75 | 213.25
63 | 254.95 | 258.80 | 200.50 | 237.00 | 166.25 | 216.50
64 | 258.85 | 262.70 | 203.50 | 240.50 | 168.75 | 219.75
65 | 262.75 | 266.60 | 206.50 | 244.00 | 171.25 | 223.00
66 | 266.65 | 270.50 | 209.50 | 247.50 | 173.75 | 226.25
67 | 270.55 | 274.40 | 212.50 | 251.00 | 176.25 | 229.50
68 | 274.45 | 278.30 | 215.50 | 254.50 | 178.75 | 232.75
69 | 278.35 | 282.20 | 218.50 | 258.00 | 181.25 | 236.00
70 | 282.25 | 286.10 | 221.50 | 261.50 | 183.75 | 239.25

Airmail M-Bags
Weight not over (lbs.) | Rate group 1 (Canada) | Rate group 2 (Mexico) | Rate group 3 | Rate group 4 (Australia, Japan, New Zealand) | Rate group 5
11 | $16.50 | $17.60 | $27.50 | $38.50 | $38.50
Each additional pound or fraction of a pound | 1.50 | 1.60 | 2.50 | 3.50 | 3.50

Economy Mail—Letter-Post Single Piece
Weight not over (ozs.) | Rate group 1 (Canada) | Rate group 2 (Mexico) | Rate group 3 | Rate group 4 (Australia, Japan, New Zealand) | Rate group 5
16 | $2.70 | $4.35 | $3.80 | $4.05 | $4.95
20 | 4.05 | 5.15 | 4.45 | 4.70 | 5.70
24 | 4.55 | 5.95 | 5.10 | 5.35 | 6.50
28 | 5.05 | 6.70 | 5.70 | 6.00 | 7.30
32 | 5.60 | 7.50 | 6.30 | 6.65 | 8.10
36 | 6.00 | 8.15 | 6.90 | 7.25 | 8.75
40 | 6.40 | 8.80 | 7.50 | 7.85 | 9.40
44 | 6.80 | 9.45 | 8.10 | 8.45 | 10.05
48 | 7.20 | 10.10 | 8.70 | 9.05 | 10.70
52 | 7.60 | 10.75 | 9.30 | 9.65 | 11.35
56 | 8.00 | 11.40 | 9.90 | 10.25 | 12.00
60 | 8.40 | 12.05 | 10.50 | 10.85 | 12.65
64 | 8.80 | 12.70 | 11.10 | 11.45 | 13.30

International Surface Air Lift
Rate group | Per piece | Drop shipment per pound | Direct shipment per pound | Full service per pound | M-Bag drop shipment | M-Bag direct shipment | M-Bag full service
1 (Canada) | $0.25 | $2.15 | $2.65 | $3.15 | $1.40 | $1.50 | $1.50
2 (Mexico) | 0.12 | 3.20 | 3.70 | 4.20 | 1.50 | 1.60 | 1.60
3 | 0.20 | 2.50 | 3.00 | 3.50 | 1.50 | 1.75 | 1.75
4 | 0.20 | 2.75 | 3.25 | 3.75 | 2.50 | 2.50 | 2.50
5 | 0.12 | 3.45 | 3.95 | 4.45 | 2.00 | 2.25 | 2.25
6 | 0.12 | 3.40 | 3.90 | 4.40 | 2.00 | 2.25 | 2.25
7 | 0.12 | 3.50 | 4.00 | 4.50 | 2.25 | 2.50 | 2.50
8 | 0.12 | 5.50 | 6.00 | 6.50 | 3.00 | 3.25 | 3.25

Publishers' Periodicals
Weight not over | Canada | Mexico | All other countries (except Canada and Mexico)
lbs. ozs.
0 1 | $0.40 | $0.48 | $0.44
0 2 | 0.46 | 0.60 | 0.55
0 3 | 0.52 | 0.78 | 0.71
0 4 | 0.59 | 0.90 | 0.83
0 5 | 0.65 | 1.13 | 1.05
0 6 | 0.72 | 1.13 | 1.05
0 7 | 0.78 | 1.36 | 1.27
0 8 | 0.85 | 1.36 | 1.27
0 9 | 0.91 | 1.57 | 1.50
0 10 | 0.98 | 1.57 | 1.50
0 11 | 1.04 | 1.80 | 1.71
0 12 | 1.11 | 1.80 | 1.71
0 13 | 1.17 | 2.03 | 1.93
0 14 | 1.24 | 2.03 | 1.93
0 15 | 1.30 | 2.26 | 2.15
0 16 | 1.37 | 2.26 | 2.15
0 18 | 1.43 | 2.46 | 2.36
0 20 | 1.49 | 2.68 | 2.56
0 22 | 1.55 | 2.88 | 2.77
0 24 | 1.61 | 3.10 | 2.98
0 26 | 1.67 | 3.30 | 3.19
0 28 | 1.73 | 3.52 | 3.39
0 30 | 1.79 | 3.72 | 3.60
0 32 | 1.85 | 3.94 | 3.81
3 0 | 4.00 | 5.38 | 5.13
4 0 | 4.64 | 6.82 | 6.45
$0.25 per pound discount for volume made up to country and tendered at the New Jersey International and Bulk Mail Center.

Books and Sheet Music
Weight not over (ozs.) | Rate group 1 (Canada) | Rate group 2 (Mexico) | Rate group 3 | Rate group 4 (Japan, Australia, New Zealand) | Rate group 5
0.5 | $1.70 | $2.85 | $2.65 | $2.60 | $2.80
1.0 | 1.70 | 2.85 | 2.65 | 2.60 | 2.80
2.0 | 1.70 | 2.85 | 2.65 | 2.60 | 2.80
3.0 | 1.70 | 2.85 | 2.65 | 2.60 | 2.80
4.0 | 1.70 | 2.85 | 2.65 | 2.60 | 2.80
5.0 | 1.70 | 2.85 | 2.65 | 2.60 | 2.80
6.0 | 1.70 | 2.85 | 2.65 | 2.60 | 2.80
7.0 | 1.70 | 2.85 | 2.65 | 2.60 | 2.80
8.0 | 1.70 | 2.85 | 2.65 | 2.60 | 2.80
12.0 | 1.70 | 2.85 | 2.65 | 2.60 | 2.80
16.0 | 1.70 | 2.85 | 2.65 | 2.60 | 2.80
20.0 | 1.85 | 3.40 | 3.20 | 3.10 | 3.35
24.0 | 2.00 | 3.95 | 3.75 | 3.60 | 3.90
28.0 | 2.15 | 4.50 | 4.25 | 4.10 | 4.45
32.0 | 2.30 | 5.00 | 4.75 | 4.60 | 5.00
36.0 | 3.00 | 5.45 | 5.10 | 5.00 | 5.45
40.0 | 3.68 | 5.90 | 5.50 | 5.38 | 5.90
44.0 | 4.35 | 6.35 | 5.90 | 5.75 | 6.35
48.0 | 5.00 | 6.75 | 6.20 | 6.10 | 6.70
52.0 | 5.20 | 7.65 | 6.60 | 6.50 | 7.15
56.0 | 5.40 | 8.55 | 7.00 | 6.90 | 7.60
60.0 | 5.60 | 9.45 | 7.40 | 7.35 | 8.05
64.0 | 5.80 | 10.30 | 7.80 | 7.75 | 8.40

Matter for the Blind_Free

Economy Parcel Post Single Piece
Weight not over (lbs.) | Rate group 1 (Canada) | Rate group 2 (Mexico) | Rate group 3 (Great Britain & No. Ireland) | Rate group 4 (Japan) | Rate group 5 (China) | Rate group 6 | Rate group 7
5 | $15.25 | $19.50 | $23.00 | $23.25 | $21.25 | $18.25 | $22.00
6 | 15.75 | 20.75 | 25.00 | 25.00 | 22.75 | 19.35 | 24.00
7 | 16.50 | 22.00 | 27.00 | 26.25 | 24.25 | 20.45 | 26.00
8 | 17.25 | 23.00 | 29.00 | 27.75 | 25.75 | 21.55 | 28.00
9 | 17.75 | 24.00 | 31.00 | 29.00 | 27.25 | 22.65 | 30.00
10 | 18.25 | 24.75 | 32.75 | 30.25 | 28.75 | 23.75 | 32.00
11 | 18.70 | 25.50 | 34.45 | 31.30 | 30.00 | 24.70 | 33.60
12 | 19.15 | 26.25 | 36.15 | 32.35 | 31.25 | 25.65 | 35.20
13 | 19.60 | 27.00 | 37.85 | 33.40 | 32.50 | 26.60 | 36.80
14 | 20.05 | 27.75 | 39.55 | 34.45 | 33.75 | 27.55 | 38.40
15 | 20.50 | 28.50 | 41.25 | 35.50 | 35.00 | 28.50 | 40.00
16 | 20.95 | 29.25 | 42.95 | 36.55 | 36.25 | 29.45 | 41.60
17 | 21.40 | 30.00 | 44.65 | 37.60 | 37.50 | 30.40 | 43.20
18 | 21.85 | 30.75 | 46.35 | 38.65 | 38.75 | 31.35 | 44.80
19 | 22.30 | 31.50 | 48.05 | 39.70 | 40.00 | 32.30 | 46.40
20 | 22.75 | 32.25 | 49.75 | 40.75 | 41.25 | 33.25 | 48.00
21 | 23.30 | 32.95 | 51.35 | 41.70 | 42.40 | 34.15 | 49.60
22 | 23.85 | 33.65 | 52.95 | 42.65 | 43.55 | 35.05 | 51.20
23 | 24.40 | 34.35 | 54.55 | 43.60 | 44.70 | 35.95 | 52.80
24 | 24.95 | 35.05 | 56.15 | 44.55 | 45.85 | 36.85 | 54.40
25 | 25.50 | 35.75 | 57.75 | 45.50 | 47.00 | 37.75 | 56.00
26 | 26.05 | 36.45 | 59.35 | 46.45 | 48.15 | 38.65 | 57.60
27 | 26.60 | 37.15 | 60.95 | 47.40 | 49.30 | 39.55 | 59.20
28 | 27.15 | 37.85 | 62.55 | 48.35 | 50.45 | 40.45 | 60.80
29 | 27.70 | 38.55 | 64.15 | 49.30 | 51.60 | 41.35 | 62.40
30 | 28.25 | 39.25 | 65.75 | 50.25 | 52.75 | 42.25 | 64.00
31 | 28.80 | 39.95 | 67.25 | 51.15 | 53.85 | 43.10 | 65.50
32 | 29.35 | 40.65 | 68.75 | 52.05 | 54.95 | 43.95 | 67.00
33 | 29.90 | 41.35 | 70.25 | 52.95 | 56.05 | 44.80 | 68.50
34 | 30.45 | 42.05 | 71.75 | 53.85 | 57.15 | 45.65 | 70.00
35 | 31.00 | 42.75 | 73.25 | 54.75 | 58.25 | 46.50 | 71.50
36 | 31.55 | 43.45 | 74.75 | 55.65 | 59.35 | 47.35 | 73.00
37 | 32.10 | 44.15 | 76.25 | 56.55 | 60.45 | 48.20 | 74.50
38 | 32.65 | 44.85 | 77.75 | 57.45 | 61.55 | 49.05 | 76.00
39 | 33.20 | 45.55 | 79.25 | 58.35 | 62.65 | 49.90 | 77.50
40 | 33.75 | 46.25 | 80.75 | 59.25 | 63.75 | 50.75 | 79.00
41 | 34.30 | 46.95 | 82.25 | 60.15 | 64.85 | 51.60 | 80.50
42 | 34.85 | 47.65 | 83.75 | 61.05 | 65.95 | 52.45 | 82.00
43 | 35.40 | 48.35 | 85.25 | 61.95 | 67.05 | 53.30 | 83.50
44 | 35.95 | 49.05 | 86.75 | 62.85 | 68.15 | 54.15 | 85.00
45 | 36.50 |  | 88.25 |  | 69.25 | 55.00 | 86.50
46 | 37.05 |  | 89.75 |  | 70.35 | 55.85 | 88.00
47 | 37.60 |  | 91.25 |  | 71.45 | 56.70 | 89.50
48 | 38.15 |  | 92.75 |  | 72.55 | 57.55 | 91.00
49 | 38.70 |  | 94.25 |  | 73.65 | 58.40 | 92.50
50 | 39.25 |  | 95.75 |  | 74.75 | 59.25 | 94.00
51 | 39.80 |  | 97.25 |  | 75.85 | 60.10 | 95.50
52 | 40.35 |  | 98.75 |  | 76.95 | 60.95 | 97.00
53 | 40.90 |  | 100.25 |  | 78.05 | 61.80 | 98.50
54 | 41.45 |  | 101.75 |  | 79.15 | 62.65 | 100.00
55 | 42.00 |  | 103.25 |  | 80.25 | 63.50 | 101.50
56 | 42.55 |  | 104.75 |  | 81.35 | 64.35 | 103.00
57 | 43.10 |  | 106.25 |  | 82.45 | 65.20 | 104.50
58 | 43.65 |  | 107.75 |  | 83.55 | 66.05 | 106.00
59 | 44.20 |  | 109.25 |  | 84.65 | 66.90 | 107.50
60 | 44.75 |  | 110.75 |  | 85.75 | 67.75 | 109.00
61 | 45.30 |  | 112.25 |  | 86.85 | 68.60 | 110.50
62 | 45.85 |  | 113.75 |  | 87.95 | 69.45 | 112.00
63 | 46.40 |  | 115.25 |  | 89.05 | 70.30 | 113.50
64 | 46.95 |  | 116.75 |  | 90.15 | 71.15 | 115.00
65 | 47.50 |  | 118.25 |  | 91.25 | 72.00 | 116.50
66 | 48.05 |  | 119.75 |  | 92.35 | 72.85 | 118.00
67 |  |  |  |  | 93.45 | 73.70 | 119.50
68 |  |  |  |  | 94.55 | 74.55 | 121.00
69 |  |  |  |  | 95.65 | 75.40 | 122.50
70 |  |  |  |  | 96.75 | 76.25 | 124.00

Economy Parcel Post Single Piece
Weight not over (lbs.) | Rate group 8 | Rate group 9 | Rate group 10 | Rate group 11 | Rate group 12
5 | $21.50 | $28.75 | $21.75 | $26.25 | $20.25
6 | 22.80 | 30.95 | 23.50 | 28.75 | 22.00
7 | 24.10 | 33.15 | 25.00 | 31.00 | 23.75
8 | 25.40 | 35.35 | 26.75 | 33.25 | 25.50
9 | 26.70 | 37.55 | 29.00 | 35.50 | 27.25
10 | 28.10 | 39.75 | 32.00 | 37.75 | 28.90
11 | 29.40 | 41.65 | 33.40 | 39.80 | 30.55
12 | 30.70 | 43.55 | 34.80 | 41.85 | 32.20
13 | 32.00 | 45.45 | 36.20 | 43.90 | 33.85
14 | 33.30 | 47.35 | 37.60 | 45.95 | 35.50
15 | 34.60 | 49.25 | 39.00 | 48.00 | 37.15
16 | 35.90 | 51.15 | 40.40 | 50.05 | 38.80
17 | 37.20 | 53.05 | 41.80 | 52.10 | 40.45
18 | 38.50 | 54.95 | 43.20 | 54.15 | 42.10
19 | 39.80 | 56.85 | 44.60 | 56.20 | 43.75
20 | 41.10 | 58.75 | 46.00 | 58.25 | 45.40
21 | 42.40 | 60.45 | 47.25 | 60.15 | 46.85
22 | 43.70 | 62.15 | 48.50 | 62.05 | 48.30
23 | 45.00 | 63.85 | 49.75 | 63.95 | 49.75
24 | 46.30 | 65.55 | 51.00 | 65.85 | 51.20
25 | 47.60 | 67.25 | 52.25 | 67.75 | 52.65
26 | 48.90 | 68.95 | 53.50 | 69.65 | 54.10
27 | 50.20 | 70.65 | 54.75 | 71.55 | 55.55
28 | 51.50 | 72.35 | 56.00 | 73.45 | 57.00
29 | 52.80 | 74.05 | 57.25 | 75.35 | 58.45
30 | 54.10 | 75.75 | 58.50 | 77.25 | 59.90
31 | 55.40 | 77.40 | 59.75 | 79.00 | 61.30
32 | 56.70 | 79.05 | 61.00 | 80.75 | 62.70
33 | 58.00 | 80.70 | 62.25 | 82.50 | 64.10
34 | 59.30 | 82.35 | 63.50 | 84.25 | 65.50
35 | 60.60 | 84.00 | 64.75 | 86.00 | 66.90
36 | 61.90 | 85.65 | 66.00 | 87.75 | 68.30
37 | 63.20 | 87.30 | 67.25 | 89.50 | 69.70
38 | 64.50 | 88.95 | 68.50 | 91.25 | 71.10
39 | 65.80 | 90.60 | 69.75 | 93.00 | 72.50
40 | 67.10 | 92.25 | 71.00 | 94.75 | 73.90
41 | 68.40 | 93.60 | 72.25 | 96.50 | 75.30
42 | 69.70 | 94.95 | 73.50 | 98.25 | 76.70
43 | 71.00 | 96.30 | 74.75 | 100.00 | 78.10
44 | 72.30 | 97.65 | 76.00 | 101.75 | 79.50
45 | 73.60 | 99.00 | 77.25 | 103.50 | 80.90
46 | 74.90 | 100.35 | 78.50 | 105.25 | 82.30
47 | 76.20 | 101.70 | 79.75 | 107.00 | 83.70
48 | 77.50 | 103.05 | 81.00 | 108.75 | 85.10
49 | 78.80 | 104.40 | 82.25 | 110.50 | 86.50
50 | 80.10 | 105.75 | 83.50 | 112.25 | 87.90
51 | 81.40 | 107.10 | 84.75 | 114.00 | 89.30
52 | 82.70 | 108.45 | 86.00 | 115.75 | 90.70
53 | 84.00 | 109.80 | 87.25 | 117.50 | 92.10
54 | 85.30 | 111.15 | 88.50 | 119.25 | 93.50
55 | 86.60 | 112.50 | 89.75 | 121.00 | 94.90
56 | 87.90 | 113.85 | 91.00 | 122.75 | 96.30
57 | 89.20 | 115.20 | 92.25 | 124.50 | 97.70
58 | 90.50 | 116.55 | 93.50 | 126.25 | 99.10
59 | 91.80 | 117.90 | 94.75 | 128.00 | 100.50
60 | 93.10 | 119.25 | 96.00 | 129.75 | 101.90
61 | 94.40 | 120.60 | 97.25 | 131.50 | 103.30
62 | 95.70 | 121.95 | 98.50 | 133.25 | 104.70
63 | 97.00 | 123.30 | 99.75 | 135.00 | 106.10
64 | 98.30 | 124.65 | 101.00 | 136.75 | 107.50
65 | 99.60 | 126.00 | 102.25 | 138.50 | 108.90
66 | 100.90 | 127.35 | 103.50 | 140.25 | 110.30
67 | 102.20 | 128.70 | 104.75 | 142.00 | 111.70
68 | 103.50 | 130.05 | 106.00 | 143.75 | 113.10
69 | 104.80 | 131.40 | 107.25 | 145.50 | 114.50
70 | 106.10 | 132.75 | 108.50 | 147.25 | 115.90

Economy (Surface) M-Bags
Weight not over (lbs.) | Rate group 1 (Canada) | Rate group 2 (Mexico) | Rate group 3 | Rate group 4 (Australia, Japan, New Zealand) | Rate group 5
Regular
11 | $11.55 | $14.30 | $15.95 | $16.50 | $16.50
Each additional pound or fraction of a pound | 1.05 | 1.30 | 1.45 | 1.50 | 1.50
Books and Sheet Music and Publishers' Periodicals
11 | $8.80 | $8.80 | $9.90 | $11.00 | $11.00
Each additional pound or fraction of a pound | 0.80 | 0.80 | 0.90 | 1.00 | 1.00

Special Services and Miscellaneous Fees and Charges

Fees with an asterisk are based on the equivalent domestic service.

Certificate of Mailing*
| Fee
Individual Pieces
Individual articles listing, per article | $0.75
Firm mailing books (PS Form 3877), per article listed | 0.25
Each individual copy of individual article listing or original mailing receipt for registered, insured, or recorded delivery (per copy) | 0.75
Bulk Pieces
Up to 1,000 pieces (one certificate for total number) | 3.50
Each additional 1,000 pieces or fraction | 0.40
Duplicate copy | 0.75

Insurance—Parcel Post
Indemnity limit not over | Canada* | All other countries
$50 | $1.35 | $1.85
100 | 2.10 | 2.60
200 | 3.10 | 3.60
300 | 4.10 | 4.60
400 | 5.10 | 5.60
500 | 6.10 | 6.60
600 | 7.10 | 7.60
675 | 8.10 |
700 |  | 8.60
Add'l. $100 |  | $1.00

Express Mail*
Indemnity limit not over | All countries
$500 | No Fee
Add'l. $100 | $1.00

Registered Mail—Countries other than Canada: $7.25*

Canada:

Indemnity limit not over | Fee
$100 | $7.50
500 | 8.25
1000 | 9.00

Return Receipt*: $1.50

Restricted Delivery*: $3.20

Recorded Delivery*: $2.10

International Postal Money Orders —

Direct (MP1): $3.25

List: $8.50 (no change)

International Reply Coupons: $1.75

International Business Reply Service —

Cards: $0.80

Envelope up to 2 ounces: $1.20

Customs Clearance and Delivery Fee: $4.50

Pick up Service*: $10.25

Shortpaid Mail Charge: $0.45

Country Rate Group List
Country | EMS | Air CP | Surface CP | Letter- post | IPA ISAL ¹
Afghanistan |  | 7 | 7 | 5 | 8
Albania | 6 | 7 | 7 | 5 | 5
Algeria | 11 | 10 | 11 | 5 | 8
Andorra | 6 | 7 | 6 | 3 | 3
Angola | 11 | 10 | 11 | 5 | 8
Anguilla | 12 | 12 | 12 | 5 | 6
Antigua and Barbuda |  | 12 | 12 | 5 | 6
Argentina | 12 | 13 | 12 | 5 | 6
Armenia | 7 | 7 | 7 | 5 | 8
Aruba | 12 | 12 | 12 | 5 | 6
Ascension |  | — | 11 | 5 | 5
Australia | 8 | 9 | 8 | 4 | 4
Austria | 7 | 7 | 6 | 5 | 3
Azerbaijan | 6 | 7 | 7 | 5 | 8
Bahamas | 12 | 12 | 12 | 5 | 6
Bahrain | 11 | 10 | 10 | 5 | 8
Bangladesh | 9 | 8 | 8 | 5 | 8
Barbados | 12 | 12 | 12 | 5 | 6
Belarus | 6 | 6 | 7 | 5 | 5
Belgium | 7 | 6 | 6 | 3 | 3
Belize | 12 | 12 | 12 | 5 | 6
Benin | 11 | 10 | 10 | 5 | 8
Bermuda | 12 | 13 | 12 | 5 | 6
Bhutan | 8 | 9 | 9 | 5 | 8
Bolivia | 12 | 13 | 12 | 5 | 6
Bosnia-Herzegovina | 6 | 6 | 6 | 5 | 5
Botswana | 10 | 11 | 11 | 5 | 8
Brazil | 12 | 13 | 12 | 5 | 6
British Virgin Islands |  | 12 | 12 | 5 | 6
Brunei Darussalam | 8 | 8 | 8 | 5 | 7
Bulgaria | 6 | 6 | 7 | 5 | 5
Burkina Faso | 10 | 10 | 11 | 5 | 8
Burma (Myanmar) |  | 6 | 6 | 5 | 8
Burundi | 11 | 11 | 11 | 5 | 8
Cambodia | 8 | 8 |  | 5 | 7
Cameroon | 10 | 11 | 11 | 5 | 8
Canada | 1 | 1 | 1 | 1 | 1
Cape Verde | 11 | 10 | 11 | 5 | 8
Cayman Islands | 12 | 12 | 12 | 5 | 6
Central African Republic | 11 | 11 | 11 | 5 | 8
Chad | 10 | 10 |  | 5 | 8
Chile | 12 | 13 | 12 | 5 | 6
China | 5 | 5 | 5 | 5 | 7
Colombia | 12 | 12 | 12 | 5 | 6
Comoros Islands |  | 10 | 10 | 5 | 8
Congo (Brazzaville), Republic of the | 11 | 10 | 10 | 5 | 8
Congo (Kinshasa), Democratic Republic of the | 10 | 11 | 11 | 5 | 8
Costa Rica | 12 | 12 | 12 | 5 | 6
Côte d'Ivoire (Ivory Coast) | 10 | 11 | 11 | 5 | 8
Croatia | 6 | 6 | 6 | 5 | 5
Cuba |  |  |  | 5 | 6
Cyprus | 6 | 6 | 6 | 5 | 8
Czech Republic | 7 | 6 | 7 | 5 | 5
Denmark | 7 | 6 | 6 | 3 | 3
Djibouti | 11 | 10 | 10 | 5 | 8
Dominica | 12 | 12 | 12 | 5 | 6
Dominican Republic | 12 | 12 | 12 | 5 | 6
Ecuador | 12 | 13 | 12 | 5 | 6
Egypt | 11 | 11 | 11 | 5 | 8
El Salvador | 12 | 12 | 12 | 5 | 6
Equatorial Guinea | 10 | 10 | 10 | 5 | 8
Eritrea | 10 | 11 | 11 | 5 | 8
Estonia | 6 | 7 | 7 | 5 | 5
Ethiopia | 10 | 10 | 10 | 5 | 8
Falkland Islands |  |  | 12 | 5 | 6
Faroe Islands | 7 | 6 | 6 | 3 | 5
Fiji | 8 | 8 | 8 | 5 | 7
Finland | 7 | 6 | 6 | 3 | 3
France (Includes Corsica & Monaco) | 6 | 6 | 6 | 3 | 3
French Guiana | 12 | 13 | 12 | 5 | 6
French Polynesia (Includes Tahiti) | 9 | 9 | 9 | 5 | 7
Gabon | 11 | 10 | 11 | 5 | 8
Gambia |  | 11 | 11 | 5 | 8
Georgia, Republic of | 7 | 7 | 7 | 5 | 8
Germany | 7 | 6 | 6 | 3 | 3
Ghana | 10 | 11 | 11 | 5 | 8
Gibraltar |  | 6 | 6 | 3 | 3
Great Britain and Northern Ireland | 3 | 3 | 3 | 3 | 3
Greece | 7 | 6 | 6 | 3 | 3
Greenland |  | 6 | 6 | 3 | 3
Grenada | 12 | 12 | 12 | 5 | 6
Guadeloupe | 12 | 13 | 12 | 5 | 6
Guatemala | 12 | 12 | 12 | 5 | 6
Guinea | 10 | 10 | 10 | 5 | 8
Guinea-Bissau | 11 | 11 | 11 | 5 | 8
Guyana | 12 | 12 | 12 | 5 | 6
Haiti | 12 | 12 | 12 | 5 | 6
Honduras | 12 | 13 | 12 | 5 | 6
Hong Kong | 8 | 9 | 8 | 5 | 7
Hungary | 7 | 6 | 6 | 5 | 5
Iceland | 7 | 6 | 6 | 3 | 3
India | 8 | 9 | 8 | 5 | 8
Indonesia (Includes East Timor) | 8 | 8 | 8 | 5 | 7
Iran |  | 11 | 11 | 5 | 8
Iraq | 11 | 11 | 11 | 5 | 8
Ireland | 6 | 6 | 6 | 3 | 3
Israel | 10 | 10 | 10 | 3 | 3
Italy | 7 | 6 | 6 | 3 | 3
Jamaica | 12 | 12 | 12 | 5 | 6
Japan | 4 | 4 | 4 | 4 | 4
Jordan | 10 | 10 | 10 | 5 | 8
Kazakhstan | 6 | 6 | 7 | 5 | 8
Kenya | 10 | 10 | 10 | 5 | 8
Kiribati |  | 8 | 8 | 5 | 7
Korea, Dem. People's Rep. of (North) |  |  |  | 5 | 7
Korea, Republic of (South) | 8 | 9 | 8 | 5 | 7
Kuwait | 11 | 10 | 10 | 5 | 8
Kyrgyzstan | 6 | 6 | 7 | 5 | 5
Laos | 9 | 9 | 9 | 5 | 7
Latvia | 7 | 6 | 6 | 5 | 5
Lebanon |  | 10 |  | 5 | 8
Lesotho | 11 | 11 | 11 | 5 | 8
Liberia | 10 | 10 | 10 | 5 | 8
Libya |  | 7 | 7 | 5 | 8
Liechtenstein | 7 | 6 | 6 | 3 | 3
Lithuania | 6 | 6 | 7 | 5 | 5
Luxembourg | 6 | 6 | 6 | 3 | 3
Macao | 8 | 9 | 9 | 5 | 5
Macedonia, Republic of | 7 | 6 | 7 | 5 | 5
Madagascar | 10 | 11 | 11 | 5 | 8
Malawi | 10 | 11 | 11 | 5 | 8
Malaysia | 8 | 8 | 8 | 5 | 7
Maldives | 9 | 9 | 9 | 5 | 8
Mali | 10 | 10 | 11 | 5 | 8
Malta | 7 | 7 | 7 | 5 | 8
Martinique | 12 | 13 | 12 | 5 | 6
Mauritania | 10 | 10 | 11 | 5 | 8
Mauritius | 10 | 10 | 10 | 5 | 8
Mexico | 2 | 2 | 2 | 2 | 2
Moldova | 6 | 7 | 7 | 5 | 8
Mongolia | 9 | 9 | 9 | 5 | 7
Montserrat |  | 8 | 8 | 5 | 6
Morocco | 11 | 10 | 11 | 5 | 8
Mozambique | 10 | 11 | 11 | 5 | 8
Namibia | 11 | 11 | 11 | 5 | 8
Nauru | 8 | 8 | 8 | 5 | 7
Nepal | 8 | 9 | 9 | 5 | 7
Netherlands | 7 | 6 | 6 | 3 | 3
Netherlands Antilles | 12 | 12 | 12 | 5 | 6
New Caledonia | 9 | 9 | 9 | 5 | 7
New Zealand | 8 | 8 | 8 | 4 | 4
Nicaragua | 12 | 12 | 12 | 5 | 6
Niger | 10 | 10 | 10 | 5 | 8
Nigeria | 11 | 10 | 10 | 5 | 8
Norway | 7 | 6 | 6 | 3 | 3
Oman | 11 | 10 | 10 | 5 | 8
Pakistan | 8 | 9 | 8 | 5 | 8
Panama | 12 | 12 | 12 | 5 | 6
Papua New Guinea | 8 | 9 | 9 | 5 | 7
Paraguay | 12 | 13 | 12 | 5 | 6
Peru | 12 | 13 | 12 | 5 | 6
Philippines | 8 | 9 | 8 | 5 | 7
Pitcairn Island |  | 8 | 8 | 5 | 7
Poland | 6 | 6 | 6 | 5 | 5
Portugal (Includes Azores & Madeira Islands) | 7 | 7 | 7 | 3 | 3
Qatar | 11 | 10 | 10 | 5 | 8
Reunion |  | 13 | 12 | 5 | 8
Romania | 6 | 7 | 7 | 5 | 5
Russia | 7 | 7 | 7 | 5 | 5
Rwanda | 10 | 10 | 11 | 5 | 8
Saint Christopher (St. Kitts) and Nevis | 12 | 12 | 12 | 5 | 6
Saint Helena |  | 11 | 11 | 5 | 8
Saint Lucia | 12 | 12 | 12 | 5 | 6
Saint Pierre & Miquelon |  | 6 | 6 | 5 | 6
Saint Vincent and the Grenadines | 12 | 13 | 12 | 5 | 6
San Marino |  | 9 | 8 | 3 | 3
Sao Tome and Principe |  | 10 | 10 | 5 | 5
Saudi Arabia | 10 | 10 | 10 | 5 | 8
Senegal | 11 | 10 | 10 | 5 | 8
Serbia-Montenegro (Yugoslavia) | 7 | 7 | 7 | 5 | 5
Seychelles | 10 | 10 | 11 | 5 | 8
Sierra Leone | 10 | 10 | 10 | 5 | 8
Singapore | 8 | 8 | 8 | 5 | 7
Slovak Republic (Slovakia) | 6 | 6 | 6 | 5 | 5
Slovenia | 7 | 6 | 7 | 5 | 5
Solomon Islands | 8 | 8 | 8 | 5 | 7
Somalia | 10 | 10 | 10 | 5 | 8
South Africa | 11 | 11 | 10 | 5 | 8
Spain (Includes Canary Islands) | 6 | 7 | 6 | 3 | 3
Sri Lanka | 8 | 9 | 8 | 5 | 8
Sudan | 10 | 11 | 11 | 5 | 8
Suriname |  | 12 | 12 | 5 | 6
Swaziland | 11 | 10 | 10 | 5 | 8
Sweden | 7 | 7 | 7 | 3 | 3
Switzerland | 7 | 6 | 6 | 3 | 3
Syria | 10 | 10 | 10 | 5 | 8
Taiwan | 8 | 9 | 8 | 5 | 7
Tajikistan | 7 | 6 | 6 | 5 | 8
Tanzania | 10 | 10 | 10 | 5 | 8
Thailand | 9 | 8 | 8 | 5 | 7
Togo | 11 | 10 | 10 | 5 | 8
Tonga |  | 8 | 8 | 5 | 7
Trinidad and Tobago | 12 | 12 | 12 | 5 | 6
Tristan da Cunha |  | 10 | 11 | 5 | 8
Tunisia | 11 | 10 | 10 | 5 | 8
Turkey | 10 | 10 | 10 | 5 | 5
Turkmenistan | 7 | 7 | 7 | 5 | 5
Turks and Caicos Islands |  | 12 | 12 | 5 | 6
Tuvalu |  | 8 | 8 | 5 | 7
Uganda | 10 | 10 | 11 | 5 | 8
Ukraine | 7 | 7 | 7 | 5 | 8
United Arab Emirates | 10 | 10 | 10 | 5 | 8
Uruguay | 12 | 13 | 12 | 5 | 6
Uzbekistan |  | 7 | 7 | 5 | 8
Vanuatu | 8 | 8 | 8 | 5 | 7
Vatican City |  | 6 | 6 | 3 | 3
Venezuela | 12 | 12 | 12 | 5 | 6
Vietnam | 8 | 9 | 8 | 5 | 7
Wallis and Futuna Islands |  | 9 | 9 | 5 | 7
Western Samoa | 8 | 8 | 8 | 5 | 7
Yemen | 10 | 10 | 11 | 5 | 8
Zambia | 10 | 10 | 11 | 5 | 8
Zimbabwe | 11 | 11 | 11 | 5 | 8
¹ ISAL service not available to all countries. See Individual Country Listings for availablilty.

1 International Mail Services

110 General Information

111 Scope

This manual sets forth the conditions and procedures for the preparation and treatment of mail sent from the United States to other countries and the treatment of mail received from other countries. Its counterpart in the domestic mail service is the Domestic Mail Manual (DMM). Cross-references to the DMM are provided wherever domestic conditions and procedures apply to the preparation or treatment of international mail.

112 Mailer Responsibility

Regardless of any statement contained in this manual or the statements of any employee of the United States Postal Service, the burden rests with the mailer to ensure that he or she has complied with the prescribed laws and regulations governing domestic and international mail, both those of the United States and those of the destination country.

113 Individual Country Listings

Individual Country Listings (ICLs) provide information about conditions of mailing, postage rates, and special services for each country. ICLs are arranged alphabetically. Most subtitles are followed by a chapter citation in parentheses.

114 Availability

Customers may access this manual online at http://pe.usps.gov. A printed copy may be purchased from: Superintendent of Documents, U.S. Government Printing Office, 941 N Capitol St NE, Washington, DC 20402-9371.

115 Official Correspondence

115.1 Correspondence With Headquarters

115.11 Operations

Questions regarding the proper classification, postal rates and fees, preparation requirements, claims and inquiries, special services, mailability, or any other classification aspect of international mail should be directed to local postal officials. Regulatory matters relating to international mail should be directed to the appropriate rates and classification service center (RCSC). See DMM G042 for listing of RCSCs and service areas.

115.12 Policy and Representation

Correspondence concerning the following should be addressed to: Director International Postal Affairs, U.S. Postal Service, 475 L'Enfant Plz SW, Washington, DC 20260-6500.

a. Policy matters relating to international mail and international postal affairs.

b. Negotiation and interpretation of postal agreements.

c. Communications of a nonroutine nature from foreign postal officials.

d. Postal Service representation at international postal meetings.

e. Postal Service representation at meetings with other federal departments and agencies relating to international postal affairs.

f. Visits by foreign postal officials.

115.13 Transportation and Distribution

Correspondence concerning the transportation of international civil and military mail by surface and air, including the following, should be addressed to: Manager International Operations, U.S. Postal Service, 475 L'Enfant Plz SW, Washington, DC 20260-6500.

a. Containerization and plant loads.

b. Conveyance rates.

c. Designation of U.S. exchange offices.

d. Documentation.

e. Internal air conveyance, terminal, and transit charges.

f. Mode of transport.

g. Related forms and reports.

h. Routing.

i. Schedules and performance of U.S. and foreign flag carriers.

j. Distribution procedures and schemes.

115.14 Investigations

Correspondence relating to investigation of losses, depredations (robberies or riflings), and security of international mail should be addressed to: Chief Postal Inspector, Inspection Service, U.S. Postal Service, 475 L'Enfant Plz SW, Washington, DC 20260-2100.

115.15 International Money Orders

Correspondence relating to international money orders, including operational procedures, accounting, cashing, and issuing, should be addressed to: International Money Order Section, Accounting Service Center, U.S. Postal Service, PO Box 14964, St Louis MO 63182-9421.

115.2 Correspondence With Foreign Postal Authorities

115.21 Correspondence Permitted

Correspondence is permitted between foreign postal authorities and Postal Inspectors-in-Charge and the postmasters (listed in 931.2) acting under the instructions for processing inquiries described in 928. U.S. exchange offices may correspond with their foreign counterparts only through bulletins of verification and exchanges of documentation.

115.22 Correspondence Not Permitted

In all other cases, postmasters, area offices, and other field units of the Postal Service must not correspond directly with postal officials in other countries, but must refer inquiries from those officials to Headquarters for attention. (See 115.1 for referral points for particular subjects.)

115.3 Correspondence With Foreign Individuals

115.31 Correspondence Permitted

Postmasters, area offices, and other field units of the Postal Service may reply directly to inquiries and engage in other necessary correspondence with individuals and firms in other countries.

115.32 Customer's Address

A customer's address may not be given out without the customer's consent.

120 Preparation for Mailing

121 Packaging—Sender's Responsibility

It is the responsibility of the sender to prepare items and to address them clearly and correctly. In preparing items for mailing, the sender must (1) use strong envelopes or durable packaging material, and (2) consider the nature of the articles being mailed and the distance they must travel to reach the addressee. (See DMM C010.2.0 for detailed instructions.)

122 Addressing

122.1 Destination Address

a. At least the entire right half of the address side of the envelope, package, or card should be reserved for the destination address, postage, labels, and postal notations.

b. Addresses must be printed in ink or typewritten. Pencil is unacceptable.

c. The name and address of addressee must be written legibly with roman letters and Arabic numbers, all placed lengthwise on one side of the item. For parcels, addresses should also be written on a separate slip enclosed in the parcel.

d. Addresses in Russian, Greek, Arabic, Hebrew, Cyrillic, Japanese, or Chinese characters must bear an interline translation in English of the names of the post office and country of destination. If the English translation is not known, the foreign language words must be spelled in roman characters (print or script). See 293.91 and 284.1 for an optional addressing procedure that applies only to direct country sacks of International Surface Air Lift (ISAL) mail or International Priority Airmail (IPA), respectively.

e. Mail may not be addressed to a person in one country “in care of” a person in another country.

f. The name of the sender and/or addressee may not be in initials except where they are an adopted trade name.

g. Mail may not be addressed to Boxholder or Householder.

h. The following exceptional form of address, in French or a language known in the country of destination, may be used on printed matter: the addressee's name or Occupant.

Example: MR THOMAS CLARK OR OCCUPANT

i. The house number and street address or box number must be included when mail is addressed to towns or cities.

j. The address of items sent to General Delivery (in French, Poste Restante) must indicate the name of the addressee. The use of initials; figures; simple, given names; or fictitious names is not permitted on articles addressed for general delivery.

k. The last line of the address must show only the country name, written in full (no abbreviations) and in capital letters. For example:

MR THOMAS CLARK 117 RUSSELL DRIVE

LONDON WIP 6HQ ENGLAND

MS C P APPLE APARTADO 3068

46807 PUERTO VALLARTA JALISCO MEXICO

Exception: To Canada, either of the following address formats may be used when the postal delivery zone number is included in the address:

MS HELEN SAUNDERS 1010 CLEAR STREET OTTAWA ON K1A 0B1 CANADA

MS HELEN SAUNDERS 1010 CLEAR STREET OTTAWA ON CANADA K1A 0B1

122.2 Return Address

The complete address of the sender, including ZIP Code and country of origin, should be shown in the upper left corner of the address side of the envelope, package, or card. Only one return address may be used. It must be located so that it does not affect either the clarity of the address of destination or the application of service labels and notations (postmarks, etc.). Unregistered items bearing a return address in another country are accepted only at the sender's risk. In the case of bulk mailings, the return address must be in the country of mailing. For the purpose of this section, a “bulk mailing” is 200 or more pieces mailed at the same time by the sender.

123 Customs Forms

123.1 General

Only two customs declaration forms are used, as required under 123.6, for international mail: PS Form 2976, Customs—CN 22 (Old C 1) and Sender's Declaration (green label); and PS Form 2976-A, Customs Declaration and Dispatch Note CP 72 (Old C 2/CP 3/CP 2). PS Form 2976-E, Customs Declaration Envelope CP 91, is used with PS Form 2976-A for parcel post packages.

Note: The May 1996 and December 1996 versions of PS Form 2976 may no longer be used. Postal customers are now required to use the June 1997 version, or a subsequent version, whenever a mailing transaction necessitates the affixing of PS Form 2976. Except as provided in 123.3, it is also mandatory that they present a fully completed Sender's Declaration, which specifies both the Sender's Name and Address and the Addressee's Name and Address, at the time of mailing.

123.2 Availability

Customs declaration forms are available without charge at post offices. Upon request, mailers may receive a reasonable supply for mail preparation.

123.3 Privately Printed Forms

If authorized, mailers may privately print PS Forms 2976 and 2976-A. Privately printed forms must be identical in size, design, and color to the Postal Service forms, and each form must contain a unique code 128 barcode number that can be read by Postal Service equipment. Form specifications may be obtained from: Manager Pricing Costing and Classification, International Business, U.S. Postal Service, 475 L'Enfant Plz SW, Washington, DC 20260-6500.

For authorization, mailers must submit at least two preproduction samples to the Manager, International Pricing, Costing, and Classification, at the above address, for review and approval. If three or more items are presented at one time, the mailer may omit printing the post office copy of PS Forms 2976 and 2976-A if a manifest of the items is provided. The manifest must contain the same mailer's certification statement and edition date printed on the Postal Service forms. Entries on the manifest must be typewritten or printed in ink or by ballpoint pen. The manifest must contain the sender's name and address; the sender's print authorization (i.e., barcode) number; the edition date of the privately printed PS Form 2976 that is being affixed to the mailpieces; a signed and dated reproduction of the certification statement that is printed on the USPS Sender's Declaration; and a list of the foreign recipients' names and delivery addresses.

123.4 Nonpostal Forms

Certain items must bear one or more of the forms required by the nonpostal export regulations described in chapter 5.

123.5 Place of Mailing

Except as specified below, postal items that require a completed customs declaration form may not be deposited into a street collection box or a post office lobby drop. Such items must be tendered to a USPS employee at a post office or other location as designated by the postmaster. Otherwise, they will be returned to the sender for proper entry and acceptance.

Exception: The above restriction on the deposit of customs mail does not apply to Express Mail International Service (EMS) shipments paid through an Express Mail corporate account. Those items may be deposited into a designated Express Mail collection box or post office lobby drop.

123.6 Required Usage

123.61 Conditions

Customs declaration PS Forms 2976 or 2976-A and 2976-E must be used as shown in Exhibit 123.61.

Exhibit 123.61—Customs Declaration Forms Usage
Mail category | Declared value | Required form | Comment
Priority Mail Global Guaranteed (documents) | All values | Mailing label (item 11FGG1X)
Express Mail International Service (EMS) | All values | Use 2976 or 2976-A unless otherwise specified | See Note 4 at the bottom of this exhibit and the Individual Country Listings.
Global Priority Mail (GPM) items, airmail letter-post items, and economy letter-post items that: (a) Weigh less than 16 ounces and do not have potentially dutiable contents. (b) Weigh 16 ounces or more; do not have potentially dutiable contents; and are entered by a known mailer. | N/A | None | A known mailer, as defined in 123.62, may be exempt from affixing customs forms to nondutiable mailpieces that weigh 16 ounces or more.
Global Priority Mail (GPM) items, airmail letter-post items, and economy letter-post items that: | Under $400 $400 and over | Use 2976* Use 2976-A* (a) Weigh less than 16 ounces and have potentially dutiable contents. (b) Weigh 16 ounces or more, regardless of their contents.
Free Matter for the Blind—Economy | Under $400 | $400 and over 2976* | 2976-A*
Parcel Post—Airmail or Economy | Regardless of value 2976-A with 2976-E | Form 2976 (green label) may not be used on parcel post packages.
M-bag—Airmail or Economy (Note: An M-bag requires a customs form when it contains potentially dutiable printed matter, admissible merchandise items as defined in 261.22, or some combination thereof.) | Under $400 $400 and over | 2976* 2976-A*
*Placement of forms: For items under $400 in value, PS Form 2976 (green label) should be used and affixed to the outside of the item. If the value of the contents is $400 and over, the upper left section of PS Form 2976 (green label) should be attached to the outside of the item, and a separate PS Form 2976-A must be completed and enclosed inside the package.

Notes: 1. See 233.3 for the customs form requirements that specifically pertain to Global Priority Mail (GPM) items.

2. Bulk business products, including International Surface Air Lift (ISAL) and International Priority Airmail (IPA), require customs forms based on package contents and weight as specified above and as required by the country of destination.

3. Express Mail International Service (EMS) shipments that contain correspondence, documents, or commercial papers are subject to the following customs form requirements:

a. When an EMS shipment with those categories of contents weighs less than 16 ounces, the determination as to whether or not to affix PS Form 2976 is dependent upon the conditions of mailing that are applicable to a particular destination country. Some countries require that a customs form be affixed to EMS shipments in that situation. Others require only that a “BUSINESS PAPERS” endorsement be placed on the wrapper of such shipments. See the Individual Country Listings for each country's specification in that area.

b. When the EMS shipment with those categories of contents weighs 16 ounces or more, PS Form 2976 is required.

123.62 Known Mailers

A “known mailer” is defined as:

a. A business customer who tenders volume mailings through a business mail entry unit (BMEU) or other bulk mail acceptance location; completes a statement of mailing at the time of entry; pays postage through an advance deposit account; and uses a permit imprint as an indication of postage payment. International Surface Air Lift (ISAL) and International Priority Airmail (IPA) customers are considered to be known mailers for this purpose.

b. A federal, state, or local government agency whose mail is regarded as Official Mail.

c. A contractor who sends out prepaid mail on behalf of a military service, provided the mail is endorsed “Contents for Official Use—Exempt from Customs Requirements.”

Note: For aviation security purposes a known mailer may be exempt from providing customs declaration forms (as required in 123.61) on items weighing 16 ounces or more, unless required by the destination country. A known mailer must complete the declaration on the postage statement, certifying that all items in the mailing contain no dangerous material that is prohibited by postal regulations. Known mailers and other mailers must complete the necessary customs form when sending dutiable items or merchandise. International mail with meter postage is not considered from a known mailer.

123.63 Additional Security Controls

When the chief postal inspector determines that a unique, credible threat exists, the Postal Service may require a mailer to provide photo identification at the time of mailing. The signature on the identification must match the signature on the customs declaration form.

123.7 Completing Customs Forms 123.71 PS Form 2976, Customs—CN 22 (Old C 1) and Sender's Declaration (green label) (see Exhibit 123.71) Exhibit 123.71 PS Form 2976, Customs—CN 22 (Old C 1) and Sender's Declaration (green label)

[Exhibit not included.]

123.711 Preparation by Sender

A sender completes PS Form 2976, Customs—CN 22 (Old C 1) and Sender's Declaration (green label), by:

a. Providing a complete description of each article in the item, even if it contains commercial samples, documents, gifts, or merchandise. General descriptions such as “food,” “medicine,” “gifts,” or “clothing” are not acceptable. The description must be in English, although an interline translation in another language is permitted.

b. Stating the exact quantity of each article in the item.

c. Declaring the value, in U.S. dollars, of each article in the item. The sender may declare that the contents have no value (declaring no value does not exempt an item from customs examination or charges in the destination country).

d. Showing the total weight of the item, if known.

e. Indicating in the appropriate check box on the form whether the item contains gifts, merchandise, or commercial samples. If not, the sender does not check these boxes.

f. Entering the sender's full name and address and the addressee's full name and address in the blocks indicated.

g. Signing and dating in the blocks indicated on both parts of the form. The sender's signature certifies that all entries are correct and that the item contains no dangerous material prohibited by postal regulations.

h. Affixing the form to the address side of the item and presenting it for mailing.

123.712 Acceptance by Postal Employee (PS Form 2976)

The Postal Service acceptance employee must:

a. Instruct the sender how to complete, legibly and accurately, the customs declaration form, as required. Failure to complete the form properly can delay delivery of the item or inconvenience the sender and addressee. Moreover, a false, misleading, or incomplete declaration can result in the seizure or return of the item and/or in criminal or civil penalties. The United States Postal Service assumes no responsibility for the accuracy of information that the sender enters on PS Form 2976.

b. Verify that the required information is entered on the form and that the sender has signed both parts of the form (the part affixed to the item and the part separated for postal records).

c. Enter the weight of the item on the form, if not already done.

d. Remove the post office copy of PS Form 2976 and advise the customer that a copy of the declaration will be retained as a record of mailing for 30 days.

e. Round stamp any uncancelled stamps, and if postage is paid by meter, round stamp the front of the piece near the meter postage.

Note: To comply with international mail aviation security procedures, any items weighing 16 ounces or more which are not accepted by an authorized employee, or where acceptance conditions are uncertain (e.g., if received through a collection box or left on an unattended dock) must be endorsed properly with “customer notification DDD-2 sticker” and “surface only” and returned to the sender by surface transportation. Consult the most recent International Aviation Security Procedures for comprehensive acceptance procedures.

123.72 PS Form 2976-A, Customs Declaration and Dispatch Note CP 72 (Old C 2/CP 3/CP 2) (see Exhibit 123.72) Exhibit 123.72 PS Form 2976-A, Customs Declaration and Dispatch Note CP 72 (Old C 2/CP 3/CP 2)

[Exhibit not included.]

123.721 Preparation by Sender

A sender completes PS Form 2976-A, Customs Declaration and Dispatch Note CP 72 (Old C 2/CP 3/CP 2), by:

a. Providing the names and addresses of the sender and addressee.

b. Providing information about the contents of the parcel or item. (If there is insufficient space on the customs declaration form to list all contents of the parcel or item, a second form is used to continue listing the contents. The first form must be annotated to indicate two forms. Both forms are placed into PS Form 2976-E (envelope).) The sender lists this information by:

(1) Providing a complete description of each article in the parcel or each item, even if it contains commercial samples, documents, gifts, or merchandise. General descriptions such as “food,” “medicine,” “gifts,” or “clothing” are not acceptable. The description must be in English, although an interline translation in another language is permitted.

(2) Showing the exact quantity of each article in the parcel or item.

(3) Declaring the value, in U.S. dollars, of each article in the parcel or item. The sender may declare that the contents have no value (declaring no value does not exempt the parcel or item from customs examination or charges in the destination country).

(4) Showing the net weight of each article in the parcel or item.

c. Indicating in the appropriate check box on the form whether the parcel or item contains commercial samples, documents, gifts, or merchandise. If not, the sender does not check these boxes.

d. For parcel post only, providing disposal instructions in the event that a parcel cannot be delivered. The sender checks the appropriate box on the form to indicate whether the parcel is to be returned, treated as abandoned, or forwarded to an alternate address. (Undeliverable parcels returned to the sender are subject to collection on delivery of return postage and any other charge assessed by the foreign postal authorities. The sender must check the box “Abandon” for any parcel for which the sender is unwilling to pay return postage.)

e. Signing and dating the form in the block indicated. The sender's signature certifies that all entries are correct and that the parcel or item contains no dangerous material prohibited by postal regulations.

f. Presenting the parcel post package or item for mailing at a post office and affixing PS Form 2976-A according to the class of mail, as follows:

(1) For parcel post, the sender must not place PS Form 2976-A inside PS Form 2976-E (envelope) before the postal acceptance employee completes the required information described in 123.722. After the postal employee completes PS Form 2976-A, the sender places the form inside PS Form 2976-E and affixes it to the outside of the parcel.

(2) For an item other than parcel post (i.e., letter-post items) valued at $400 or more, the sender places PS Form 2976-A inside the item before the postal employee accepts the item. If the sender does not want to show on the outside wrapper the contents of letter-post items, the sender affixes the upper-left part of PS Form 2976 to the wrapper and completes PS Form 2976-A and encloses it in the item.

123.722 Acceptance by Postal Employee (PS Form 2976-A)

The Postal Service acceptance employee must:

a. Instruct the sender how to complete, legibly and accurately, PS Form 2976-A, Customs Declaration and Dispatch Note, as required. Failure to complete the form properly can delay delivery of the item or inconvenience the customer. Moreover, a false, misleading, or incomplete declaration can result in the seizure or return of the item and/or in criminal or civil penalties. The United States Postal Service assumes no responsibility for the accuracy of information that the sender enters on the form.

b. Verify that the required information is entered on the form and that the sender has signed both parts of the form (the part affixed to the item and the part separated for postal records). The sender's address on the mailpiece must match the sender's address on the customs declaration.

c. Complete an insurance receipt and affix the insured number label to the package, if the contents are to be insured. The postal employee enters on the form the insured number and the insured amount in U.S. dollars and SDRs. (See Exhibit 324.22 for conversion to SDRs.)

d. Weigh the parcel and enter on the form the gross weight and the amount of postage.

e. Postmark the third copy of the form in the appropriate place.

f. Remove the post office copy of the form and advise customer that a copy of the declaration will be retained as a record of mailing for 30 days.

g. Round stamp any uncancelled stamps and, if postage is paid by meter, round stamp the front of the piece near the meter postage.

Note: To comply with international mail aviation security procedures, any items weighing 16 ounces or more which are not accepted by an authorized employee, or where acceptance conditions are uncertain (e.g., if received through a collection box or left on an unattended dock) must be endorsed properly with “customer notification DDD-2 sticker” and “surface only” and returned to the sender by surface transportation. Consult the most recent International Aviation Security Procedures for comprehensive acceptance procedures.

123.73 PS Form 2976-E, Customs Declaration Envelope CP 91

PS Form 2976-E is a transparent plastic envelope designed for carriage of PS Form 2976-A for parcel post. Upon completion of the forms, the sender inserts the form into the envelope and affixes it to the outside of the parcel.

130 Mailability

131 General

131.1 Domestic Limits

All articles that are nonmailable in domestic mail are nonmailable in international mail. See DMM C020 and C030 and Publication 52, Acceptance of Hazardous, Restricted, or Perishable Matter.

131.2 International Limits

Many articles that are mailable in domestic mail are nonmailable in international mail. See section 630 of Publication 52 and “Prohibitions and Restrictions” in the Individual Country Listings.

131.3 Individual Country Prohibitions and Restrictions

131.31 Information Available

Information on articles that are prohibited or restricted to individual countries appears under “Prohibitions and Restrictions” in the Individual Country Listings. These prohibitions and restrictions are based on information furnished by the countries concerned. Customers should inquire at the post office about specific prohibitions or restrictions.

131.32 Prohibited and Restricted Articles

Articles that are prohibited by the destination country are nonmailable. For mail known to contain articles restricted by the destination country, the sender must be informed of the restrictions and advised that the articles are subject to the import requirements of that country.

131.33 Return or Seizure of Mail

A country may return or seize mail containing articles prohibited or restricted within that country, whether or not notice of such prohibition or restriction has been provided to or published by the Postal Service.

131.34 Foreign Customs Information

The Postal Service does not maintain or provide information concerning the assessment of customs duty in other countries. Postal employees must not attempt to inform customers whether articles (gifts or commercial shipments) will be subject to customs duty. Postal employees may suggest to customers, however, that they inform the addressees in advance of the articles they intend to mail. Addressees can then obtain information from their local customs authorities. No provision is made for prepayment of customs duty on mail addressed for delivery in foreign countries.

131.4 Mailer Responsibility

Regardless of any statement in this manual or the statement of any employee of the United States Postal Service, the burden rests with the mailer to ensure compliance with domestic, international, and individual country rules and regulations for mailability.

131.5 Preparation for Mailing

131.51 General Packaging Requirements

Parcels of articles or goods must meet the requirements of DMM C010.2.0. The size and weight limits for each of several grades of fiberboard boxes are as specified for difficult loads in DMM C010.3.1c. Reinforce boxes in each of two directions around the package (see DMM C010.3.1g).

131.52 Special Packaging Requirements

Each mailer must meet the following special packaging requirements when mailing any of the following articles:

a. Fragile articles, such as glass, must be cushioned in accordance with DMM C010.4.0 to dissipate shock and pressure forces over as much of the surface of the item as possible.

b. Liquids must be packaged in accordance with DMM C010.2.4.

c. Package fatty substances that do not easily liquefy, such as ointments, soft soap, resins, etc., as well as silkworm eggs, in an interior container (box, cloth, or plastic bag) and place them in an outer shipping container of minimum 275-grade test strength.

d. Enclose dry, powdered dyes, such as aniline, in sift-proof, sturdy tin or plastic boxes in an outer sift-proof shipping container. This container must have a minimum 275-grade test strength fiberboard or equivalent (see DMM C010.3.1).

132 Written, Printed, and Graphic Matter

132.1 Domestic Limits

All written, printed, and graphic matter that is described as nonmailable in DMM C030 is nonmailable internationally. This matter includes but is not limited to:

a. Advertisements for abortion (DMM C031.4.3).

b. Advertisements for motor vehicle master keys (DMM C031.4.2).

c. Copyright violations (DMM C031.5.2).

d. Fictitious matter (DMM C031.5.1).

e. Lottery matter (DMM C031.3.0).

f. Matter inciting violence (DMM C031.5.5).

g. Solicitations in the guise of bills or statements of account (DMM C031.1.0).

h. Solicitations or inducements for mailing harmful matter, radioactive materials, controlled substances, or intoxicating liquors (DMM C031.4.0).

Note: Immoral or obscene articles and advertisements for them are nonmailable.

132.2

Reply Cards and Envelopes

Items may not contain any card or envelope intended for reply purposes (addressed for return) if postage for that reply is denoted by U.S. stamps, domestic business reply, or other domestic indicia. International Business Reply Service (IBRS) cards and envelopes may be enclosed.

133 Improperly Addressed Mail

The following items are nonmailable in international mail:

a. Unaddressed items.

b. Items whose ultimate destination cannot be determined due to insufficient, illegible, or incorrect addressing.

c. Items bearing multiple addresses to the same or different countries.

134 Valuable Articles

134.1 List of Articles

The following valuable articles may be sent only in registered letter-post mailpieces or insured parcels and are not mailable in Express Mail International Service (EMS) shipments (see 211.2).

a. Coins, banknotes, and currency notes (paper money).

b. Instruments payable to bearer. (The term “instruments payable to bearer” includes checks, drafts, or securities that can be legally cashed or easily negotiated by anyone who may come into possession of them. A check or draft payable to a specific payee is not regarded as payable to bearer unless the payee has endorsed it. If not endorsed, or if endorsed in favor of another specific payee, it is not regarded as payable to bearer.)

c. Traveler's checks.

d. Manufactured and unmanufactured platinum, gold, and silver.

e. Precious stones, jewels, jewelry, and other valuable articles.

Note: The term “jewelry” is generally understood to denote articles of more than nominal value. Inexpensive jewelry, such as tie clasps and costume jewelry, containing little or no precious metal, is not considered to be jewelry within the meaning of this section and is accepted under the same conditions as other mailable merchandise to any country. Inexpensive jewelry is accepted to countries that prohibit jewelry, but only at the sender's risk.

134.2 Prohibitions

Individual countries prohibit or restrict some or all of the valuable items listed above. See the “Prohibitions and Restrictions” section in the Individual Country Listings.

135 Mailable Dangerous Goods

135.1 Biological Substances

135.11 General Conditions

Infectious and noninfectious biological substances are acceptable in the international mail subject to the provisions of DMM C023.10 and under the additional conditions specified in subsections below.

135.12 Type of Mail

Such substances may be sent only in registered airmail letter-post mailpieces.

135.13 Senders and Receivers

Such substances may be sent only by authorized laboratories to their foreign counterparts in those countries that have indicated a willingness to accept them.

Note: Countries distinguish between infectious and noninfectious biological substances and may prohibit one or the other or both. See “Prohibitions” in the Individual Country Listings.

135.2 Authorization

135.21 Authorized Institutions

Biological substances can be sent to or received by only the following types of institutions:

a. Laboratories of local, state, and federal government agencies.

b. Laboratories of federally licensed manufacturers of biological products derived from bacteria and viruses.

c. Laboratories affiliated with or operated by hospitals, universities, research facilities, and other teaching institutions.

d. Private laboratories licensed, certified, recognized, or approved by a public authority.

135.22 Request for Authorization

Qualifying institutions wishing to mail letter packages containing biological substances must submit a written request on its organizational letterhead to the following address: Manager Pricing Costing and Classification, International Business, US Postal Service, 475 L'Enfant Plz SW 370 IBU, Washington DC 20260-6500.

In its letter of application, the institution must indicate the nature of its work, the identity and qualifications of the prospective recipient, and the number of packages to be mailed. On approval of the application, the requisite number of biological substance mailing labels will be furnished by the Postal Service.

135.3 Packaging

135.31 Infectious Biological Substances

Infectious biological substances are limited to 50 milliliters (ml) per outside package and must be packaged in accordance with DMM C023.10.3 and as follows:

a. The second watertight container must also be surrounded by sufficient absorbent material to absorb the entire contents in case of leakage.

b. Screw cap closures must be reinforced with pressure-sensitive tape.

c. Infectious substances shipped in a refrigerated or frozen state must not be sent in an inner container with a metal screw cap. A heat-sealed skirted stopper or metal crimp seal must be used to prevent the contents from leaking.

d. When wet ice is used as a preservative, the following procedures must be followed:

(1) The ice must be placed between the second container and the outer packaging.

(2) The outer packaging should be designed with interior supports to prevent it from collapsing after the ice melts.

(3) The entire package must be leak-proof.

135.32 Noninfectious Biological Substances

Noninfectious biological substances are limited to 1,000 ml per interior primary container and 4,000 ml per outer shipping container and must be packaged in accordance with DMM C023.10.4.

Note: Dry ice (carbon dioxide solid) is not acceptable in international mail.

135.4 Marking

135.41 Infectious Biological Substances

Letter-post items that contain infectious biological substances should be identified by a black and white diamond-shaped label with the division number 6.2 in the bottom, in addition to the Etiologic Agents/Biohazard Material label. The top half of the label must bear the designated symbol for infectious substances, while the bottom half must contain the following warning: “INFECTIOUS SUBSTANCE. IN CASE OF DAMAGE OR LEAKAGE IMMEDIATELY NOTIFY THE PUBLIC HEALTH AUTHORITY.”

135.42 Noninfectious Biological Substances

Letter-post items that contain noninfectious biological substances must be identified by a violet-colored label bearing the prescribed symbol and French wording for perishable biological materials: “MATIERES BIOLOGIQUES PERISSABLES.”

135.43 Shipping Descriptions

The appropriate shipping description must be marked on each package, e.g., for infectious substances affecting humans, “CONTAINS (NAME OF SUBSTANCE), UN2814,” or for infectious substances affecting animals, “CONTAINS (NAME OF SUBSTANCE), UN2900.”

135.44 Shipper's Declaration

If the material is to be transported by air, a shipper's declaration is also required. See Publication 52, Exhibit 622.1b.

135.5 Handling and Dispatch

135.51 Biological Substances

Letter-post items that contain perishable biological substances must be given careful yet expeditious handling from receipt through dispatch.

135.52 Infectious Substances

Shipments containing infectious substances must be segregated from other types of mail matter (i.e., placed in separate sacks). PS Tag 44, Sack Contents Warning, must be attached to the outside of sacks to identify the hazardous nature of the contents. PS Tag 44 is for internal use only, and must be removed from mail sacks, and the hazardous materials tendered to air carriers as outside pieces.

135.6 Radioactive Materials

Shipments containing radioactive materials are acceptable in the international mail subject to the provisions of DMM C023.9 (Publication 52, Acceptance of Hazardous, Restricted, or Perishable Matter, and under the following conditions:

a. Shipments may be sent only in registered letter-post mailpieces.

b. Shipments may be sent only to those countries that have expressed a willingness to accept radioactive materials. See “Prohibitions and Restrictions” in the Individual Country Listings.

c. Shipments must comply with the International Atomic Energy Agency rules and regulations.

d. Senders and recipients of radioactive materials must receive prior authorization from the appropriate regulatory authorities within their countries.

e. A white package label bearing the French words “Matieres Radioactives” (Radioactive Materials) must be applied to the address side of each package containing radioactive materials. Senders are responsible for supplying and affixing this label to the package.

f. The package must also bear the following endorsements in bold letters: “RETURN TO SENDER IN CASE OF NONDELIVERY” and “RADIOACTIVE MATERIALS, QUANTITIES PERMITTED FOR MOVEMENT BY POST.”

136 Nonmailable Dangerous Goods

The following dangerous goods (hazardous materials, as defined in DMM C023) are prohibited in the international mail:

a. Explosives or explosive devices (DMM C023.2.0).

b. Flammable materials (DMM C023.3.0).

(1) Pyrophoric, flammable, or combustible liquids with a closed cup flash point below 200°F (DMM C023.3.1 and C023.3.2).

(2) Flammable solids, including matches (DMM C023.3.3 and C023.3.5).

c. Oxidizers (DMM C023.3.4).

d. Corrosives, liquid or solid (DMM C023.4.0).

e. Compressed gases (DMM C023.5.0).

(1) Flammable.

(2) Nonflammable with an absolute pressure exceeding 40 psi at 70°F or 104 psi at 130°F.

f. Poisons, irritants, controlled substances, and drug paraphernalia (DMM C023.6.0, C023.7.0, and C023.8.0).

g. Magnetized material with a magnetic field strength of .002 gauss or more at a distance of 7 feet (DMM C023.11.1).

h. Dry ice (carbon dioxide solid) (DMM C023.11.2).

137 Other Restricted Materials

The items listed under DMM C024.7.0 through C024.14.0 are prohibited in the international mail, except as specified in the Individual Country Listings. This includes intoxicating liquor, matter emitting obnoxious odor (liquids and powders), motor vehicle master keys, battery-powered devices, odd-shaped items in envelopes, and abortive and contraceptive devices.

138 Firearms, Knives, and Sharp Instruments

The items listed under DMM C024.1.0 through C024.5.0 may be mailed to certain countries under the conditions specified in the Individual Country Listings. See 540 for U.S. Department of State licensing requirements applicable to the international mailing of arms or implements of war, component parts, and related technical data.

139 Perishable Matter

139.1 Animals

All live or dead animals are nonmailable, except the following:

a. Live bees, leeches, and silkworms (DMM C022.3.7 and C022.3.8).

b. Dead insects or reptiles, when thoroughly dried.

c. Parasites and predators of injurious insects, if the following conditions are met:

(1) They are admissible in the domestic mail.

(2) They are useful in controlling harmful insects.

(3) They are exchanged by officially recognized scientific or health agencies.

(4) They are sent in letter packages or small packets.

(5) Mailable animals must be in containers conforming to the requirements in the DMM.

139.2 Plants

139.21 General Restrictions

Plants, seeds, and plant materials, including fruits and vegetables, are subject to the provisions of DMM C022; Publication 14, Prohibitions and Restrictions on Mailing Animals, Plants, and Related Products; and the quarantine regulations of the country of destination. Customers can obtain information from the U.S. Department of Agriculture (USDA) Animal and Plant Health Inspection Service (APHIS) Plant Protection and Quarantine (PPQ) Programs at: USDA APHIS PPQ, 4700 River Rd, Riverdale MD 20737-1228.

139.22 Tobacco Seeds and Tobacco Plants

It is unlawful to export any tobacco seed or live tobacco plants without a written permit granted by the U.S. Secretary of Agriculture. See 560 for procedures and processing requirements.

139.3 Eggs

139.31 Restrictions

Eggs may be sent only by parcel post. See 550 for nonpostal regulations on dried whole eggs.

139.32 Packaging

Eggs must be packaged in the following manner:

a. Eggs mailed to any country except Canada must be placed in a metal egg container. Each egg must be packed in cushioning material. The metal egg container must be enclosed in an outer container of wood with cushioning packed between the two containers.

b. Eggs mailed to Canada may be packed either as prescribed in 139.32a or in a box of rigid material with a tight-fitting lid. Each egg must be wrapped in protective material and placed on end. Vacant spaces in the box must be filled with packing material to prevent the eggs from striking each other or the box.

139.4 Food and Other Perishable Articles

Fruits, vegetables, fresh meats, and other articles that easily decompose or that cannot reasonably be expected to reach their destination without spoiling are nonmailable.

140 International Mail Categories

141 Definitions

141.1 General

There are five principal categories of international mail that are primarily differentiated from one another by speed of service. They are Priority Mail Global Guaranteed (PMGG), Express Mail International Service (EMS), Global Priority Mail (GPM), airmail, and economy mail.

141.2 Priority Mail Global Guaranteed

Priority Mail Global Guaranteed is the U.S. Postal Service's premium international mail service. PMGG is an expedited delivery service that is the product of a business alliance between the U.S. Postal Service and DHL Worldwide Express, Inc. It provides reliable, high-speed, time-definite service from designated U.S. ZIP Code areas to locations in most destination countries and territorial possessions. PMGG is guaranteed to meet destination-specific delivery standards or the postage will be refunded. If a shipment is lost or damaged, liability for document reconstruction is limited to a maximum of $100. The maximum weight limit is 70 pounds to all destinations.

141.3 Express Mail International Service

The next level of service, in terms of speed and value-added features, is Express Mail International Service. EMS is an expedited mail service that can be used to send documents and merchandise to most of the country locations that are individually listed in this publication. EMS insurance coverage against loss, damage, or rifling, up to a maximum of $500, is provided at no additional charge. Additional merchandise insurance coverage up to $5,000 may be purchased at the sender's option. However, document reconstruction insurance coverage is limited to a maximum of $500 per shipment. Return receipt service is available, at no additional charge, for EMS shipments that are sent to a limited number of countries. See 211.4. Country specific maximum weight limits range from 22 pounds to 70 pounds. See the Individual Country Listings. Although EMS shipments are supposed to receive the most expeditious handling available in the destination country, they are not subject to a postage refund guarantee if a delivery delay occurs.

141.4 Global Priority Mail

Global Priority Mail is an accelerated airmail service that provides customers with a reliable and economical means of sending correspondence, documents, printed matter, and light-weight merchandise items to the foreign destinations that are listed in 231.42. GPM items receive priority handling within the U.S. Postal Service and the postal administration of the country of destination. Senders can pay flat-rate postage by placing their contents into a standardized GPM envelope; or they can elect to pay variable weight postage by affixing a GPM sticker to a tyvek envelope, box, or other customer-furnished packaging. The maximum weight limit for GPM items is 4 pounds. Special services, such as registry, return receipt, recorded delivery, and insurance, are not available in combination with GPM service.

141.5 Airmail

Subject to the following definitions, airmail service may be used to send both letter-post items and parcel post packages to most foreign countries. Letter-post is a generic term for mailpieces of differing shapes, sizes, and contents, which weigh four pounds or less, that are subject to the provisions of the Universal Postal Union Convention. Letter-post items may contain any mailable matter that is not prohibited by the destination country. At the sender's option, special services, such as registry, return receipt, and recorded delivery, may be added on a country-specific basis.

Note: The letter-post classification encompasses all of the classes of international mail (i.e., letters and letter packages, post and postal cards, aerogrammes, printed matter, and small packets) that were formerly categorized as LC (letters and cards) and AO (other articles) respectively. Parcel post, which is otherwise referred to as CP mail, is differentiated from letter-post because it is governed by the provisions of the UPU Postal Parcels Agreement. That classification is primarily designed to accommodate larger and heavier shipments, whose size and/or weight transcend the established limitations for letter-post items. It also affords senders the opportunity to obtain optional mailing services, such as insurance coverage and return receipt, which would otherwise be unavailable.

141.6 Economy Mail

Mailpieces that are classified as letter-post or parcel post can also be entered as economy mail. Under that classification, they are subject to the same regulatory requirements and conditions of mailing as the airmail items. The substantive differences between the two levels of service primarily relate to mode of transportation (air or surface), speed of service, and price.

142 Envelope and Card Specifications

142.1 Color

Only light-colored envelopes and cards that do not interfere with the reading of the address and postmark should be used. Do not use brilliant colors.

142.2 Quality

Envelopes and cards should be constructed of paper strong enough to withstand normal handling. Highly glazed paper or paper with an overall design is not satisfactory.

142.3 Shape

Rectangular.

142.4 Minimum Size

a. Length: 5½ inches.

b. Height: 3½ inches.

142.5 Window Envelopes

Window envelopes may be used under the following conditions:

a. The address window must be parallel with the length of the envelope.

b. The address window must be in the lower portion of the address side.

c. Nothing but the name, address, and any key number used by the mailer may appear through the address window.

d. The return address should appear in the upper-left corner. If there is no return address and the delivery address does not show through the window, the piece will be handled as undeliverable mail.

e. The address disclosed through the window must be on white paper or paper of a very light color.

f. When used for registered mail, window envelopes must conform with the conditions in DMM S911.3.7.

g. Open panel envelopes, i.e., those in which the panel is not covered with a transparent material, are not acceptable in international mail.

142.6 Bordered Envelopes and Cards

Envelopes and cards that have green-colored bars or red-and blue-stripped borders may be used for the sending of airmail letter-post items.

143 Official Mail

143.1 Mailings by Federal Agencies

Official mail (sent by federal agencies and departments listed in USPS Handbook DM-103, Official Mail) that bears the indicia prescribed in DMM E060.6.0 through E060.8.0 may be sent to foreign destinations. Such items are subject to the postage payment requirements, weight and size limits, customs form requirements, and general conditions for mailing that otherwise apply to the class and category of the international mail being sent.

143.2 USPS Mailings

International mailpieces that are sent by or on behalf of the U.S. Postal Service must bear the prescribed G-10 permit indicia. USPS official mail is subject to a 66-pound weight limit except for Express Mail International Service (EMS) shipments going to Austria, Haiti, and Serbia-Montenegro and Priority Mail Global Guaranteed (PMGG) shipments going to all authorized destination countries, which have a 70-pound weight limit.

143.3 Mail of a Former President and Surviving Spouse of a Former President

All nonpolitical mail of former United States Presidents, and of the surviving spouse of a former President, must be accepted without prepayment of postage if it bears the written signature of the sender, or a facsimile signature and the words “POSTAGE AND FEES PAID” in the upper-right corner of the address side.

143.4 General Secretariat of the Organization of American States (OAS)

a. Ordinary (unregistered) economy mail and airmail letter-post items bearing the return address of the OAS General Secretariat and weighing not more than 4 pounds are accepted without postage when addressed to the OAS member countries listed in 143.4c.

b. Airmail service for items other than letter-post items and other special services may not be provided for OAS General Secretariat official mail without the prepayment of air postage or the fee for the special service requested.

c. The following countries are members of the Organization of American States (OAS):

Antigua and Barbuda

Argentina

Bahamas

Barbados

Bolivia

Brazil

Canada

Chile

Colombia

Costa Rica

Dominica

Dominican Republic

Ecuador

El Salvador

Grenada

Guatemala

Haiti

Honduras

Jamaica

Mexico

Nicaragua

Panama

Paraguay

Peru

St. Christopher and Nevis

St. Lucia

St. Vincent and the Grenadines

Suriname

Trinidad and Tobago

United States

Uruguay

Venezuela

143.5 Pan American Sanitary Bureau Mail

a. Ordinary (unregistered) economy mail and all letter-post items bearing the return address of the bureau and weighing not more than 4 pounds is accepted without postage affixed when addressed to an OAS member country listed in 143.4c or to Cuba.

b. Airmail service for items other than letter-post items and other special services may not be provided for bureau official mail without prepayment of air postage or of the fee for the special service requested.

150 Postage

151 Postage Rates

See Individual Country Listings.

152 Payment Methods

152.1 Prepayment

Each item must be fully prepaid to ensure prompt dispatch and to avoid assessment of charges against the addressee. For the treatment of shortpaid and unpaid mail, see 420.

152.2 Stamps

a. Postage and fees for special services (see chapter 3) may be paid by means of U.S. postage stamps, postage meter stamps, or postage validation imprinter (PVI) labels. PVIs are acceptable for all international mail transactions.

b. Precanceled stamps may be used under the conditions applicable to domestic mail (see DMM P023).

c. Airmail stamps may not be used on economy items.

d. Postal customers may affix nondenominated postage stamps (e.g., the “G” stamp) to international mailpieces, except for those that bear a uniquely domestic rate marking, such as First-Class Presort, Bulk Rate, Presorted Standard, or Nonprofit Organization. The nondenominated Breast Cancer Research Semipostal stamp, which has a postage value that is equivalent to the domestic rate for a 1-ounce First-Class letter, may also be used for international mailing purposes. See DMM P022.1.6.

Note: See DMM P022.2.2 for stamps not valid as postage.

152.3 Permit Imprint

152.31 Conditions of Use

Postage may be paid by permit imprints, subject to the general conditions stated in DMM P040 and P710.2.4. Postage charges are computed on PS Form 3651, International Statement of Mailing with Permit Imprints, or other postage statements as required.

152.32 Minimum Number of Pieces

A single mailing must consist of not less than 200 pieces identical in size and weight and addressed to foreign destinations, unless otherwise specified.

Note: The pieces comprising the mailing do not have to be addressed to a single country.

Exception: See 293.2.

152.33 Required Format

Permit imprints for international mail must be prepared in one of the forms shown in Exhibit 152.3. No variations or additions such as Bulk Rate, Presorted Standard, Enhanced Carrier Route Sort, Automation Rate, or Nonprofit Organization are allowed.

152.4 Publishers' Periodicals

Postage on publishers' periodicals (Periodicals Mail) mailed by publishers or registered news agents who are domestic Periodicals Mail permit holders may be paid as provided in 242.22 and 242.23.

Exhibit 152.3 Permit Imprints

[Exhibit not included.]

153 Placement of Postage

a. Postage stamps and postage-paid impressions must be applied to the address side of mail in the upper-right corner. The postage meter stamp, postage validation imprinter (PVI) label, or permit may be affixed directly on the mailpiece or on the wrapper when plastic wrap is used.

b. Nonpostage stamps, labels resembling postage stamps, or impressions resembling postage-paid impressions must not be placed on the address side of international mailpieces.

154 Remailed Items

New postage is required when mailpieces are reentered after having been returned to the sender by a foreign postal administration.

2 Conditions for Mailing

210 Priority Mail Global Guaranteed

* * * * *

220 Express Mail International Service

221 Description

221.1 General

Express Mail International Service (EMS) is a reliable high-speed mail service available to certain countries (see Individual Country Listings for service availability). There is no service guarantee for Express Mail International Service. Express Mail International is available at designated postal facilities for nonscheduled expedited services to addresses located in countries that offer Express Mail International Service.

221.2 Allowable Contents

Any item not prohibited in international mail is allowed in EMS. Refer to the “Country Conditions for Mailing” in the Individual Country Listings for individual country prohibitions. International postal money orders are admissible in EMS. However, they are only negotiable if the proper form is used. The following items are prohibited in all EMS shipments: coins; banknotes; currency notes (paper money); securities of any kind payable to bearer; traveler's checks; platinum, gold, and silver (manufactured or not); precious stones; jewelry; and other valuable articles.

221.3 Insurance and Indemnity

Express Mail International Service items are insured against loss, damage, or rifling at no additional cost. Indemnity will be paid by the U.S. Postal Service as provided in DMM S010 and S500. However, Express Mail International Service items are not insured against delay in delivery. Neither indemnity payments nor postage refunds will be made in the event of delay.

221.31 EMS Merchandise Insurance

Express Mail merchandise insurance coverage against loss, damage, or rifling is provided up to $500 at no additional charge. Additional insurance coverage above $500 may be purchased at the sender's option. The fee for optional Express Mail International Service merchandise insurance coverage is $1.00 for each $100 or fraction thereof, up to a maximum of $5,000 per shipment. See the Individual Country Listings for the applicable Express Mail insurance fees.

221.32 Purchase of Additional Insurance

When a mailer wants to insure an EMS merchandise shipment in an amount more than $500, the insurance fee is entered in the block marked “Insurance” on the mailing label. Coverage is limited to the actual value of the contents, regardless of the fee paid, or the highest insurance value increment for which the fee is fully paid, whichever is lower. See DMM S500.

221.33 Document Reconstruction Insurance

Nonnegotiable EMS documents are insured against loss, damage, or rifling at no additional cost to the mailer. Document reconstruction insurance coverage is limited to a maximum of $500 per shipment. Additional coverage beyond the $500 indemnity limit is not available. See DMM S010 and S500.

Note: EMS indemnity payments are subject to the provisions of DMM S010, DMM S500, and IMM 935. Neither indemnity payments nor postage refunds are payable for delayed delivery.

221.4 Return Receipt Service

Return Receipt service is available for Express Mail International items only to the following countries at no additional charge (see 340 for preparation procedures):

Argentina

Australia

Bahrain

Belgium

Germany

Greece

Guinea-Bissau

Hong Kong

Korea, Republic of (South)

Kuwait

Liechtenstein

Pakistan

Qatar

Singapore

South Africa

Spain

Switzerland

Taiwan

Tunisia

222 Postage

222.1 Rates

222.11 Country Rates

See the Individual Country Listings for countries that offer Express Mail International Service.

222.12 Express Mail Corporate Account Rates

Express Mail International Service (EMS) rates will be reduced by 5 percent for all payments made through an Express Mail corporate account (EMCA) or through the federal agency payment system. The discount applies only to the postage portion of EMS rates. It does not apply to the pickup service charge, additional merchandise insurance coverage fees, or shipments made under an International Customized Mail agreement.

222.2 Payment of Postage

222.21 Methods of Payment

Express Mail International Service items may be paid by postage stamps, postage validation imprinter (PVI) labels, postage meter stamps, or through the use of an Express Mail corporate account.

222.22 Application for Corporate Account

A written application is required before mailing can be made under a corporate account (see DMM P500).

222.23 Official Mail

222.231 Mailings by Federal Agencies

Express Mail International Service shipments that are entered by federal agencies and departments are subject to the same postage payment requirements, weight and size limits, customs form requirements, and general conditions for mailing as EMS shipments that are originated by nongovernmental entities.

222.232 USPS Mailings

EMS shipments mailed by U.S. Postal Service entities must bear the G-10 permit indicia that is prescribed for all USPS official mail. There is a 66-pound weight limit for USPS-originated EMS shipments going to all destination countries, unless the destination country has a higher weight limit. See 143.2.

222.24 Pickup Service

On-call and scheduled pickup services are available for an added charge of $10.25 for each pickup stop, regardless of the number of pieces picked up. Only one pickup fee will be charged if domestic Express Mail, domestic Priority Mail, international parcel post, and/or domestic Parcel Post is picked up at the same time. No pickup fee will be charged when international Express Mail is picked up during a delivery stop or during a scheduled stop made to collect other mail not subject to a pickup fee. Pickup service is provided in accordance with DMM D010.

223 Weight and Size Limits

223.1 Weight Limits

See the Individual Country Listings for countries that offer Express Mail International Service.

223.2 Size Limits

a. Maximum length: 36 inches.

b. Maximum length and girth combined: 79 inches.

Note: For exceptional size limits, see Individual Country Listings for countries that offer Express Mail International Service.

224 Preparation Requirements

224.1 Preparation by Sender

a. Complete the “From” and “To” portions of Label 11-B, Express Mail Post Office to Addressee, for each piece of mail and affix the completed label to each piece.

b. Prepare and affix the appropriate customs form to the piece of mail. See the Individual Country Listings for countries that offer Express Mail International Service for required customs declarations.

224.2 Preparation by Acceptance Employee

a. Check the address label to ensure that the sender has completed the “From” and “To” portions.

b. Verify that customer has properly completed the appropriate customs declaration form, if required.

c. Enter the originating facility ZIP Code; date and time received; weight; merchandise insurance fee, if applicable (see 211.52); total postage; and initial. Ensure that the correct amount of postage is affixed to the mailpiece.

d. Give the Customer Receipt copy to the mailer and retain the Finance Copy. Peel off the backing of the remaining portion and affix it to the item.

e. After acceptance, place each item in the appropriate working pouch and forward it to the international exchange office authorized to dispatch Express Mail International Service to that destination. (See Handbook T-5, International Mail Operators.)

224.3 Customs Forms Required

See the Individual Country Listings for countries that offer Express Mail International Service. Mailers are responsible for determining customs requirements and complying with them. Mailers should confirm before mailing merchandise whether an import license is required for that class of goods.

230 Global Priority Mail

231 Description

231.1 General

Global Priority Mail is an expedited airmail letter-post service providing fast, reliable, and economical delivery of all mailable items not over 4 pounds. Global Priority Mail items receive priority handling in the United States and in destination countries. Service is available only to destination countries identified in 231.42, from post offices identified in 231.41.

231.2 Allowable Contents

All items which may be sent as letter-post mail (see 241.1) are accepted in Global Priority Mail, provided that the contents are mailable and fit securely in the envelope or box. Items must fit comfortably within the envelope or box without distorting or bursting the container. Do not use excessive tape to keep the envelope or box from bursting. Use only one piece of tape to secure the flap. Global Priority Mail items may contain dutiable merchandise unless the country of destination specifically prohibits dutiable merchandise in letters. Any item that is prohibited in international mail is prohibited in Global Priority Mail. Refer to the “Country Conditions of Mailing” in the Individual Country Listings for individual country prohibitions.

231.3 Service Standards

Global Priority Mail is accepted at all USPS retail locations. There is a four-day delivery objective for GPM items that are deposited at postal locations that are linked to the USPS Eagle network (see Exhibit 231.41). When GPM items are tendered at “off-net” locations (all other locations), it generally requires an additional 1-2 business days to obtain delivery in the destination country. (Note: GPM mailings consisting of 200 or more identical pieces, which bear a permit imprint, must be deposited at a locally designated business mail entry unit.) Within each of the listed service areas, prepaid GPM items may be tendered to a letter carrier, deposited in an Express Mail street collection box, or placed in a post office or lobby mail drop.

231.4 Service Areas

231.41 Origins

Global Priority Mail service is available only through the designated post offices and the additional post offices listed in Exhibits 231.41a and b. Pickup Service is available for an additional fee. (See 236.3.)

Exhibit 231.41a GPM Acceptance Locations Linked to the Eagle Network (“On-Net”)

[Exhibit not included. Formerly Exhibit 226.32a.]

Exhibit 231.41b GPM Acceptance Locations Not Linked to the Eagle Network (“Off-Net”)

[Exhibit not included. Formerly Exhibit 226.32b.]

231.42 Destinations

Global Priority Mail service is available to the destination countries listed below. Those countries that have service only to designated locations are identified with a footnote. [Table not included.]

Exhibit 231.42 GPM Locations—China

[Exhibit not included. Formerly Exhibit 226.2.]

232 Postage

232.1 Rates

232.11 Flat-Rate Envelope Postage Rates

Each Global Priority Mail flat-rate envelope is charged at a flat rate. The rate is based on the geographic rate zone regardless of its actual weight. Postage is required for each piece. (See Exhibit 232.11.)

Exhibit 232.11—Flat-Rate Envelope Postage Rates
Envelope | Rate group 1 (Canada) | Rate group 2 (Mexico) | Rate group 3 | Rate group 4 (Australia, Japan, New Zealand) | Rate group 5
Small | $4.00 | $4.00 | $5.00 | $5.00 | $5.00
Large | 7.00 | 7.00 | 9.00 | 9.00 | 9.00

232.12 Variable-Weight Option Postage Rates

Global Priority Mail variable-weight rates are calculated in half-pound (or fraction thereof) increments based on the weight of each piece (up to 4 pounds) and the destination geographic rate zone. Each GPM mailpiece that is paid for on that basis must have a variable-weight sticker affixed to the address side or be enclosed in a USPS-furnished flat-size (Tyvek) envelope or cardboard box that is specifically intended for the transmittal of GPM items. (See Exhibit 232.12.)

Exhibit 232.12—Variable-Weight Option Postage Rates
Weight not over (lbs.) | Rate group 1 (Canada) | Rate group 2 (Mexico) | Rate group 3 | Rate group 4 (Australia, Japan, New Zealand) | Rate group 5
.5 | $6.00 | $7.00 | $9.00 | $8.00 | $8.00
1 | 8.00 | 9.00 | 11.00 | 10.00 | 12.00
1.5 | 9.00 | 10.00 | 13.00 | 12.00 | 14.00
2 | 11.00 | 12.00 | 16.00 | 15.00 | 17.00
2.5 | 12.00 | 13.00 | 19.00 | 18.00 | 20.00
3 | 14.00 | 15.00 | 22.00 | 21.00 | 23.00
3.5 | 16.00 | 17.00 | 24.00 | 23.00 | 25.00
4 | 18.00 | 19.00 | 27.00 | 26.00 | 28.00

232.2 Payment of Postage

232.21 Methods of Payment

Nonidentical-weight piece mailings must have the applicable postage affixed by adhesive stamps, meter stamps, or, if presented at a post office, postal validation imprinter (PVI labels). Identical-weight piece mailings may be paid by meter stamps, adhesive stamps, PVI labels, or permit imprint, subject to certain standards. To use a permit imprint, a mailing must consist of 200 or more identical-weight pieces. Mailers may use a permit imprint with nonidentical pieces only if authorized by the USPS under a Manifest Mailing System (MMS), as specified in DMM P710.

232.22 Permit Imprint Content and Format

All permit imprints on Global Priority Mail must show city and state, “Global Priority Mail,” “U.S. Postage Paid,” and permit number. They may show the mailing date, amount of postage paid, or the number of ounces.

232.23 Postage Meter Stamps

At a minimum, a meter stamp must show in the postmark the month, day, and year; city and state designation of the licensing post office; the number; and the amount of postage. See DMM P030.4.6.

233 Preparation Requirements

233.1 Addressing

All items must bear the complete delivery address of the addressee and the full name (no abbreviations) of the destination country. See 122.

233.2 Packaging

Flat-rate Global Priority Mail must be enclosed in a designated USPS envelope (EP-15A or EP-15B). Variable-weight Global Priority Mail must be tendered in a USPS Tyvek envelope (EP-15GP), a USPS Global Priority Mail box (O1099), or have a Global Priority Mail sticker (DEC-10) affixed to the address side of the mailpiece. (GPM mailing supplies can be obtained by calling 800-222-1811.) Unmarked pieces are subject to regular airmail letter-post rates and treatment.

233.3 Customs Form Required

If the GPM mailpiece weighs | And it contains | Required customs form(s)
Less than 16 ounces | Documents; business papers; or non-dutiable printed matter | No form required.
| Dutiable printed matter or merchandise items with a value under $400. | Affix a completed PS Form 2976 (green label) to the exterior of the mailpiece.
| Merchandise items with a value of $400 or more | Place a completed PS Form 2976-A inside the packaging. Affix the upper-left section of PS Form 2976 (green label) to the exterior of the mailpiece.
16 ounces or more | Documents; business papers; dutiable and non-dutiable printed matter; or merchandise items with a value under $400 | Affix a completed PS Form 2976 (green label) to the exterior of the mailpiece.
| Merchandise items with a value of $400 or more | Place a completed PS Form 2976-A inside the packaging. Affix the upper-left section of PS Form 2976 (green label) to the exterior of the mailpiece.

Note: GPM customers who send flat-rate envelopes or variable-weight option mailpieces that weigh 16 ounces or more, bear a permit imprint, and contain correspondence, business papers, or nondutiable printed matter are eligible for the known mailer exemption that is referenced in 123.62.

234 Size and Weight Limits

234.1 Size Limits

234.11 Flat-Rate Envelope Sizes

a. Small—6 x 10 inches.

b. Large—9½ x 12½ inches.

234.12 Package Sizes for Variable-Weight Option

a. Minimum length and height: 5½ x 3½ inches.

b. Minimum depth (thickness): .007 inches.

c. Maximum length: 24 inches.

d. Maximum length, height, and depth (thickness) combined: 36 inches.

234.13 Rolls

a. Minimum length: 4 inches.

b. Minimum length plus twice the diameter combined: 6¾ inches.

c. Maximum length: 36 inches.

d. Maximum length plus twice the diameter combined: 42 inches.

234.14 Global Priority Mail Tyvek Envelope

The dimensions of the Global Priority Mail Tyvek envelope are 12 x 15½ inches.

234.2 Weight Limit

All Global Priority Mail items are subject to a 4-pound weight limit.

235 Special Services

Mailers may obtain certificates of mailing (see 310). No other special services, such as registry, insurance, restricted delivery, return receipt, or recorded delivery, are available.

236 Mail Entry

236.1 Preparation

Unless otherwise instructed by USPS acceptance personnel, customers who tender Global Priority Mail at a business mail entry unit (BMEU) must separate the items by destination rate group and by flat-rate envelope size (i.e., small or large), if applicable. Mailpieces that bear a permit imprint or a postage meter impression must be faced in the same direction.

236.2 Deposit of Mail

Global Priority Mail flat-rate envelopes and variable-weight option mailpieces, which bear either stamped or metered postage, may be deposited wherever Express Mail is accepted. This includes acceptance by a retail employee at a post office counter; acceptance by a letter carrier while a delivery route is being served; deposit into an Express Mail street collection box if the mailpiece weighs less that 16 ounces; or by telephoning 800-222-1811 to request pickup at the customer's premises. Global Priority Mail that bears a permit imprint must be deposited at a business mail entry unit or other acceptance point that is authorized by the postmaster. Global Priority Mail that bears a meter stamp or impression must be deposited at a location that is under the jurisdiction of the licensing post office, except as permitted under DMM P030.

236.3 Pickup Service

On call and scheduled pickup services are available for Global Priority Mail acceptance cities. There is a charge of $10.25 for each pickup stop, regardless of the number of pieces picked up. (See DMM D010 for standards of pickup service.) Pickup service is not available for GPM items that bear a permit imprint and that are paid for through an advance deposit account.

240 Letter-Post

241 Description

241.1 Definition

The letter-post classification encompasses all of the classes of international mail: letters and letter packages, post and postal cards, aerogrammes, printed matter, and small packets that were formerly categorized as LC (letters and cards) and AO (other articles).

241.2 Mailable Matter

Any article that is otherwise acceptable and not prohibited by the country of destination, subject to applicable weight and size limits, may also be mailed at the letter-post rate, either airmail or economy.

242 Postage

242.1 Rates

See Individual Country Listings for airmail and economy rates.

242.2 Payment of Postage

Mailers of letter-post items may pay postage with postage stamps, postage meter stamps, postage validation imprinter (PVI) label, and by permit imprint.

243 Weight and Size Limits

243.1 Weight Limit

The weight limit is 4 pounds.

243.2 Size Limits

243.21 Envelopes and Packages

a. Minimum length and height: 5½ x 3½ inches.

b. Minimum depth (thickness): .007 inch.

c. Maximum length: 24 inches.

d. Maximum length, height, depth (thickness) combined: 36 inches.

243.22 Rolls

a. Minimum length: 4 inches.

b. Minimum length plus twice the diameter combined: 6¾ inches.

c. Maximum length: 36 inches.

d. Maximum length plus twice the diameter combined: 42 inches.

243.23 Cards

Unenclosed cards exceeding the size limits for post cards are admissible at the letter-post rate if they do not exceed 4¾ x 9-¼ inches.

243.24 Nonstandard Surcharge

A surcharge of $0.11 per article will be assessed on all outbound air and economy letter-post items weighing 1 ounce or less if:

a. Its length exceeds 11½ inches.

b. Its height exceeds 6⅛ inches.

c. Its thickness exceeds ¼ inch.

d. Its length divided by its height results in an aspect ratio that is less than 1.3 or more than 2.5.

244 Preparation Requirements

244.1 Addressing

See 122.

244.2 Marking

a. Whenever items, because of their size and manner of preparation, may be mistaken for items of another class, the sender should add the word “LETTER” or “LETTRE” on the address side.

b. The sender should mark “AIRMAIL/PAR AVION” or affix Label 19-A, Par Avion Air Mail, or Label 19-B, Air Mail Par Avion, on front and back of items paid at the airmail letter-post rate.

244.3 Sealing

Unregistered letter-post items may be sealed at the sender's option. Registered items must be sealed. (See 334.4 for sealing requirements for registered mail.)

244.4 Packaging

Items prepaid at the letter-post rate of postage must be placed in envelopes or prepared in package form.

244.5 Customs Forms Required

244.51 Dutiable Merchandise

a. Any merchandise sent to another country may be subject to duty under the customs regulations of that country. The Postal Service does not maintain or provide information concerning the assessment of customs duty.

b. Letter-post items may contain dutiable merchandise unless the country of destination prohibits dutiable merchandise in letters. (See Individual Country Listings.)

c. When mailing articles that may be dutiable, sender must comply with 123.61 and with special instructions under “Customs Forms Required” and “Observations” in Individual Country Listings.

244.52 Nondutiable Merchandise

Nondutiable merchandise may be mailed (at the sender's risk) to countries that do not accept dutiable merchandise. The Postal Service assumes no responsibility for the treatment such items may receive in the country of destination.

Note: Because PS Form 2976 described in 123.61, generally denotes dutiable contents, it should be omitted from letter-post mail when the sender knows the contents are not dutiable, unless the item weighs 16 ounces or more.

250 Postcards and Aerogrammes

251 Description

251.1 Postal Cards/Postcards

251.11 Definition

Postal cards and postcards consist of single cards sent without a wrapper or envelope. Folded (double) cards must be mailed in envelopes at the letter-post rate of postage.

251.12 Reply-Paid Cards

Reply-paid cards are not accepted in international mail, except as provided in 132.2.

251.13 Specifications

Postcards must be made of cardboard or paper that meets the material and color specifications in 142.

251.14 Privately Manufactured Postcards

Privately manufactured postcards, except picture postcards, must bear the heading Postcard.

251.15 Permitted Attachments

The following may be glued on the left half of the address side of a card, or on the side opposite the address side, if they are made of paper or other thin material and adhere completely to the card:

a. Clippings of any kind.

b. Illustrations or photographs.

c. Labels other than address labels.

d. Stamps of any kind, except stamps likely to be confused with postage stamps, must not be placed on the address side of the card.

e. Address labels or address tabs that may be glued to the address side of the card.

251.16 Nonpermitted Attachments

The following must not be attached to cards:

a. Cloth, embroidery, or spangles.

b. Samples of merchandise.

251.2 Aerogrammes

251.21 Definition

Aerogrammes are letter sheets that can be folded into the form of an envelope and sealed. Tape or stickers must not be used to seal aerogrammes.

251.22 Postage

Aerogrammes (bearing imprinted postage) are sold at all post offices. Approved aerogrammes (without imprinted postage) obtained from private firms must have aerogramme-rate postage affixed. However, privately printed aerogrammes sent to Canada and Mexico may bear the appropriate airmail letter-post postage rate.

251.23 Available Service

Aerogramme service is available to all countries. Registry is available for aerogrammes. Recorded delivery service is available for aerogrammes if that service is available to the country of destination. See Individual Country Listings.

251.24 Enclosures

Enclosures are not permitted in aerogrammes. Aerogrammes that contain enclosures are treated as airmail letters and are subject to air letter postage rates. Aerogrammes with enclosures on which postage has not been paid at airmail letter rates must be returned to the sender for the deficiency or treated in accordance with 423.

251.3 Aerogrammes of Private Manufacture

251.31 Authorization

Individuals or firms may be authorized by the Postal Service to manufacture aerogrammes, without imprinted postage, for their own use or for sale to the public.

251.32 Approval

Before engaging in production, the applicant must apply for an aerogramme permit, submit three printed samples of the proposed aerogramme, and obtain authorization from: Manager, Pricing Costing and Classification, International Business, U.S. Postal Service, 475 L'Enfant Plz SW 370 IBU, Washington, DC 20260-6500.

A sample format may be obtained from that office.

251.33 Specifications for Submitted Samples

The samples submitted for approval and the final printing of the aerogrammes must be on 18-pound paper (500 sheets, 17 × 22 inches) of light blue color as well as the texture equivalent to the regular three-flap aerogramme issued by the U.S. Postal Service. No artificial slippery finish, such as a silicon plastic, is permitted. The sheets, when folded, must measure 7¼ × 3 9/16 inches and have three sealing flaps. Samples submitted for approval need not have the flaps gummed, but the areas to be gummed must be identified. The sheets must:

a. Bear the printed endorsements that appear on the address and reverse sides of the aerogramme issued by the Postal Service.

b. Contain the printed return address of the applicant, or lines on which the return address may be written if the sheets are to be reproduced for sale to the public.

c. Bear the words “AUTHORIZED FOR MAILING AS AN AEROGRAMME—P.S. PERMIT NO. * * *” (the number to be filled in when issued).

These words must be printed in small, clear type and appear on the lower edge of the address side (when the sheet is folded for mailing). The permit number will be issued at the time the aerogramme is approved.

252 Postage Rates

Postal Cards/Postcards

Canada: $0.50

Mexico: $0.50

All other countries: $0.70

Aerogrammes

All countries: $0.70

253 Weight and Size Limits

253.1 Weight Limits

Postcards weigh approximately the same as postal cards. See 142.

253.2 Size Limits

253.21 Postcards

a. Minimum: 3½ × 5½ inches.

b. Maximum: 4¼ × 6 inches.

Note: See 243.23 for larger cards.

253.22 Aerogrammes

The size limit for an aerogramme is 7¼ × 3 9/16 inches.

254 Preparation Requirements

254.1 Addressing

See 122.

254.2 Marking—Postal Cards/Postcards

254.21 Airmail

The sender should mark postcards Par Avion or affix Label 19-A, Par Avion Air Mail, or Label 19-B, Air Mail Par Avion, on the left side on the front.

254.22 Right Half of Postcard

The right half of the address side of a card must be reserved for the address of the addressee and postal notations or labels.

254.23 Left Half and Reverse Side

The sender may use the left half of the address side of the card and the reverse side for a message or permissible attachments described in 231.15. The sender must use the upper-left half of the address side for his or her return address. (Unless they bear the name and address of the sender, undeliverable cards are disposed of in the country of destination.)

254.3 Sealing Aerogrammes

Tape or stickers must not be used to seal aerogrammes.

260 Direct Sacks of Printed Matter to One Addressee (M-Bags)

261 General Description

261.1 Definition

Direct sacks of printed matter to a single foreign addressee, which are also known as M-bags, are subject to the following conditions of mailing:

Minimum weight: 11 pounds. (Note: M-bags weighing less than 11 pounds may be admitted, provided that the sender pays the applicable 11-pound postage rate.)

Maximum weight: 66 pounds (including the tare weight of the sack).

Availability: All destinations that are referenced in the Individual Country Listings.

Identification: PS Tag 158, M-Bag Addressee Tag, must be completed and attached to the neck of the sack.

Postage: The applicable airmail, economy (formerly surface), or International Surface Air Lift (ISAL) postage must be affixed to PS Tag 158.

Special services: Certificate of mailing and recorded delivery are available. Registry, insurance, return receipt, and restricted delivery are not available.

261.2 Allowable Contents

261.21 Printed Matter

Printed matter is admissible in M-bags. Printed matter is defined as paper on which words, letters, characters, figures, images, or any combination thereof, not having the character of a bill or statement of account, or of actual or personal correspondence, have been reproduced by any process other than handwriting or typewriting. Articles that meet the printed matter definition include newspapers, magazines, journals, books, sheet music, catalogues, directories, commercial advertising, and promotional matter.

261.22 Merchandise

Articles of merchandise may be enclosed in M-bags under the following conditions:

a. The merchandise items being sent are limited to disks, tapes, and cassettes; commercial samples shipped by manufacturers and distributors; or other non-dutiable commercial articles or informational materials that are not subject to resale.

b. The merchandise items relate to the printed matter (see 261.21) with which they are being mailed.

c. The merchandise items are affixed to or are otherwise combined with the accompanying printed matter.

d. The weight of each mailpiece or package, which contains merchandise in combination with printed matter, may not exceed 4 pounds.

e. The M-bag must be accompanied by a fully completed PS Form 2976, Customs—CN 22 (Old C1) and Sender's Declaration.

262 Postage

262.1 Rates

See the Individual Country Listings for airmail and economy M-bag rates, and 293.71 for International Surface Air Lift (ISAL) M-bag rates.

262.2 Payment of Postage

262.21 Stamps

Postage is calculated on the weight of the sack's contents. It is payable by affixing postage stamps, meter stamps, or a postage validation imprinter (PVI) label to PS Tag 158, M-Bag Addressee Tag.

262.22 By Indicia

If a publisher or registered news agent prepares a direct sack of publishers' periodicals (Periodicals Mail matter) for one addressee and desires to pay the postage from money on deposit with the postmaster, the postage must be computed at the per-copy rate based on the report on PS Form 3541-N, Postage Statement—Periodicals Nonprofit Rates, or PS Form 3541-R, Postage Statement—Periodicals Regular and Science-of-Agriculture Rates. In lieu of stamped or metered postage, the accompanying M-bag tag must bear the applicable Periodicals Mail indicia.

Note: The $0.25 per pound postage rate discount that is available to publishers or registered news agents who “drop ship” their mail at the New Jersey International and Bulk Mail Center (NJI&BMC) does not apply to M-bags.

263 Weight and Size Limits

263.1 Weight Limits

The minimum weight limit is 11 pounds and the maximum weight limit is 66 pounds, including the tare weight of the sack.

Note: M-bags weighing less than 11 pounds may be admitted, provided that the sender pays the applicable 11-pound postage rate.

263.2 Size Limits

There are no defined size limits so long as articles being sent can be enclosed in the mailbag.

264 Preparation Requirements

264.1 Marking

Printed matter, or printed matter in combination with merchandise items, must be placed into one or more individual packages bearing the name and address of the sender and addressee. Each package must be marked “POSTAGE PAID—M-BAG.”

264.2 Sacking and Labeling

264.21 Equipment

The sacks and mailing tags (i.e., PS Tag 158) needed for M-bag entry can be obtained from the local post offices. Airmail pouches, if available, will be furnished to customers who intend to utilize that type of M-bag service.

264.22 Tagging

PS Tag 158, M-Bag Addressee Tag, must be completed and attached to the neck of the sack. It must bear the requisite amount of stamped or metered postage or the sender's authorized permit imprint or indicia (see 262.2).

264.23 Multiple Sacks to One Addressee

If multiple sacks are sent to the same foreign addressee, PS Tag 158 must be marked with an identifiable fraction such as ⅕, ⅖, ⅗, etc.

264.24 Country Destination Name

The post office must label the sack with the name of the country of destination in large letters and the name of the U.S. dispatching exchange office in small letters (for example, Great Britain via New York), and send it to that exchange office for dispatch to destination.

264.3 Customs Forms Required

M-bags containing merchandise items (see 261.22) or printed matter that is known to be dutiable in the country of destination must be accompanied by a fully completed PS Form 2976, Customs—CN 22 (Old C1) and Sender's Declaration.

270 Matter for the Blind

271 Description

Matter for the blind in international mail is limited to:

a. Books, periodicals, and other matter (including unsealed letters) impressed in Braille or other special type for the use of the blind.

b. Plates for embossing literature for the blind.

c. Discs, tapes, or wires bearing voice recordings and special paper intended solely for the use of the blind, provided they are sent by or addressed to an officially recognized institution for the blind.

d. Sound recordings or tapes that are mailed by a blind person.

e. Those items listed in DMM E040.2.0.

272 Postage Rates

Surface: Free.

Air: No separate airmail rates are provided for matter for the blind. If airmail service is desired, use airmail letter-post, air parcel post, or other category that meets service request. These items are subject to the weight, size, and preparation requirements of the category of mail selected.

273 Weight and Size Limits

273.1 Weight Limit

The weight limit is 15 pounds.

273.2 Size Limits

273.21 Envelopes and Packages

a. Minimum length and height: 5½ × 3½ inches.

b. Minimum depth (thickness): .007 inch.

c. Maximum length: 24 inches.

d. Maximum length, height, depth (thickness) combined: 36 inches.

273.22 Rolls

a. Minimum length: 4 inches.

b. Minimum length plus twice the diameter combined: 6¾ inches.

c. Maximum length: 36 inches.

d. Maximum length plus twice the diameter combined: 42 inches.

274 Preparation Requirements

274.1 Addressing

See 122.

274.2 Marking

274.21 Matter for the Blind Sent as Surface Mail

For surface mail accepted as matter for the blind, the word “FREE” must be placed in the upper-right corner, immediately above the words “MATTER FOR THE BLIND.”

274.22 Name of Officially Recognized Institution

The officially recognized institution for the blind must appear in the address or the return address for the following items:

a. Disks, tapes, or wires bearing voice recordings.

b. Special paper intended solely for the use of the blind.

274.3 Sealing

Matter for the blind must not be sealed, even if registered.

274.4 Packaging

274.41 Subject to Postal Inspection

Matter for the blind is subject to postal inspection (see ASM 274), and must be prepared in such a way that the contents are protected but inspection of the contents is not hindered.

274.42 Types of Containers

The items must be placed in wrappers, in rolls, between cardboard, or in bags, boxes, unsealed envelopes, or containers. Dangerous fasteners may not be used. The articles may also be tied with string or twine in a manner that will permit them to be easily untied.

280 Parcel Post

281 General

Parcel post resembles domestic zone-rated Standard Mail (B) mail. Merchandise is permitted, but written communications having the nature of current and personal correspondence are not permitted.

Note: Parcel post is the only class of mail that may be insured (see 322).

282 Postage

282.1 Rates

See Individual Country Listings.

282.2 Mailing Locations

Parcels should be presented for mailing at a post office window.

282.3 Pickup Service

Scheduled pickup service is available for an added charge of $8.25 for each pickup stop regardless of the number of pieces picked up. Only one pickup fee will be charged if domestic Express Mail, international Express Mail, domestic Priority Mail, and/or domestic Parcel Post is also picked up at the same time. No pickup fee will be charged when international parcel post is picked up during a delivery stop or during a scheduled stop made to collect other mail not subject to a pickup fee. Pickup service is provided in accordance with DMM D010.

283 Weight and Size Limits

283.1 Weight Limits

See Individual Country Listings.

283.2 Size Limits

283.21 Rectangular Parcels

a. Minimum length and width: 5½ x 3½ inches.

b. Maximum length: 42 inches.

c. Maximum length and girth combined: 79 inches.

283.22 Circular Parcels

Maximum girth (measured along diameter): 64 inches.

283.23 Exceptional Size Limits

Rectangular-shaped parcels with dimensions that exceed the standard 42-inch (maximum length) and 79-inch (maximum length and girth combined) size limits can be sent to Belgium, Canada, Germany, Great Britain, Hong Kong, Ireland, Japan, Liechtenstein, Macao, Sweden, and Switzerland. See the relevant Individual Country Listings, under the heading “Size Limits,” for the exceptional size limits that apply to parcels addressed to each of those destination countries.

284 Preparation Requirements

284.1 Addressing

See 122. Name and address of sender and addressee should also be recorded on a separate slip enclosed in the parcel.

284.2 Marking

For air

parcels, the accepting clerk must place Label 19-A or Label 19-B on the address side, below and to the left of the name of the country of destination. To preclude an airmail parcel from being handled as surface mail, accepting clerks may also put the written endorsement or Label 19-A or Label 19-B on the back lower left of the parcel.

284.3 Sealing

284.31 Requirements

All international parcels must be sealed.

284.32 Sealing Materials

Senders must seal their own parcels. Wax, gummed-paper tape, nails, screws, wire, metal bands, or other materials may be used to seal parcels. The seal must be sufficient to allow detection of tampering.

284.4 Packaging

284.41 Packaging Requirements

Every parcel must be securely and substantially packed. In packing, the sender must consider the nature of the contents, the climate, the length of the journey, and the numerous handlings involved in the conveyance of international mail.

284.42 Types of Containers

Ordinary paperboard containers are not acceptable. Parcels must be packed in one of the following:

a. Canvas or similar material.

b. Double-faced corrugated or solid (minimum 275-pound test) fiber boxes or cases.

c. Strong wooden boxes made of lumber at least ½ inch thick or plywood of at least three plies.

284.43 Use of Wrapping Paper

Heavy wrapping paper or waterproof paper is permitted only as the outside covering of a carton.

284.44 Boxes With Screwed or Nailed Lids

If otherwise acceptable, boxes with screwed- or nailed-on lids and bags closed by sewing may be used. Heavy objects, such as cans of food, must be surrounded with other contents or packing material in order to prevent their shifting within the parcel. For illustrations or recommended packing procedures, see DMM C010.

284.45 Customs Forms Required

All parcel post packages must bear PS Form 2976-A.

284.46 Nonpostal Documentation

Forms required by nonpostal export regulations are described in chapter 5.

290 Commercial Services

291 [Reserved]

292 International Priority Airmail Service

292.1 Description

292.11 General

International Priority Airmail (IPA) service is as fast as or faster than regular international airmail service. It is available to bulk mailers of all letter-post items that are prepared by the sender in accordance with the requirements of this subchapter. Separate rates are provided for presorted mail and nonpresorted mail with drop shipment and volume discounts available.

292.12 Qualifying Mail

Any item of the letter-post classification, as defined in 141.5 and 141.6, qualifies, including aerogrammes and post cards. Items do not have to be of the same size and weight to qualify.

292.13 Minimum Quantity Requirements

292.131 Worldwide Nonpresort Mail

The mailer must have a minimum of 11 pounds of mail in the total mailing. The minimum does not apply to each country destination.

292.132 Presort Mail

The mailer must have a minimum of 11 pounds of presorted mail to a single rate group, including Canada, to qualify for the presort rate for that rate group.

Note: Mail that cannot be made up in direct country packages (292.452a), in direct country sacks (292.461), or in trays (292.465a) does not qualify for the presort rates and is subject to the worldwide nonpresort rates.

292.14 Dutiable Items

Dutiable items may be sent in accordance with the applicable rules in this subchapter for those classes of mail. Parcel post (CP) items, either ordinary or insured, may not be mailed as International Priority Airmail.

292.15 Deposit

292.151 Full Service

Mailings must be deposited and accepted at a business mail entry unit of the post office where the mailer holds an advance deposit account or postage meter license.

292.152 Drop Shipment

To qualify for the drop shipment rates, the mailer must tender the mail to one of the locations in 292.153. The mailer must pay postage at the drop shipment location either through an advance deposit account or postage meter license at the serving post office. As an alternative, mailers who are participating in a PVDS program (see DMM P750) may have the mail verified, accepted, and paid for at the mailer's plant or at the origin post office serving the mailer's plant if authorized under DMM P750.2.2. Plant-verified drop shipment mail must be transported by the mailer to the drop shipment location and the mail accompanied by PS Form 8125, Drop Shipment Clearance Document.

292.153 Drop Shipment Locations

Drop shipment rates are available from the following offices:

New York:

John F Kennedy Airport Mail Ctr, U.S. Postal Service, John F Kennedy International Airport, Bldg 250, Jamaica, NY 11430-9998

Florida:

Miami International Service Ctr*, U.S. Postal Service, 11690 NW 25th St, Miami FL 33172-1702

Miami Processing and Distribution Ctr, U.S. Postal Service, 2200 NW 72nd Ave, Miami FL 33152-9997

Texas:

Dallas International Service Ctr, U.S. Postal Service, 15050 Trinity Blvd, Fort Worth TX 76155-3203

Illinois:

Chicago O'Hare International Annex, U.S. Postal Service, 514 Express Center Dr, Chicago IL 60688-9998

California:

San Francisco ISC, U.S. Postal Service, 2650 Bayshore Blvd, Daly City, CA 94013-1631

Worldway Airport Mail Ctr, U.S. Postal Service, 21750 Arnold Center Rd, Carson, CA 90810-9998

*Only plant-verified mail is transported to these facilities by the mailer.

292.16 Special Services Not Available

Items sent in this service may not be registered.

292.2 Postage

292.21 Rates

292.211 General

There are two rate options for International Priority Airmail service: a presort rate option that has eight rate groups, and a worldwide nonpresort rate. For both options, there are full service rates for mail deposited at offices other than the drop shipment offices listed in 292.153, and drop shipment rates for mail deposited at one of the drop shipment offices. The per-piece rates and per-pound rates are shown in Exhibit 292.11. The per-piece rate applies to each piece regardless of its weight. The per-pound rate applies to the net weight (gross weight minus tare weight of sack) of the mail for the specific rate group. Fractions of a pound are rounded to the next whole pound for postage calculation.

Exhibit 292.211.—International Priority Airmail Rates
Rate group | Per piece | Drop shipment per pound | Full service per pound
1 (Canada) | $0.25 | $2.60 | $3.60
2 (Mexico) | 0.12 | 4.60 | 5.60
3 | 0.20 | 4.25 | 5.25
4 | 0.20 | 5.50 | 6.50
5 | 0.12 | 4.60 | 5.60
6 | 0.12 | 4.75 | 5.75
7 | 0.12 | 6.25 | 7.25
8 | 0.12 | 7.25 | 8.25
Worldwide | 0.20 | 7.00 | 8.00

291.212 Volume Discount

Mailers who spend $2 million or more on IPA and ISAL in the preceding postal fiscal year may receive discounts as follows:

a. $2 million to $5 million: 5 percent discount.

b. Over $5 million to $10 million: 10 percent discount.

c. Over $10 million: 15 percent discount.

Mailers entitled to these discounts must place the full per-piece rate on each piece of mail if payment is by postage meter or mailer-precanceled stamps. The discount is calculated on the postage statement.

292.213 Qualifying for Volume Discounts

To qualify for volume discounts, mailers must apply in writing to: Manager Marketing and Sales, International Business, U.S. Postal Service, 475 L'Enfant Plz SW 370 IBU, Washington DC 20260-6500.

The manager evaluates all requests and informs the mailer and the post office(s) of mailing whether discounts are approved and the level of discount. Mailers must supply the following information:

a. Postal fiscal year for the qualifying mail.

b. Permit number(s) and post office(s) where the permits are held.

c. Total revenue for the postal fiscal year.

d. Post office(s) where the discount is to be claimed.

The combined IPA and ISAL revenue is counted toward the discounts. The Postal Service will count as revenue to qualify for the volume discounts only postage paid by the permit holder. If a permit holder has more than one account, or accounts in several cities, then these revenues may be combined to qualify for discounts. Agents who prepare mail for the owner of the mail and mail paid by the owner's permit may not be included in the revenue to qualify for the discounts. Customers may be required to substantiate their request by providing copies of all postage statements for the appropriate postal fiscal year. All decisions of the Manager, Mail Order are final.

292.214 Availability

IPA service is available to all foreign countries, as listed in Exhibit 292.452, which shows the rate group assigned to each country.

292.215 Presort Rates

To qualify for the presort rates (see Exhibit 292.211), a mailing must consist of a minimum of 11 pounds to a specific rate group. This minimum applies to each rate group and not to the entire mailing. Within a rate group, all mail addressed to an individual country must be sorted into direct country packages of 10 or more pieces (or 1 pound or more of mail) and/or sacked in direct country sacks of 11 pounds or more. Mail that cannot be made up into direct country packages or direct country sacks must be sent at the worldwide nonpresort rates.

Note: There are separate preparation requirements for mail to Canada. See 292.465.

292.216 Separation by Rate Group

The mailer must specify the rate group on the back of PS Tag 115, International Priority Airmail, with 1 (Canada), 2 (Mexico), 3, 4, 5, 6, 7, 8, or WW (Worldwide), and must physically separate the sacks by rate group at the time of mailing.

292.217 Computation of Postage

Postage is computed on PS Form 3652, Postage Statement—International Priority Airmail. Postage at the worldwide nonpresort rate is calculated by multiplying the number of pieces in the mailing by the applicable per-piece rate, multiplying the net weight (in whole pounds) of the entire mailing by the applicable per-pound rate, and then adding the two totals together. Postage at the presorted rates is calculated by multiplying the number of pieces in the mailing destined for countries in a specific rate group by the appropriate per-piece rate, multiplying the net weight (in whole pounds) of those pieces by the corresponding per-pound rate, and then adding the two totals together. Volume discounts are calculated on the postage statement.

292.22 Postage Payment Methods

292.221 General

a. Postage Meter or Permit Imprint. Postage must be paid by postage meter, permit imprint, or mailer-precanceled stamps (see DMM P023.3.0) or a combination. Postage charges are computed on PS Form 3652.

b. Piece Rate Portion. The applicable per-piece postage must be affixed to each piece by meter unless postage is paid by permit imprint (see 292.223).

c. Pound Rate Portion. Postage for the pound rate portion must be paid either by meter stamp(s) attached to the postage statement or from the mailer's authorized permit imprint advance deposit account.

292.222 Postage Meter

a. Postage Endorsement. When postage is paid by meter or mailer-precanceled stamps, each piece must be legibly endorsed with the words “INTERNATIONAL PRIORITY AIRMAIL.”

b. Specifications for Endorsement. The endorsement required in 292.222a must appear on the address side of each piece and must be applied by a printing press, hand stamp, or other similar printing device. It must be printed above the name of the addressee and to the left or below the postage, or it may be printed adjacent to the meter stamp in either the postal inscription slug area or ad plate area. If the postal endorsement appears in the ad plate area, no other information may be printed in the ad plate. The endorsement may not be typewritten or hand-drawn. The endorsement is not considered adequate if it is included as part of a decorative design or advertisement.

c. Unmarked Pieces. Unmarked pieces lacking the postage endorsement required by 292.222a are subject to the airmail letter-post single piece rates.

d. Drop Shipment of Metered Mail. Mailers who want to enter metered IPA mail at a post office other than where the meter is licensed must obtain a drop shipment authorization. To obtain an authorization, the mailer must submit a written request to the postmaster at the office where the mail will be entered (see DMM D072).

292.223 Permit Imprint

Mailers may use a permit imprint for mailings that contain identical weight pieces. Any of the permit imprints shown in Exhibit 152.3 are acceptable. The postage charges are computed on PS Form 3652 and deducted from the advance deposit account. Permit imprints must not denote Priority Mail, bulk mail, nonprofit, or other domestic or special rate mail. Mailers may use permit imprint with nonidentical weight pieces only if authorized to use postage mailing systems under DMM P710, P720, or P730.

292.3 Weight and Size Limits

See 243 for the weight and size limits for letter-post items sent in this service. Items may not weigh more than 4 pounds.

292.4 Preparation Requirements for Individual Items

292.41 Addressing

International Priority Airmail is subject to the addressing requirements contained in 122.

a. Exception: International Priority Airmail items destined for Canada must have the applicable alphanumeric postcode included in the delivery address. See 122.1k for the address formatting requirements that generally apply to mailpieces sent to Canada.

b. Exception: International Priority Airmail in direct country sacks (see 292.461) is not subject to the interline addressing requirement that is specified in 122.1d. At the sender's risk, the English translation of the destination post office or city name may be omitted from printed addresses that are in Russian, Greek, Arabic, Hebrew, Cyrillic, Japanese, or Chinese characters. An English translation of the country name (e.g., Japan) is still required on the individual mailpieces.

292.42 Marking

292.421 Airmail

The sender should mark “PAR AVION” or “AIR MAIL” on the address side of each piece. Use of bordered airmail envelopes is optional and may be used for items sent in this service if the envelope contains the “AIR MAIL” endorsement.

292.422 Packages

Items that might be mistaken for another class of mail because of their size, weight, or appearance should be marked “LETTER” on the address side.

292.43 Sealing

Any item sent in this service may be sealed at the option of the sender.

292.44 Packaging

All items must be placed in envelopes or prepared in package form.

292.45 Sortation Requirements for IPA

292.451 Worldwide Nonpresorted Mail

a. Working Packages. IPA mail paid at the nonpresorted rate must be made up into working packages. Letters and flats must be packaged separately, although nonidentical pieces may be commingled within each of these categories. Pieces that cannot be packaged because of their physical characteristics must be placed loose in the sack.

b. Facing of Nonpresorted Mail Within Package. All pieces in the working packages must be faced the same way.

292.452 Presorted Mail

a. Direct Country Packages. When there are 10 or more pieces or 1 pound or more of mail for the same country (except Great Britain), it must be made up into a country package. Great Britain requires a finer sortation. At the mailer's option, a finer breakdown by city or postal code may be made based on sortation information provided by the postal administration of the destination country.

b. Country Package Label.

(1) The label (facing slip) for country packages that contain 10 or more pieces to a specific country (except for Great Britain and Mexico) must be completed as follows:

Line 1: Foreign Exchange Office.

Line 2: Country of Destination.

Line 3: Mailer, Mailer Location.

Example:

1150 Vienna Flug
Austria
RBA Company Washington DC

(2) See Exhibit 284.522 for Direct Country Package Label and PS Tag 178, CN 35 Par Avion, for information.

Exhibit 292.452 Foreign Exchange Office and Country Rate Groups

[Exhibit not included, except rate groups. Formerly Exhibit 284.522.]

Country | IPA
Afghanistan | 8
Albania | 5
Algeria | 8
Andorra | 3
Angola | 8
Anguilla | 6
Antigua and Barbuda | 6
Argentina | 6
Armenia | 8
Aruba | 6
Ascension | 5
Australia | 4
Austria | 3
Azerbaijan | 8
Bahamas | 6
Bahrain | 8
Bangladesh | 8
Barbados | 6
Belarus | 5
Belgium | 3
Belize | 6
Benin | 8
Bermuda | 6
Bhutan | 8
Bolivia | 6
Bosnia-Herzegovina | 5
Botswana | 8
Brazil | 6
British Virgin Islands | 6
Brunei Darussalam | 7
Bulgaria | 5
Burkina Faso | 8
Burma (Myanmar) | 8
Burundi | 8
Cambodia | 7
Cameroon | 8
Canada | 1
Cape Verde | 8
Cayman | 6
Central African Republic | 8
Chad | 8
Chile | 6
China | 7
Colombia | 6
Comoros Islands | 8
Congo (Brazzaville), Republic of the | 8
Congo (Kinshasa), Democratic Republic of the | 8
Costa Rica | 6
Côte d'Ivoire (Ivory Coast) | 8
Croatia | 5
Cuba | 6
Cyprus | 8
Czech Republic | 5
Denmark | 3
Djibouti | 8
Dominica | 6
Dominican Republic | 6
Ecuador | 6
Egypt | 8
El Salvador | 6
Equatorial Guinea | 8
Eritrea | 8
Estonia | 5
Ethiopia | 8
Falkland Islands | 6
Faroe Islands | 5
Fiji | 7
Finland | 3
France (Includes Corsica & Monaco) | 3
French Guiana | 6
French Polynesia (Includes Tahiti) | 7
Gabon | 8
Gambia | 8
Georgia, Republic of | 8
Germany | 3
Ghana | 8
Gibraltar | 3
Great Britain and Northern Ireland | 3
Greece | 3
Greenland | 3
Grenada | 6
Guadeloupe | 6
Guatemala | 6
Guinea | 8
Guinea-Bissau | 8
Guyana | 6
Haiti | 6
Honduras | 6
Hong Kong | 7
Hungary | 5
Iceland | 3
India | 8
Indonesia (Includes East Timor) | 7
Iran | 8
Iraq | 8
Ireland | 3
Israel | 3
Italy | 3
Jamaica | 6
Japan | 4
Jordan | 8
Kazakhstan | 8
Kenya | 8
Kiribati | 7
Korea, Dem. People's Rep. of (North) | 7
Korea, Republic of (South) | 7
Kuwait | 8
Kyrgyzstan | 5
Laos | 7
Latvia | 5
Lebanon | 8
Lesotho | 8
Liberia | 8
Libya | 8
Liechtenstein | 3
Lithuania | 5
Luxembourg | 3
Macao | 5
Macedonia, Republic of | 5
Madagascar | 8
Malawi | 8
Malaysia | 7
Maldives | 8
Mali | 8
Malta | 8
Martinique | 6
Mauritania | 8
Mauritius | 8
Mexico | 2
Moldova | 8
Mongolia | 7
Montserrat | 6
Morocco | 8
Mozambique | 8
Namibia | 8
Nauru | 7
Nepal | 7
Netherlands | 3
Netherlands Antilles | 6
New Caledonia | 7
New Zealand | 4
Nicaragua | 6
Niger | 8
Nigeria | 8
Norway | 3
Oman | 8
Pakistan | 8
Panama | 6
Papua New Guinea | 7
Paraguay | 6
Peru | 6
Philippines | 7
Pitcairn Island | 7
Poland | 5
Portugal (Includes Azores & Madeira Islands) | 3
Qatar | 8
Reunion | 8
Romania | 5
Russia | 5
Rwanda | 8
Saint Christopher (St. Kitts) and Nevis | 6
Saint Helena | 8
Saint Lucia | 6
Saint Pierre & Miquelon | 6
Saint Vincent and the Grenadines | 6
San Marino | 3
Sao Tome and Principe | 5
Saudi Arabia | 8
Senegal | 8
Serbia-Montenegro (Yugoslavia) | 5
Seychelles | 8
Sierra Leone | 8
Singapore | 7
Slovak Republic (Slovakia) | 5
Slovenia | 5
Solomon Islands | 7
Somalia | 8
South Africa | 8
Spain (Includes Canary Islands) | 3
Sri Lanka | 8
Sudan | 8
Suriname | 6
Swaziland | 8
Sweden | 3
Switzerland | 3
Syria | 8
Taiwan | 7
Tajikistan | 8
Tanzania | 8
Thailand | 7
Togo | 8
Tonga | 7
Trinidad and Tobago | 6
Tristan da Cunha | 8
Tunisia | 8
Turkey | 5
Turkmenistan | 5
Turks and Caicos Islands | 6
Tuvalu | 7
Uganda | 8
Ukraine | 8
United Arab Emirates | 8
Uruguay | 6
Uzbekistan | 8
Vanuatu | 7
Vatican City | 3
Venezuela | 6
Vietnam | 7
Wallis and Futuna Islands | 7
Western Samoa | 7
Yemen | 8
Zambia | 8
Zimbabwe | 8

c. Country Packages to Great Britain. When there are 10 or more pieces or 1 pound or more per separation, International Priority Airmail to Great Britain must be sorted into packages in the following manner:

Separation | Exchange office (Line 1 bundle label)
LONDON CITY | LONDON TOWN.
SCOTLAND | GLASGOW FWD.
NORTHERN IRELAND | BELFAST FWD.
ALL OTHER GREAT BRITAIN | GREAT BRITAIN, GREAT BRITAIN.

Example:

LONDON TOWN
Great Britain
Mailer, Mailer Location

d. Facing of Pieces Within Country Package. All pieces in the country package must be faced in the same direction and a facing slip identifying the contents of the package must be placed on the address side of the top piece of each package in such a manner that it will not become separated from the package.

Note: The pressure-sensitive labels and optional endorsement lines used domestically for presort mail are prohibited for International Priority Airmail.

292.452 Physical Characteristics and Requirements for Packages

a. Thickness. Packages of letter-size mail should be no thicker than approximately a handful of mail (4 to 6 inches thick).

b. Securing Packages. Each package must be securely tied. Placing rubber bands around the length and then the girth is the preferred method of securing packages of letter-size mail. Plastic strapping placed around the length and then the girth is the preferred method of securing packages of flat-size mail.

c. Separation of Packages. Letter-size and flat-size mail must be packaged separately.

292.46 Sacking Requirements

292.461 Direct Country Sack (11 Pounds or More)

a. General. When there are 11 or more pounds of mail addressed to the same country (including Great Britain), the mail must be packaged and enclosed in blue international airmail sacks and labeled to the country with PS Tag 178, Airmail Bag Label LC (CN 35/AV 8) (white). All types of mail, including letter-size packages, flat-size packages, and loose items, can be commingled in the same sack for each destination and counted toward the 11-pound minimum.

b. Direct Country Sack Tags. Direct country sacks must be labeled with PS Tag 178. The tag is white and specially coded to route the mail to a specific country and airport of destination. The blocks on the tag for date, weight, and dispatch information must be completed by the Postal Service and may not be completed by the mailer. The mailer must complete the “To” block showing the destination country. PS Tag 115, International Priority Airmail, must also be affixed to the direct country sacks. PS Tag 115 is a “Day-Glo” pink tag that identifies the mail to ensure it receives priority handling. The mailer must designate on the back of PS Tag 115 the applicable rate group, using 1 (Canada), 2 (Mexico), 3, 4, 5, 6, 7, 8, or WW (Worldwide).

292.462 Mixed Direct Country Package Sacks

a. General. The direct country packages containing 10 or more pieces or 1 pound or more of mail destined to a specific country that cannot be made up in direct country sacks must be enclosed in orange Priority Mail sacks unless other equipment is specified by the acceptance office.

b. Mixed Direct Country Sack Label. The sack label must be completed as follows. (See Exhibit 292.462 for list of U.S. International Exchange Offices.)

Line 1: Appropriate U.S. Exchange Office and Routing Code

Line 2: Contents—DRX

Line 3: Mailer, Mailer Location

Example:

AMC SEATTLE WA 980
INT'L PRIORITY AIRMAIL—DRX
ABC STORE SEATTLE WA

Exhibit 292.462 Labeling of IPA Mail to USPS Exchange Offices

[Exhibit not included. Formerly Exhibit 284.622.]

292.463 Worldwide Nonpresort Mail Sacks

a. General. The working packages of mixed country mail and loose items must be enclosed in orange Priority Mail sacks unless other equipment is specified by the acceptance office. Nonpresorted letter-size mail may be presented in trays if authorized by the acceptance office.

Note: Working packages of mixed country mail cannot be enclosed in mixed direct country package sacks.

b. Worldwide Nonpresort Mail Sack Label. The sack label must be completed as follows:

Line 1: Appropriate U.S. Exchange Office and Routing Code

Line 2: Contents—WKG

Line 3: Mailer, Mailer Location

Example:

ISC MIAMI FL 33112 | INT'L PRIORITY AIRMAIL—WKG
ABC COMPANY MIAMI FL

See Exhibit 292.462 for list of U.S. International Exchange Offices.

292.464 Tags and Weight Maximum for Sacks

a. PS Tag 115 and PS Tag 178. All IPA sacks (direct country, mixed direct country package sacks, and worldwide nonpresort mail sacks) must be labeled with PS Tag 115, International Priority Airmail. PS Tag 115 is a “Day-Glo” pink tag that identifies IPA mail to ensure that it receives priority treatment. PS Tag 178 (see 292.461) is a dispatching tag to be used only for direct country sacks. PS Tag 178 is white and specially coded to route the mail to a specific country and airport of destination. The Postal Service must complete the blocks on the tag for date, weight, and dispatch information. The mailer must complete only the “To” block showing the destination country. Postal tags and sacks are available from the post office.

b. Sack Weight Maximum. The maximum weight of the sack and contents must not exceed 66 pounds.

292.465 Preparation Requirements for Canada

To qualify for the presort rates for Canada, a mailer must have at least 11 pounds of mail for Canada. This includes letter-size, flat-size, and package-size items even though such items are prepared in separate equipment. If the mailing contains less than 11 pounds of mail for Canada, or if the mailer chooses to do so, mail for Canada is included in the worldwide nonpresort rate mail with mail for other countries. Worldwide nonpresort mail for Canada is prepared in accordance with 292.463. The preparation requirements of presorted mail to Canada follow.

a. Letter-Size Mail and Flat-Size Mail. Letter-size items are prepared in letter trays, either half-size or full-size, depending on volume. Flat-size items are prepared in flat trays. All items must be faced in the same direction, and all trays must be full enough to keep the mail from mixing during transportation. Do not prepare the content of the tray in packages. The mailer must label each tray to show the destination in Canada and the dispatching U.S. international exchange office in the following format:

Line 1: Canadian Destination, U.S. Exchange Office Code

Line 2: Contents

Line 3: Mailer, Mailer Location

Example:

TORONTO ON FWD 11430
IPA
ABC COMPANY NEW YORK NY

In addition, the mailer must complete PS Tag 115, International Priority Airmail. Write “Canada” on the reverse and tape the tag to the tray sleeve. All trays must be banded.

b. Packages. Items that cannot be prepared in trays because of their size or shape must be placed loose in blue airmail sacks. Use PS Tag 115, International Priority Airmail, and label to either Toronto or Vancouver, as appropriate. Attach a completed PS Tag 178. See 292.461b.

Exhibit 292.465

Canadian Labeling Information [Exhibit not included. Formerly Exhibit 284.65.]

292.47 Customs Forms Requirements

See 123.

293 International Surface Air Lift (ISAL) Service

293.1 Definition

International Surface Air Lift (ISAL) is a bulk mailing system that provides fast, economical international delivery of letter-post items. The cost is lower than airmail and the service is much faster than surface mail. ISAL shipments are flown to the foreign destinations and entered into that country's surface or nonpriority mail system for delivery.

293.2 Qualifying Mail and Minimum Quantity Requirements

Letter-post mail as defined in 241 that meets all applicable mailing standards may be sent in this service. There is a minimum volume requirement of 50 pounds per mailing except for the Direct Shipment option, which requires a minimum 750 pounds to a single country destination. Mail is prepared as (1) direct country sacks when there are 11 pounds or more to a single country or required country separation; (2) mixed country package sacks when there are 10 or more pieces or at least 1 pound of mail to a single country, but less than 11 pounds; and (3) residual mail when there are fewer than 10 pieces or less than 1 pound of mail to a single country. Residual mail may not exceed 10 percent, by weight, of the mail presented in direct country sacks, M-bags, and mixed country package sacks. Qualifying residual mail is subject to the appropriate ISAL rate (Full Service, Direct Shipment, M-Bag, or Dropship ISC).

Note: A package is defined as 10 or more pieces of mail to the same country separation or 1 pound or more regardless of the number of pieces. Packages of letter-size pieces of mail should be no thicker than approximately a handful of mail (4 to 6 inches). Packages of flat-size mail may be thicker than 6 inches but must not weigh more than 11 pounds.

293.3 Service Options

293.31 Availability

ISAL service is available to the foreign countries listed in Exhibit 293.71 from all post offices where bulk mail is accepted and from the Drop Shipment ISCs listed in 293.32.

293.32 Drop Shipment ISAL International Service Centers

ISAL deposited at the following Drop Shipment ISAL ISCs qualify for the Drop Shipment ISC rates shown in 293.71:

New York:

JOHN F KENNEDY AIRPORT MAIL CTR, US POSTAL SERVICE, JOHN F KENNEDY INTERNATIONAL AIRPORT, BLDG 250, JAMAICA, NY 11430-9998

Florida:

MIAMI INTERNATIONAL SERVICE CTR*, US POSTAL SERVICE, 11690 NW 25TH ST, MIAMI, FL 33172-1702

MIAMI PROCESSING AND DISTRIBUTION CTR, US POSTAL SERVICE, 2200 NW 72ND AVE, MIAMI, FL 33152-9997

Texas:

DALLAS INTERNATIONAL SERVICE CTR, US POSTAL SERVICE, 15050 TRINITY BLVD, FORT WORTH, TX 76155-3203

Illinois:

CHICAGO OHARE INTERNATIONAL ANNEX, US POSTAL SERVICE, 514 EXPRESS CENTER DR, CHICAGO, IL 60688-9998

California:

SAN FRANCISCO ISC, US POSTAL SERVICE, 2650 BAYSHORE BLVD, DALY CITY, CA 94013-1631

WORLDWAY AIRPORT MAIL CTR, US POSTAL SERVICE, 21750 ARNOLD CENTER RD, CARSON, CA 90810-9998

Only plant-verified mail is transported to these facilities by the mailer.

293.4 Special Services

The special services described in chapter 3 are not available for items sent by ISAL.

293.5 Customs Documentation

See 123 for the requirements for customs forms.

293.6 Permits

Mailers depositing mail at a Drop Shipment ISC must maintain an advance deposit account at that city if postage is paid by advance deposit account.

293.7 Postage

293.71 Rates

Rate group | Per piece | Drop shipment per pound | Direct shipment per pound | Full service per pound | M-bag drop shipment | M-bag direct shipment | M-bag full service
1 (Canada) | $0.25 | $2.15 | $2.65 | $3.15 | $1.40 | $1.50 | $1.50
2 (Mexico) | 0.12 | 3.20 | 3.70 | 4.20 | 1.50 | 1.60 | 1.60
3 | 0.20 | 2.50 | 3.00 | 3.50 | 1.50 | 1.75 | 1.75
4 | 0.20 | 2.75 | 3.25 | 3.75 | 2.50 | 2.50 | 2.50
5 | 0.12 | 3.45 | 3.95 | 4.45 | 2.00 | 2.25 | 2.25
6 | 0.12 | 3.40 | 3.90 | 4.40 | 2.00 | 2.25 | 2.25
7 | 0.12 | 3.50 | 4.00 | 4.50 | 2.25 | 2.50 | 2.50
8 | 0.12 | 5.50 | 6.00 | 6.50 | 3.00 | 3.25 | 3.25

Exhibit 293.71 International Surface Air Lift Service Network Countries and Rates

[Exhibit not included except rate groups. Formerly Exhibit 246.71.]

Country | ISAL rate group
Albania | 5
Algeria | 8
Angola | 8
Argentina | 6
Armenia | 8
Aruba | 6
Australia | 4
Austria | 3
Bahrain | 8
Bangladesh | 8
Belgium | 3
Belize | 6
Benin | 8
Bolivia | 6
Brazil | 6
Bulgaria | 5
Burkina Faso | 8
Burundi | 8
Cameroon | 8
Canada | 1
Central African Republic | 8
Chile | 6
China | 7
Colombia | 6
Congo (Kinshasa), Democratic Republic of the | 8
Costa Rica | 6
Côte d'Ivoire (Ivory Coast) | 8
Cuba | 6
Czech Republic | 5
Denmark | 3
Dominican Republic | 6
Ecuador | 6
Egypt | 8
El Salvador | 6
Estonia | 5
Ethiopia | 8
Fiji | 7
Finland | 3
France (Includes Corsica & Monaco) | 3
French Guiana | 6
Gabon | 8
Germany | 3
Ghana | 8
Gibraltar | 3
Great Britain and Northern Ireland | 3
Greece | 3
Guatemala | 6
Guyana | 6
Haiti | 6
Honduras | 6
Hong Kong | 7
Hungary | 5
Iceland | 3
India | 8
Indonesia (Includes East Timor) | 7
Iran | 8
Ireland | 3
Israel | 3
Italy | 3
Jamaica | 6
Japan | 4
Jordan | 8
Kenya | 8
Korea, Republic of (South) | 7
Kuwait | 8
Lebanon | 8
Liechtenstein | 3
Lithuania | 5
Luxembourg | 3
Madagascar | 8
Malaysia | 7
Mali | 8
Mauritania | 8
Mauritius | 8
Mexico | 2
Morocco | 8
Mozambique | 8
Netherlands | 3
Netherlands Antilles | 6
New Zealand | 4
Nicaragua | 6
Niger | 8
Nigeria | 8
Norway | 3
Oman | 8
Pakistan | 8
Panama | 6
Papua New Guinea | 7
Paraguay | 6
Peru | 6
Philippines | 7
Poland | 5
Portugal (Includes Azores & Madeira Islands) | 3
Qatar | 8
Reunion | 8
Romania | 5
Russia | 5
Saudi Arabia | 8
Senegal | 8
Singapore | 7
South Africa | 8
Spain (Includes Canary Islands) | 3
Sri Lanka | 8
Sudan | 8
Suriname | 6
Sweden | 3
Switzerland | 3
Syria | 8
Taiwan | 7
Tanzania | 8
Thailand | 7
Togo | 8
Tonga | 7
Trinidad and Tobago | 6
Tunisia | 8
Turkey | 5
Uganda | 8
United Arab Emirates | 8
Uruguay | 6
Venezuela | 6
Yemen | 8
Zambia | 8
Zimbabwe | 8

293.72 Full Service Rates

ISAL mailings presented at any post office that accepts bulk mail, other than a Drop Shipment ISC listed in 293.32, and not eligible for the direct shipment rate, are paid at the full-service rates. Postage for regular ISAL is paid on a per-piece and a per-pound basis. M-bags are subject to the M-bag pound rate only.

293.73 Direct Shipment Rates

Mailers are eligible for the direct shipment rates from the acceptance post office (except Drop Shipment ISCs) when the Postal Service is able to arrange direct transportation from the origin office to the destination country. To qualify, mailers must present a minimum of 750 pounds to each destination country. Mailers must contact the post office of mailing at least 14 days before the first desired mailing date. A postal employee must complete PS Form 3655, International Surface Airlift (ISAL) Direct Shipment Option Advisement and Confirmation of Transactions, and fax it to the distribution network office (DNO) to obtain a contract for transportation. If the DNO cannot arrange direct transportation, the direct shipment rate does not apply. The Postal Service may cancel direct shipment rates and service when direct transportation is no longer available.

293.74 Drop Shipment ISC Rates

ISAL mailings transported by the mailer to the Dropship ISCs listed in 293.32 are eligible for the Drop Shipment ISC rate.

293.75 Volume Discount

293.751 General

Mailers who spend $2 million or more combined on ISAL and IPA in the preceding postal fiscal year may receive discounts off the rates shown in 293.71:

a. Over $2 million to $5 million: 5 percent discount.

b. Over $5 million to $10 million: 10 percent discount.

c. Over $10 million: 15 percent discount.

Mailers entitled to these discounts must place the full per-piece rate on each piece of mail if payment is by postage meter or mailer-precanceled stamps. The discount is calculated on the postage statement.

293.752 Qualifying for Volume Discounts

To qualify for volume discounts, mailers must apply in writing to:

MANAGER MARKETING AND SALES, INTERNATIONAL BUSINESS, US POSTAL SERVICE, 475 L'ENFANT PLZ SW, 370 IBU, WASHINGTON, DC 20260-6500.

The manager evaluates all requests and informs the mailer and the post office(s) of mailing whether discounts are approved and the level of discount. Mailers must supply the following information:

a. The postal fiscal year for the qualifying mail.

b. The permit number(s) and post office(s) where the permits are held.

c. The total revenue for the postal fiscal year.

d. The post office(s) where the discount is to be claimed.

The combined ISAL and IPA revenue is counted toward the discounts. The Postal Service will count as revenue to qualify for the volume discounts postage paid by only a permit holder. If a permit holder has more than one account, or accounts in several cities, then these revenues may be combined to qualify for discounts. Agents who prepare mail for the owner of the mail and mail paid by the owner's permit may not be included in the revenue to qualify for the discounts. Customers may be required to substantiate their request by providing copies of all mailing statements for the appropriate postal fiscal year. All decisions of the Manager, Mail Order are final.

293.76 Payment Methods

293.761 Postage Meter, Permit Imprint, or Precanceled Stamps

Postage must be paid by postage meter, permit imprint, or mailer-precanceled stamps. Postage is computed on PS Form 3650, Statement of Mailing—International Surface Air Lift. PS Form 3650 is required for all ISAL mailings.

293.762 Piece Rate

The applicable per-piece postage must be affixed to each piece (except M-bags, see 293.723) by meter or mailer-precanceled stamps, unless postage is paid by permit imprint. Mailers may use permit imprint only with identical weight pieces unless authorized under the postage mailing systems in DMM P710, P720, or P730. All of the permit imprints for printed matter shown in Exhibit 152.3 are acceptable.

293.763 Pound Rate

Postage for the pound rate portion must be paid either by meter stamp(s) attached to the finance copy of the postage statement or from the mailer's advance deposit account.

293.8 Weight and Size Limits

Any item sent by ISAL must conform to the weight and size limits for letter-post as described in 243.

293.9 Preparation Requirements

293.91 Addressing

International Surface Air Lift mail is subject to the addressing requirements contained in 122.

a. Exception: International Priority Airmail items destined for Canada must have the applicable alphanumeric post code included in the delivery address. See 122.1k for the address formatting requirements that generally apply to mailpieces sent to Canada.

b. Exception: International Surface Air Lift mail in direct country sacks (see 293.942a) is not subject to the interline addressing requirement that is specified in 122.1d. At the sender's risk, the English translation of the destination post office or city name may be omitted from printed addresses that are in Russian, Greek, Arabic, Hebrew, Cyrillic, Japanese, or Chinese characters. An English translation of the country name (e.g., Russia) is still required on the individual mailpieces.

293.92 Marking

For publishers' periodicals (Periodicals Mail), the imprint authorized under 244.211c(2) or 244.211c(3) may be used. Individual items paid by meter postage or mailer-precanceled stamps must be endorsed “International Surface Air Lift” or “ISAL.”

293.93 Sealing and Packaging

Any item sent in this service may be sealed at the option of the sender.

293.94 Makeup Requirements for ISAL

293.941 Packaging

The following guidelines apply:

a. General. All ISAL mail must be prepared in packages within sacks as appropriate. A package is defined as 10 or more pieces of mail to the same country or separation or 1 pound or more regardless of the number of pieces. Packages of letter-size mail pieces should be no thicker than approximately a handful of mail (4 to 6 inches). Packages of flat-size mail may be thicker than 6 inches but must not weigh more than 11 pounds. Packages and sacks must be prepared and labeled as described below. All mailpieces in a package must be “faced” in the same direction (i.e., arranged so that the addresses read in the same direction, with an address visible on the top piece). Pieces that cannot be bundled because of their physical characteristics may be placed loose in the sack.

b. Thickness. Packages of letter-size mail should be no thicker than approximately a handful of mail (4 to 6 inches). Packages of flat-size mail may be thicker than 6 inches but must not weigh more than 11 pounds. Each package must be securely tied. Placing rubber bands around the length and then the girth is the preferred method of securing packages of letter-size mail. Plastic strapping placed around the length and then the girth is the preferred method of securing packages of flat-size mail.

c. Direct Country Packages. When there are 10 or more pieces or 1 pound or more to the same country, then such pieces must be prepared as a direct country package. If there is less than 11 pounds of mail to the same country, then the direct country package must be labeled with a facing slip showing the destination country or country separation. The facing slip must be placed on the address side of the top piece of each package in such a manner that it will not become separated from the package. The pressure-sensitive labels and optional endorsement lines used domestically for presort mail are prohibited for International Surface Air Lift Mail.

d. Residual Packages. If there is not enough mail to prepare a direct country package (fewer than 10 pieces or less than 1 pound), the mail is considered residual mail. When there are fewer than 10 pieces to the same country, then such pieces should be combined in packages with other mail for countries within the same rate group that similarly have fewer than 10 pieces. Such mixed country packages must be labeled with a facing slip marked “Residual, Rate Group __.” The designated rate group (1, 2, 3, 4, 5, 6, 7, or 8) must be inserted as appropriate. The facing slip must be placed on the address side of the top piece of each package in such a manner that it will not become separated from the package. The pressure-sensitive labels and optional endorsement lines used domestically for presort mail are prohibited for International Surface Air Lift Mail.

Exception: The 10-piece criterion is when there are fewer than 10 pieces to the same country and those pieces weigh more than 11 pounds. Such mailpieces should be packaged together as a direct country package and placed in a direct country sack. Pieces that cannot be packaged because of their physical characteristics may be placed loose in the sack.

293.942 Sacking

Once packages of ISAL mail are prepared, the packages are then placed into one of three types of designated sacks:

a. Direct Country Sack. Prepare a direct country sack if there are at least 11 pounds of mail to the same country. The mail must be packaged and enclosed in a gray plastic ISAL sack and labeled to the country with PS Tag 155, Surface Airlift Mail. The maximum weight of a direct country sack must not exceed 66 pounds.

b. Mixed Country Package Sack. Prepare a mixed country package sack for those direct country packages where there is less than 11 pounds of mail to the same country. The mail must be packaged as direct country packages, identified with a facing slip showing the destination country or country separation, and enclosed in a green pouch labeled to the dropship ISAL service center. PS Tag 155 also must be attached to the sack. Prepare a mixed country package sack for each of the respective rate groups for which there is a direct country package and label as follows:

Rate group 1—AMC Kennedy—JFK 003

Rate group 2—AMC Miami 33159

Rate group 3—AMC Kennedy—JFK 003

Rate group 4—AMC San Francisco 941

Rate group 5—AMC Kennedy—JFK 003

Rate group 6—AMC Miami 33159

Rate group 7—AMC San Francisco 941

Rate group 8—AMC Kennedy—JFK 003

c. Residual Sack. Prepare a residual sack for those packages of mail that contain fewer than 10 pieces or less than 1 pound of mail to any one country (residual packages). The mail must be packaged as residual packages, appropriately identified with a facing slip, and enclosed in a green pouch labeled to the Drop Shipment ISAL service center. PS Tag 155 also must be attached to the sack. The mailer must prepare a residual sack for each of the respective rate groups for which there is a residual package and label it as follows:

Rate group 1—AMC Kennedy—JFK 003

Rate group 2—AMC Miami 33159

Rate group 3—AMC Kennedy—JFK 003

Rate group 4—AMC San Francisco 941

Rate group 5—AMC Kennedy—JFK 003

Rate group 6—AMC Miami 33159

Rate group 7—AMC San Francisco 941

Rate group 8—AMC Kennedy—JFK 003

293.943 Sack Labeling

Depending on the type of sack, labels are prepared as follows:

a. Direct Country Sack. For a direct country sack, use a gray plastic ISAL sack. Use PS Tag 155 to label each sack with the destination country's name. Mailers must complete four blocks on PS Tag 155:

(1) To (Pour) Block: Enter the name of the ISAL country foreign exchange office, its three-letter exchange office code, and the country's name. See Exhibit 293.71 for the name of the foreign exchange office and its three-letter exchange office code. As an example, for Ireland, this block will be as follows:

Dublin DUB Ireland

(2) Customer Permit No. Block: Enter permit number.

(3) Kg. Block: Enter the combined weight of the sack and its contents in kilograms (1 pound = 0.4536 kilogram).

(4) Date Block: Enter date as shown on PS Form 3650, Statement of Mailing—International Surface Air Lift. After completing the above items on PS Tag 155, attach it to the neck of the sack.

b. Mixed Country Package Sack. For a mixed country package sack, use a domestic green nylon pouch and label it to the appropriate Drop Shipment ISAL service center as follows:

Rate group 1—AMC Kennedy—JFK 003

Rate group 2—AMC Miami 33159

Rate group 3—AMC Kennedy—JFK 003

Rate group 4—AMC San Francisco 941

Rate group 5—AMC Kennedy—JFK 003

Rate group 6—AMC Miami 33159

Rate group 7—AMC San Francisco 941

Rate group 8—AMC Kennedy—JFK 003

Labels are prepared as follows:

Content:

Line 1: Drop Shipment ISAL Service Center

Line 2: ISAL DRX

Line 3: Mailer, Mailer Location

Example:

AMC KENNEDY—JFK 003
ISAL DRX
ABC COMPANY, NEW YORK, NY

For the mixed country package sack label, use Content Identification Number (CIN) 753.

In addition, use PS Tag 155 to label each sack with the appropriate Drop Shipment ISAL service center. Mailers must complete four blocks on PS Tag 155:

(1) To (Pour) Block: Enter the name of the Drop Shipment ISAL service center and rate group:

Rate group 1—AMC Kennedy—JFK 003

Rate group 2—AMC Miami 33159

Rate group 3—AMC Kennedy—JFK 003

Rate group 4—AMC San Francisco 941

Rate group 5—AMC Kennedy—JFK 003

Rate group 6—AMC Miami 33159

Rate group 7—AMC San Francisco 941

Rate group 8—AMC Kennedy—JFK 003

(2) Customer Permit No. Block: Enter your permit.

(3) Kg. Block: Enter the combined weight of the sack and its contents in kilograms (1 pound = 0.4536 kilogram).

(4) Date Block: Enter date as shown on PS Form 3650. After completing the above items on PS Tag 155, attach it to the sack.

c. Residual Sack. For a residual sack, use a domestic green nylon pouch and label it to the appropriate Drop Shipment ISAL service center as follows:

Rate group 1—AMC Kennedy—JFK 003

Rate group 2—AMC Miami 33159

Rate group 3—AMC Kennedy—JFK 003

Rate group 4—AMC San Francisco 941

Rate group 5—AMC Kennedy—JFK 003

Rate group 6—AMC Miami 33159

Rate group 7—AMC San Francisco 941

Rate group 8—AMC Kennedy—JFK 003

Labels are prepared as follows:

Content:

Line 1: Drop Shipment ISAL Service Center

Line 2: ISAL WKG

Line 3: Mailer, Mailer Location

Example:

AMC KENNEDY—JFK 003
ISAL WKG
ABC COMPANY, NEW YORK, NY

For the residual sack label, use CIN 754.

In addition, use PS Tag 155 to label each sack with the appropriate Drop Shipment ISAL service center. Mailers must complete three blocks on PS Tag 155:

(1) To (Pour) Block: Enter the name of the Drop Shipment ISAL service center and rate group:

Rate group 1—AMC Kennedy—JFK 003

Rate group 2—AMC Miami 33159

Rate group 3—AMC Kennedy—JFK 003

Rate group 4—AMC San Francisco 941

Rate group 5—AMC Kennedy—JFK 003

Rate group 6—AMC Miami 33159

Rate group 7—AMC San Francisco 941

Rate group 8—AMC Kennedy—JFK 003

(2) Customer Permit No. Block: Enter your 10-digit ISAL permit or customer identification number.

(3) Kg. Block: Enter the combined weight of the sack and its contents in kilograms (1 pound = 0.4536 kilogram).

(4) Date Block: Enter date as shown on PS Form 3650. After completing the above items on PS Tag 155, attach it to the sack.

293.944 Sack Separation

When presenting an ISAL shipment to the Postal Service, the mailer must physically separate the sacks of mail by type (direct, mixed, residual) and rate group (1, 2, 3, 4, etc.) at time of mailing.

293.945 Direct Sacks to One Addressee (M-Bags) for ISAL

M-bags may be sent in the ISAL service to all ISAL destination countries. Weight, makeup, sacking, and sorting requirements must conform to 260. PS Tag 158 must show the complete address of the addressee and the sender. PS Tags 155 and 158 must be attached securely to the neck of each sack. M-bags may not contain small packets.

293.95 Mailer Notification

Mailers who wish to mail shipments that weigh over 750 pounds but who are not eligible for direct shipment rates must notify the ISAL coordinator at the office of mailing at least 14 days before the planned date of mailing. Specific country information and weight per country must be provided. No prior notification is required for mailers with 750 pounds or less.

294 Publishers' Periodicals

294.1 Description

294.11 Definition

Publishers' periodicals are domestically approved Periodicals Mail publications. See DMM E211.

294.12 Eligibility

Publishers' periodicals may be mailed only by publishers and registered news agents. When mailed by individuals, this type of publication is subject to regular printed matter postage rates.

294.2 Postage

294.21 Rates

See Individual Country Listings for rates.

294.22 Special Rates

There are no unique international postage rates that specifically apply to either nonprofit organizations or to classroom publications. If otherwise qualified, those categories of senders may enter their mail at publishers' periodicals rates. See 294.62 for the conditions of mailing governing a postage rate discount for publishers or registered news agents who drop ship their mail at the New Jersey International and Bulk Mail Center (NJI&BMC).

294.23 Sample Copies

Complete sample copies may be mailed at the rates for publishers' periodicals, whether or not the number of such sample copies exceeds 10 percent of the subscriber copies.

294.24 Single Copies Mailed to Countries Other Than Canada

Single copies of publishers' periodicals addressed to all countries except Canada must be placed in wrappers or envelopes.

294.25 Single Copies Mailed to Canada

Single copies of publishers' periodicals may be entered without envelopes or wrappers, provided the mailing is sorted and packaged in the manner prescribed in 294.4. The exemption from the wrapper requirement is not applicable to copies addressed for delivery at Canadian overseas military post offices (CFPOs).

242.26 Payment of Postage

Postage on publishers' periodicals mailed by the publisher or by a registered news agent may be paid (1) by means of postage stamps or postage meter stamp, or (2) from deposits of money made with the postmaster by the publisher or news agent. When the postage is paid from money on deposit with the postmaster, the postage charges are computed on PS Form 3541-N, Postage Statement—Periodicals Nonprofit Rates, or on PS Form 3541-R, Postage Statement—Periodicals Regular and Science-of-Agriculture Rates, filed by the publisher or news agent and completed by the postmaster.

294.27 Postage on Mailings While Application Pending

Postage at the regular printed matter rates must be paid for mailings of publications on which an application for Periodicals Mail privileges is pending. When the application is approved, postage charges should be adjusted on reported mailings based on rates for publishers' periodicals and according to the general procedure provided in DMM E216.

294.28 Per Copy Rate of Postage

Postage at the per-copy rate must be charged on all individually addressed copies of publishers' periodicals. All copies reported on PS Forms 3541-N or 3541-R, whether addressed or unaddressed, are subject to a per-copy rate. If a publisher or registered news agent prefers, he or she may pay postage on unaddressed copies to be mailed in bulk packages by affixing the appropriate postage to the wrappers of the packages.

294.3 Weight and Size Limits

294.31 Weight Limit

The weight limit for individually addressed items is 4 pounds.

294.32 Size Limits

294.321 Envelopes and Packages

a. Minimum length and height: 5½ x 3½ inches.

b. Minimum depth (thickness): .007 inch.

c. Maximum length: 24 inches.

d. Maximum length, height, depth (thickness) combined: 36 inches.

294.322 Rolls

a. Minimum length: 4 inches.

b. Minimum length plus twice the diameter combined: 6¾ inches.

c. Maximum length: 36 inches.

d. Maximum length plus twice the diameter combined: 42 inches.

294.4 Makeup Requirements for Publishers' Periodicals

294.41 Sortation

Publishers' periodicals must be sorted into city and country packages as follows:

a. City packages must be prepared when six or more copies are addressed to the same city. Packages may be prepared by foreign alphanumeric postal codes. Each package must bear a facing slip showing the city and country of destination. Packages that destinate in Canada must be prepared using the Canadian postal codes that are specified in Exhibit 294.43a (standard entry) or Exhibit 294.43b (drop shipment at NJI&BMC). At the mailer's option, a finer presort based on Canadian postal codes may be used.

b. When six or more copies for the same country remain after the city packages are prepared, country packages must be prepared. Each country package must bear a facing slip showing the country of destination.

c. Copies remaining after city and country packages are prepared are residual copies. Residual copies must be packaged and bear a facing slip marked “MIXED WORKING FOREIGN.” The packages must be labeled to the appropriate international exchange office or, for Canadian-bound mail, a concentration center as instructed by the post office of mailing.

d. All pieces in a package must have the address side facing up. Each package must be securely banded or tied with rubber bands or string to withstand handling without breakage or damage and to prevent injury to postal personnel or damage to sorting equipment.

e. Single copies of publications addressed for delivery in Canada, which are not enclosed in wrappers or envelopes under 294.25, must be included in packages that are protected with cardboard, fiberboard, or other protective covering. The package label (facing slip) must bear these notations:

“OPEN AND DISTRIBUTE”

“Periodicals Mail Postage Paid At * * *”

or, as applicable,

“Periodicals Mail Postage Paid At * * * And Additional Mailing Offices.”

Note: Under DMM C200.12.3, the simplified endorsement “PERIODICALS MAIL” may be placed on the package label (facing slip) in lieu of either of the above.

294.42 Sacking and Labeling

294.421 Country Sacks and Labels (Except Canada)

Publishers' periodicals must be sacked and labeled when there are 11 pounds of mail to a particular country or country separation. All city and country packages must be included in the same country sack. See Exhibit 294.52 for separations, city, and routing ZIP Codes. Each sack must be labeled to show the destination, contents (“NEWS” or “PER”), and entry post office as follows:

Label color: Blue

Format:

Line 1: Destination exchange office code and routing ZIP Code for applicable USPS exchange office

Line 2: Contents (“NEWS” or “PER”) and “AO”

Line 3: City and state of post office of mailing and ZIP Code

Example:

TAN CHINA 945
PER AO
Alexandria VA 22315

Note: Two or more separations are required when publishers' periodicals are mailed to China, Great Britain, Japan, and Mexico (see Exhibit 294.42). For each of those four countries, the destination exchange office name is used along with the city code and the country name.

Example:

PEK BEIJING CHINA 945
PER AO
Alexandria VA 22315

294.422 Residual Sacks

After the required country sacks are prepared, the remaining city, country, and residual packages must be sacked and labeled to the international exchange office as directed by the entry post office. Each sack must be labeled as follows:

Label color: Pink

Format:

Line 1: International exchange office and routing ZIP Code for applicable USPS exchange office

Line 2: Contents (“NEWS” or “PER”), “AO” and “Mixed Working Foreign”

Line 3: City and state of post office of mailing and ZIP Code

Example:

FOREIGN CTR NJ 099
NEWS AO MIXED WORKING FOREIGN
ALEXANDRIA VA 22315

Note: See 294.62 for a sacking exception for residual mail that is applicable only to publishers or registered news agents who drop ship their mail at the New Jersey International and Bulk Mail Center (NJI&BMC).

Exhibit 294.42 Publishers' Periodicals—All Countries (Except Canada) Labeling and Routing Information

[Exhibit not included. Formerly Exhibit 244.52.]

294.43 Canadian Sacks

Sacks of publishers' periodicals for delivery in Canada must be sorted by the Canadian post code designations that are specified in Exhibit 294.43a (standard entry) or Exhibit 294.43b (drop shipment at NJI&BMC) and labeled in the following manner:

Label color: White or Terra-Cotta

Format:

Line 1: Name of destination office in Canada is left-justified; routing ZIP Code for applicable USPS exchange office is right-justified

Line 2: Content designation (i.e., “NEWS” or “PER”) followed by “AO”

Line 3: City, state, and ZIP Code of U.S. post office of mailing

Example:

OTTAWA ON FWD 099
PER AO
BETHESDA MD 20815

Residual mail for Canada is prepared under 294.422, except it is labeled to the local concentration center. See 294.62 for a sacking exception for residual mail that is only applicable to publishers or registered news agents who drop ship their mail at the New Jersey International and Bulk Mail Center (NJI&BMC).

Exhibit 294.43a Publishers' Periodicals—Canada Labeling and Routing Information (Standard Entry)

[Exhibit not included. Formerly Exhibit 244.53a.]

Exhibit 294.43b Publishers' Periodicals—Canada Labeling and Routing Information (Drop Shipment at NJI&BMC)

[Exhibit not included. Formerly Exhibit 244.53b.]

294.44 Physical Characteristics and Requirements for Sacks

Sacks must meet these requirements:

a. Maximum Weight. No more than 66 pounds of mail may be placed in any one sack. The weight of tying, wrapping, and packaging materials is included in determining the weight of the mail enclosed in a sack.

b. Sacks. Disposable gray plastic sacks are recommended, however, other appropriate equipment may be provided by the post office.

c. Labels. Handbook PO-423, Requisitioning Labels, contains instructions for ordering labels. Mailers may also preprint labels if they are of the colors specified and used by the Postal Service.

294.5 Customs Forms Required

Printed matter known to be dutiable in the country of destination must have a green customs label (PS Form 2976) affixed to the address side of the articles. (See 123 for detailed requirements for customs documentation.) This requirement is applicable to dutiable printed matter mailed in a direct sack (M-bags) (see 260).

294.6 Mailing Locations

294.61 Standard Entry

Surface mail that is entered at publishers' periodicals rates must be prepared in accordance with the provisions of 244.5 and tendered at a post office or other location that has been designated by the local postmaster.

294.62 Drop Shipment

A publisher or registered news agent who deposits publishers' periodicals directly at the New Jersey International & Bulk Mail Center (NJI&BMC), under a drop shipment authorization, is eligible for a $0.25 per pound postage rate discount, when the following conditions of entry are met:

a. The mailer must obtain a drop shipment authorization (PS Form 8125, Plant-Verified Drop Shipment (PVDS) Verification and Clearance) from the post office of original/additional entry, the business mail entry unit (BMEU), or the detached mail unit (DMU) where their mailing records are maintained.

b. The mailer must bring their sorted publishers' periodicals to the postal location referenced in 292.62a, where USPS acceptance employees will check the statement of mailing to ensure proper application of the $0.25 per pound drop ship discount; confirm funds availability; and verify compliance with the prescribed mail makeup requirements.

c. Publishers' periodicals that are to be drop shipped at the NJI&BMC are subject to the mail makeup requirements contained in 294.41 and 294.42, except as specified below.

Exception: A drop shipment customer who has fewer than 11 pounds of publishers' periodicals for a particular country or country separation is required to place those residual mailpieces into a country-specific “skin” sack rather than aggregating them into a mixed working foreign sack, as specified in 294.422. Residual bundles or packages that are placed into a skin sack are subject to the sorting, sacking, and labeling requirements for country sacks that are contained in 294.41 (except 294.41c) and 294.421, for all countries, except Canada, and in 294.43, for Canada only.

d. A publisher or agent who has a minimum of 250 pounds of mail for a single destination country may dispense with the use of sacks by placing the requisite presorted bundles or packages onto a strapped or shrink-wrapped pallet. To be admissible, a palletized load of discounted publishers' periodicals must conform to the mailing standards contained in DMM M041; adhere to the mail preparation requirements referenced in DMM M045, and be placarded (labeled) in accordance with the provisions of DMM M031.4.0.

e. Once the acceptance process is completed, the verified mailpieces and accompanying paperwork will be turned back to the publisher or agent who will transport the sacks or pallets to the NJI&BMC. Prior to bringing their mail to that postal facility, the publisher or agent must schedule a drop shipment appointment through the appropriate appointment control center as specified in DMM E652.3.4. The relevant statement of mailing and drop shipment authorization (i.e., PS Form 8125) must be presented at the time of entry.

f. Publishers' periodicals that are enclosed in direct sacks of printed matter to one addressee (M-bags) are not subject to the $0.25 per pound postage discount that is referenced in this section. See 245.222 for the postage payment procedures governing M-bags.

295 Books and Sheet Music

295.1 Description

295.11 Definition

This classification encompasses:

a. Books (including books issued to supplement other books) that have the following characteristics:

(1) Eight or more printed pages.

(2) Consist wholly of reading matter or scholarly bibliography, or reading matter with incidental blank spaces for notations.

(3) Contains no advertising matter other than incidental announcements of books, in the form of book pages, and other bound and loose enclosures that are permissible under the provisions of DMM E620.4.4. Advertising includes paid advertising and publishers' own advertising in display, classified, or editorial style.

b. Printed sheet music.

295.12 Minimum Quantity Requirements

To qualify for this service mailers must have a minimum of 50 pounds of mail or 200 pieces.

295.2 Postage

295.21 Rates

See Individual Country Listings for rates.

295.22 Postage Payment Methods

Nonidentical weight piece mailings must have the applicable postage affixed meter stamps. Identical-weight piece mailings may be paid by meter stamps, or permit imprint subject to certain standards. Mailers may use a permit imprint with nonidentical pieces only if authorized by the USPS under a Manifest Mailing System (MMS), as specified in DMM P710. All mailings are reported on PS Form 3651, Postage Statement—International Permit Imprint Mail.

295.3 Weight and Size Limits

295.31 Weight Limit

The weight limit for individually addressed items is 4 pounds.

295.32 Size Limits

295.321 Envelopes and Packages

a. Minimum length and height: 5½ × 3½ inches.

b. Minimum depth (thickness): .007 inch.

c. Maximum length: 24 inches.

d. Maximum length, height, depth (thickness) combined: 36 inches.

295.322 Rolls

a. Minimum length: 4 inches.

b. Minimum length plus twice the diameter combined: 6¾ inches.

c. Maximum length: 36 inches.

d. Maximum length plus twice the diameter combined: 42 inches.

295.4 Makeup Requirements for Publishers' Periodicals

295.41 Endorsements

The sender must endorse the address side “BOOKS” or “SHEET MUSIC” on all items containing books or sheet music and paid at those rates.

295.42 Sortation

Books and sheet music must be sorted into country packages as follows:

a. Country packages must be prepared when six or more copies are addressed to the same country. Packages may be prepared according to foreign alphanumeric postal codes. Each package must bear a facing slip showing the country of destination. Packages that destinate in Canada must be prepared using the Canadian postal codes that are specified in Exhibit 295.43. At the mailer's option, a finer presort based on Canadian postal codes may be used.

b. Copies remaining after country packages are prepared are residual copies. Residual copies must be packaged and bear a facing slip marked “MIXED WORKING FOREIGN.” The packages must be labeled to the appropriate international exchange office or, for Canada-bound mail, a concentration center as instructed by the post office of mailing.

c. All pieces in a package must have the address side facing up. Each package must be securely banded or tied with rubber bands or string to withstand handling without breakage or damage and to prevent injury to postal personnel or damage to sorting equipment.

295.43 Sacking and Labeling

295.431 Country Sacks and Labels (Except Canada)

Books and sheet music must be sacked and labeled when there are 11 pounds of mail to a particular country or country separation. All country packages must be included in the same country sack. See Exhibit 294.42 for separations, city, and routing ZIP Codes. Each sack must be labeled to show the destination, contents, and entry post office as follows:

Label color: Blue

Format:

Line 1: Destination exchange office code and country routing ZIP Code

Line 2: Contents “AO”

Line 3: City and state of post office of mailing and ZIP Code

Example:

TAN CHINA 945
AO
ALEXANDRIA VA 22315

Note: Two or more separations are required for mail to China, Great Britain, Japan, and Mexico (see Exhibit 295.42). For each of those four countries, the destination exchange office name is used along with the city code and the country name.

Example:

PEK BEIJING CHINA 945
AO
ALEXANDRIA VA 22315

295.432 Residual Sacks

After the required country sacks are prepared, residual packages must be sacked and labeled to the international exchange office as directed by the entry post office. Each sack must be labeled as follows:

Label color: Pink

Format:

Line 1: International exchange office and routing ZIP Code

Line 2: Contents “AO” and “Mixed Working Foreign”

Line 3: City and state of post office of mailing and ZIP Code

Example:

FOREIGN CTR NJ 099
AO MIXED WORKING FOREIGN
ALEXANDRIA VA 22315

Exhibit 295.432 Books and Sheet Music—All Countries (Except Canada) Labeling and Routing Information

[Exhibit not included. Same as former 244.52.]

295.44 Canadian Sacks

Sacks of books or sheet music for delivery in Canada must be sorted by the Canadian post code designations that are specified in Exhibit 295.43 and labeled in the following manner:

Label color: White or Terra-Cotta

Format:

Line 1: Name of destination office in Canada is left-justified; routing ZIP Code for applicable USPS exchange office is right-justified

Line 2: Content designation “AO”

Line 3: City, state, and ZIP Code of U.S. post office of mailing

Example:

OTTAWA ON FWD 099
AO
BETHESDA MD 20815

Residual mail for Canada is prepared under 295.422, except it is labeled to the local concentration center.

Exhibit 295.44 Publishers' Periodicals—Canada Labeling and Routing Information (Standard Entry)

[Exhibit not included. Same as former 244.53a.]

295.45 Physical Characteristics and Requirements for Sacks

Sacks must meet these requirements:

a. Maximum Weight. No more than 66 pounds of mail may be placed in any one sack. The weight of tying, wrapping, and packaging materials is included in determining the weight of the mail enclosed in a sack.

b. Sacks. Disposable gray plastic sacks are recommended; however, other appropriate equipment may be provided by the post office.

c. Labels. Handbook PO-423, Requisitioning Labels, contains instructions for ordering labels. Mailers may also preprint labels if they are of the colors specified and used by the Postal Service.

295.5 Customs Forms Required

Printed matter known to be dutiable in the country of destination must have a green customs label (PS Form 2976) affixed to the address side of the articles. (See 123 for detailed requirements for customs documentation.) This requirement is applicable to dutiable printed matter mailed in a direct sack (M-bags).

296 [Reserved]

297 International Customized Mail

297.1 Description

International Customized Mail (ICM) service is an international business mail service that is available only pursuant to an ICM service agreement between the Postal Service and a mailer meeting the requirements in 292. The Postal Service provides ICM service on a mailer-specific basis pursuant to the terms and conditions stipulated in a particular ICM service agreement.

297.2 Qualifying Mailers

To qualify for ICM service, a mailer must be capable, on an annualized basis, of either (1) tendering at least 1 million pounds of international mail to the Postal Service, or (2) paying at least $2 million in international postage to the Postal Service. The mailer must also be capable of tendering all of its ICM mail to the Postal Service.

297.3 ICM Service Agreements

Each ICM service agreement must set forth the following:

a. The term of the agreement, including any renewal options.

b. The type of mail to be tendered by the mailer.

c. The destination country or countries.

d. The services to be provided by the Postal Service, including any speed-of-delivery targets.

e. Minimum volume commitments for each service.

f. Postage and method of payment.

g. Weight and size limits.

h. Preparation requirements.

i. Makeup requirements.

j. Any other obligations of either party.

k. The location from which the mailer is required to tender its items to the Postal Service.

297.4 Postal Bulletin Notifications

Within 30 days of entering into an ICM service agreement, the Postal Service must publish the following information about the agreement in the Postal Bulletin:

a. The term of the agreement, including any renewal options.

b. The type of mail involved.

c. The destination country or countries.

d. A brief description of each of the services to be provided by the Postal Service.

e. Minimum volume commitments for each service.

f. A brief description of any worksharing to be performed by the mailer.

g. The agreed-upon rate for each service at the volume level committed to by the mailer.

3 Special Services

310 Certificate of Mailing

* * * * *

312 Availability

Customers can purchase a certificate of mailing when they send unregistered letter-post, post/postal cards, matter for the blind, and uninsured parcel post or require a duplicate of an original certificate that pertained to a previously mailed item. A certificate of mailing cannot be obtained in combination with registered mail, insured parcel post, recorded delivery, or bulk mailings of 200 pieces or more that bear a permit imprint.

* * * * *

313 Fees

313.1 Individual Pieces

The fee for certificates of mailing for ordinary letter-post and ordinary parcel post is $0.75 per piece, whether the item is listed individually on PS Form 3817, Certificate of Mailing, or on firm mailing bills. Additional copies of PS Form 3817 or firm mailing bills are available for $0.75 per page. PS Form 3877, Firm Mailing Book for Accountable Mail, or forms printed at the mailer's expense may be used for certificates of three or more pieces of mail of any class presented at one time. If mailer-printed forms are used instead of PS Form 3877, these forms must contain, at a minimum, the same information as PS Form 3877. The fee is $0.25 per article.

313.2 Bulk Pieces

Identical pieces of ordinary letter-post mail that are paid for with regular postage stamps, precanceled stamps, or meter stamps are subject to the following certificate of mailing fees:

Up to 1,000 pieces | $3.50
Each additional 1,000 pieces or fraction | .40
Duplicate copy | .75

* * * * *

320 Insurance

* * * * *

322 Availability

Insurance is available only for parcel post and only to certain countries. See Individual Country Listings. Insurance is not available for letter-post items.

* * * * *

330 Registered Mail

* * * * *

332 Availability

Customers can purchase registered mail service when they send letter-post, post/postal cards, and matter for the blind. Registered mail service is not available in combination with parcel post or M-bags to one addressee. See Individual Country Listings for country-specific prohibitions and restrictions on registered mail service usage.

333 Fees and Indemnity Limits

333.1 Registration Fees

The registry fee for all countries is $7.25.

Exception: See the Individual Country Listing for Canada.

* * * * *

334 Processing Requests

* * * * *

334.2 Marking

The accepting clerk must enter the following endorsements and special markings on each registered item:

a. Affix Label 200 as noted above. All registered mail of U.S. origin must bear a Label 200.

[Items b and c are unchanged.]

* * * * *

334.3 Postmarking

334.31 Placement

Postmark registered items twice on the back, on the crossing of the upper and lower flaps. If return receipts are used, postmark partially on the receipt and partially on the flaps of the letter. Items sealed on the address side must be postmarked on the address side.

* * * * *

334.33 Registered Printed Matter or Small Packets

[Delete.]

334.4 Sealing

334.41 Sender's Responsibility

Senders must securely seal letter-post items presented for registration. * * *

* * * * *

334.43 Registered Printed Matter or Small Packets

[Delete.]

* * * * *

340 Return Receipt

* * * * *

343 Fee

The fee for a return receipt is $1.50, and must be paid in addition to postage and other applicable charges. ***

* * * * *

350 Restricted Delivery

* * * * *

353 Fee

Fee is $3.20 and is in addition to postage and other applicable fees.

* * * * *

[Delete 360, 370, and 380. Renumber 385 as 360.]

360 Recorded Delivery

* * * * *

362 Availability

Recorded delivery service is available in conjunction with the mailing of letter-post items, post/postal cards, aerogrammes, matter for the blind, and M-bags. Recorded delivery is not available to all countries. See the Individual Country Listing.

363 Recorded Delivery Fee

The recorded delivery fee is $2.10 and is in addition to postage and other special service fees, if applicable.

* * * * *

[Renumber 390, Supplemental Services, as 370.]

370 Supplemental Services

* * * * *

371 International Money Orders

* * * * *

371.3 Fees

There are two fees for international money orders:

a. The fee for money orders payable in countries that accept the pink International Postal Money Order Form (MP1) is $3.25 per money order. * * *

[Item b is unchanged.]

* * * * *

372 International Reply Coupons

* * * * *

372.3 Selling Price and Rate of Exchange

a. The selling price of a reply coupon in the United States is $1.75. * * *

b. International reply coupons purchased in foreign countries are exchangeable at U.S. post offices toward the purchase of postage stamps, postage meter stamps, postage validation imprinter (PVI) labels, and embossed stamped envelopes (including aerogrammes) at the rate of $0.80 per coupon, irrespective of the country where they were purchased.

* * * * *

373 International Business Reply Service

* * * * *

373.4 Fees

The fees for IBRS are as follows:

a. Envelopes up to 2 ounces: $1.20.

b. Cards: $0.80.

Note: The fee for each returned IBRS envelope and card includes the per piece charge that is applied to domestic business reply and subject to QBRM accounting procedures. It is not necessary for the sender to obtain a separate international business reply permit to have IBRS items processed through their advance deposit account.

* * * * *

4 Treatment of Outbound Mail

* * * * *

420 Shortpaid and Unpaid Mail

* * * * *

422.2 No Return Address

422.21 Letter-Post and Postcards

Unpaid letter-post and postcards with no return address must be forwarded to the appropriate exchange office. * * *

* * * * *

423 Shortpaid Mail

423.2 Exceptions

* * * * *

423.21 Letter-Post and Postcards

Shortpaid letter-post and postcards with no return address must be forwarded to the exchange office. Imprint with stock rubber stamp R-1300-4, Postage Due . . . Cents. Do not enter the amount of the deficiency.

Exception: For shortpaid letter-post and postcards to Canada having no return address, enter double the amount of the deficiency.

423.22 Printed matter and Small Packets

[Delete.]

423.23 Parcels

[Renumber as 423.22.]

423.24 Express Mail International Service Shipments

[Renumber as 423.23.]

* * * * *

430 Improperly Prepared Mail

* * * * *

433 Oversized Cards

Return oversized cards (those exceeding 9¼ × 4¾) to the sender. If the sender is unknown, dispatch cards to the exchange office.

434 Reply-Paid Cards

a. Reply-paid cards, except International Business Reply items, are not accepted as international mail.

[Item b is unchanged.]

* * * * *

440 Special Services Mail

* * * * *

442 Special Delivery

[Delete.]

* * * * *

443 Special Handling

[Delete.]

* * * * *

5 Nonpostal Export Regulations

* * * * *

550 Dried Whole Eggs

* * * * *

552 Charges

A charge of $0.75 will be made for each certificate of mailing, or for each package if a single certificate covers more than one package. * * *

* * * * *

560 Tobacco Seeds and Tobacco Plants

* * * * *

562 Charges

A charge of $0.75 will be made for each permit presented by the sender and for each package when a single permit covers more than one package. * * *

* * * * *

6 Special Programs

* * * * *

[Delete 620. Renumber 630 as 620.]

620 Postal Qualified Wholesaler Program

* * * * *

7 Treatment of Inbound Mail

711 Customs Examination of Mail Believed to Contain Dutiable or Prohibited Articles

* * * * *

711.3 Examination of Registered Mail and Sealed Letters

The postmaster or other designated employee must be present when registered mail and sealed letters (except unregistered sealed letter mail bearing a green customs label) are opened by customs officers for examination. After customs treatment, the customs officer will repack and reseal the mail.

* * * * *

712 Customs Clearance and Delivery Fee

* * * * *

712.3 Amount of USPS Fee

The USPS fee for customs clearance and delivery for each dutiable item is $4.50.

* * * * *

713 Treatment of Dutiable Mail at Delivery Office

* * * * *

713.4 Payment of Duty

* * * * *

713.43 Registration of Items to Be Returned to the United States

* * * * *

713.432 Certification by Postal Service Personnel

[In item c, change “$0.50” to “$0.75.”]

* * * * *

730 Shortpaid Mail to the United States

731 Computation of Postage Due

a. [Unchanged.]

b. [Change “$0.42” to “$0.45.”]

c. [Unchanged.]

d. [Unchanged.]

* * * * *

740 Irregular Mail

* * * * *

[Delete 742. Renumber 743, 744, and 745 as 742, 743, and 744 respectively.]

742 Stamps Not Affixed

* * * * *

750 Special Services

* * * * *

[Delete 755 and 756. Renumber 757 as 755.]

755 Recorded Delivery

* * * * *

[Delete 760. Renumber 770 through 790 as 760 through 780, respectively.]

760 Forwarding

* * * * *

762 Mail of Domestic Origin

* * * * *

762.2 Undeliverable Domestic Mail Bearing U.S. Postage and a Foreign Return Address

a. [Unchanged.]

b. [Unchanged.]

c. [Change “letter class” to “First-Class.”]

d. [Unchanged.]

* * * * *

770 Undeliverable Mail

* * * * *

771 Mail of Domestic Origin

* * * * *

771.5 Return Charges for Letter-Post Mail

The following charges must be collected from the sender for mail returned to the United States by foreign postal services:

a. The return charge paid by publishers or registered news agents who originally mailed publishers' periodicals to Canada is the same as the economy (surface) letter-post postage rate for an item of the same weight mailed from the United States to Canada. The airmail letter-post rate may be used if it is less than the economy letter-post rate. See Individual Country Listings for fees.

b. [Unchanged.]

c. [Unchanged.]

d. For economy letter-post the return charge is the same as economy (surface) letter-post postage rate for an item of the same weight mailed from the United States to the original country of destination. The airmail letter-post rate may be used if it is less than the economy letter-post rate. See the Individual County Listings for fees.

e. [Unchanged.]

* * * * *

772 Mail of Foreign Origin

772.1 Marking

* * * * *

772.14 Method of Return

Undeliverable airmail letters and cards and all letter-post items marked “PRIORITY” are returned to origin by air. All parcels and other items are returned by surface. Any “AIRMAIL” or “PAR AVION” endorsements or label must be obliterated on undeliverable items returned by surface.

* * * * *

772.4 Storage Charges

[Delete.]

* * * * *

9 Inquiries, Indemnities, and Refunds

* * * * *

920 Inquiries and Claims

* * * * *

922 Filing of Inquiries

922.1 Time Limits

Inquiries concerning letter-post mail and parcel post are accepted within six months from the day following the date of mailing.

* * * * *

928 Processing Inquiries

* * * * *

928.2 Mail Exchanged With Countries Other Than Canada

928.21 Forms Used

928.211 PS Form 542, Inquiry About a Registered Article or an Insured Parcel or an Ordinary Parcel

* * * * *

d. The loss, rifling, damage, or delay of outbound or inbound ordinary letter-post mail.

* * * * *

928.3 Mail Exchanged With Canada

* * * * *

928.35 Recorded Delivery Service

For inquiries related to the loss, total damage, or rifling of letter-post and matter for the blind items for which the recorded delivery fee has been paid:

* * * * *

940 Postage Refunds

941 Postage Refunds for Letter-Post and Parcel Post

941.1 General

A refund may be made when postage, special service fees, or other charges have been paid on letter-post and parcel post items:

* * * * *

Stanley F. Mires,
Chief Counsel, Legislative.

[FR Doc. 00-24274 Filed 9-25-00; 8:45 am]

BILLING CODE 7710-12-U